DEPARTMENT OF HOUSING AND URBAN DEVELOPMENT

[Docket No. FR-5526-N-02]

Public Housing Assessment System (PHAS): Physical Condition Scoring Notice and Revised Dictionary of Deficiency Definitions

AGENCY: Office of the Assistant Secretary for Public and Indian Housing, HUD.

ACTION: Final Notice.

SUMMARY: This notice provides additional information to public housing agencies (PHAs) and members of the public about HUD's process for issuing scores under the Physical Condition Indicator of the PHAS under the PHAS Physical Condition Scoring Process notice published on February 23, 2011. In addition, this notice makes changes to the Dictionary of Deficiency Definitions (Dictionary). This notice follows a notice for comment that was published on October 13, 2011, and makes additional changes to the Dictionary as a result of public comments. Because some of these changes to the Dictionary affect the Item Weights and Criticality Levels for the inspectable items for which changes have been made, this notice republishes the entire Item Weights and Criticality Levels table as well as the entire Dictionary as Appendices.

The process for issuing scores and the changes in this notice apply to the physical condition inspection process for both multifamily and public housing properties.

DATES: Effective Dates: For public housing properties, this notice is effective September 10, 2012, and will be applicable to PHAs with fiscal years ending on December 31, 2012, and thereafter. For multifamily housing properties assisted with project-based Section 8 that is attached to the structure, section 202 and section 811 capital advances and loans for supportive housing for the elderly and persons with disabilities, and for multifamily housing properties with mortgages insured or held by HUD or that are receiving insurance from HUD, as listed at 24 CFR 200.853(b), this notice is effective for all inspections conducted on January 1, 2013 and thereafter.

FOR FURTHER INFORMATION CONTACT: Claudia J. Yarus, Department of Housing and Urban Development, Office of Public and Indian Housing, Real Estate Assessment Center (REAC), 550 12th Street SW., Suite 100, Washington, DC 20410 at 202-475-8830 (this is not a toll-free number). Persons with hearing or speech impairments may access this number through TTY by calling the toll-free Federal Relay Service at 800-877-8339.

SUPPLEMENTARY INFORMATION:

I. The October 13, 2011 Notice for Comment

On October 13, 2011 (76 FR 63640), HUD published for public comment a notice revising the scoring protocol for the PHAS physical condition indicator and making changes to the Dictionary of Deficiency Definitions. The major revision was the addition of a point loss cap, which limits the amount by which a single deficiency in an inspectable area could reduce the overall property score, in response to complaints by PHAs that there were situations where the reduction from a single deficiency was so severe as to be unfair. Inspectable areas include site, building exterior, building system, common areas, and dwelling units. Under the point loss cap proposed for comment, the maximum point deduction for single deficiencies for the site is 7.5 points; for the building exterior, building system, and common areas, 10 points each; and for dwelling units, 5 points. Conforming changes proposed to implement the point loss cap are described in the October 13, 2011, notice; see 76 FR 63641.

In addition to the point loss cap, changes were proposed to the inspection software and to the Dictionary of Deficiency definitions. The core functionality of the inspection software has been modified to improve data collection. It employs a decision tree model that replaces the selection-based model of recording observed deficiencies. The inspection protocol remains unchanged, but the overall system will include the changes made to the Dictionary of Deficiency Definitions and the inclusion of a point loss cap determined at the inspectable area level.

In the notice for comment, the Dictionary of Deficiencies was proposed to be changed to introduce clarifications. Technical modifications and clarifications were made to a number of deficiencies under inspectable items, including building exterior, building systems, common areas, units, site, and health and safety. The specific changes proposed are found at 76 FR 63648-63654 (October 13, 2011).

II. This Final Notice

This final PHAS Indicator #1 (physical condition) scoring notice, except for the technical and conforming changes to the Dictionary stated in the responses to public comments, is the same as the proposed notice published for comment on October 13, 2011 (76 FR 63640), including the point loss cap.

Changes are made to the Dictionary. The proposed change to building exterior/windows, missing/deteriorated caulk, seals, glazing compound requires conforming changes to two other deficiencies regarding windows. In the deficiency for units, kitchen, range Hood/Exhaust Fans, Excessive Grease/Inoperable, which applies to both common areas and units, this final notice, pursuant to public comment, removes the note referencing this deficiency as a health and safety hazard. In response to a comment raising a possible inconsistency in terminology, the “site, fencing, and gates” deficiency and the “common area, pools, and related structures” deficiency are now both referenced as “pools and related structures (common areas).” The deficiencies for fences in this final notice are for “non-security/non-safety fences” and “security/safety fences.” In the deficiency for site, grounds, ponding and site drainage, the severity level 2 and 3 definitions are revised to state (for level 2) “at least 100 square feet” and (for level three) “over 100 square feet.” In the deficiency for site, parking lots/driveways/roads, damaged paving, pursuant to a public comment, this final notice adds a note clarifying that repaired or sealed cracks are not considered a deficiency. Likewise, this final notice adds a similar note to the definition for damaged walls in common areas and in units.

In the definition related to common areas, ceiling, mold, this final notice revises the definition to read “You see mold or mildew that may have been caused by saturation or surface failure, or evidence of water infiltration or other moisture producing conditions,” and the title of the definition is revised to conform. Similar deficiency definitions for common areas walls and floors and unit ceiling, walls, and floors are revised to conform.

The deficiency definitions regarding soft and hard floor coverings in dwelling units are revised in this final notice to conform to the proposed definitions for floor coverings in common areas. Also, pursuant to a public comment, in the deficiency for common areas, floors, rot/deteriorated subfloor, the comment on level 3 is revised to be consistent with other similar notes instructing the inspector to notify the PHA of possible failure of the item and recommend an engineering inspection.

Because the conforming amendments occur throughout the Dictionary, the entire Dictionary is republished as Appendix 2 to this notice. Appendix 1 is the revised Item Weights and Criticality Levels table with the changes that correspond to the changes in the Definitions.

III. The Public Comments

The public comment period for the October 13, 2011 notice closed on November 14, 2011. By the close of the public comment period, HUD received comments from 8 commenters. Commenters included public housing agencies (PHAs) and trade associations involved in public housing and real estate. Two of the commenters, in addition to their comments on this notice, re-submitted comments that were originally submitted in 2004 in response to an earlier proposed revision of the Dictionary of Deficiency Definitions (see 69 FR 12475 et seq., March 16, 2004). These comments are indicated by “(2004)” after the comment.

A summary of the significant issues raised in the public comments, and HUD's responses, follows.

A. Physical Inspections

Issue: Physical inspections generally. A commenter stated that the physical condition scoring process is complicated and expensive to implement and does not adequately measure the condition of public housing properties or the management of the PHA. This commenter stated that the process is too complicated with overly rigid rules, and HUD should focus on adjustments that streamline and simplify the system based on a risk management approach.

HUD Response: HUD disagrees that the process is too complicated and rigid. The Uniform Physical Condition Standards (UPCS) inspection protocol was designed to be a uniform inspection process and standard for HUD's portfolio of assisted and insured housing through equitable, fair and accurate assessments. Both the applicable multifamily and public housing regulations employ a risk based approach with respect to the frequency of inspections based on the results the UPCS inspection. UPCS was designed to assess the condition of the housing (i.e., decent, safe and sanitary and in good repair). Efficacy of management operations is assessed and measured under separately protocols under a separate PHAS indicator and under the Office of Housing (HUD form 9834 Management Review).

Another commenter stated that HUD should ensure that the changes are consistent with the Administration's efforts to streamline rental housing programs through reducing physical inspections. According to the commenter, in July 2011, the White House released an alignment report that provided a number of suggestions from industry stakeholders for reducing the number of annual inspections of multifamily properties receiving multiple federal subsidies. The commenter stated that many of these housing programs have a variety of physical inspection requirements, resulting in multiple inspections of a single property annually. According to the commenter, the report suggested expanding use of REAC use of all Uniform Physical Condition Standards (UPCS) for all inspections on federally-assisted properties or adjusting REAC's input methods to allow for non-REAC inspections to be `read' into the system in order to create a system for standardized comparison. On November 7, the White House announced it was moving forward with a pilot program to reduce physical inspections for federally-assisted, privately-owned multifamily properties in the states of Wisconsin, Michigan, Washington, Minnesota, Oregon and Ohio. A commenter asked HUD to collaborate with the Departments of Agriculture (USDA) and Treasury to ensure consistency among the physical inspection methodologies and protocols for mixed-financed properties in the pilot program and any subsequent national program.

HUD Response: HUD agrees with the focus on streamlining the physical inspection protocol for all federally assisted housing programs. HUD is working to pursue the alignment of the physical inspection process across agencies as part of the Interagency Rental Policy Working Group which is the main source of information going to and from the White House. This group, represented by numerous Federal Agencies including the Departments of Agriculture (USDA) and Treasury, seeks alignment of administrative requirements of federal housing programs to reduce administrative burden and to avoid unnecessary governmental cost. HUD can confirm that inspections have begun in some of the states above with the inspections of the other states being scheduled. To ensure consistency in the inspection process, HUD has suggested to the working group that the UPCS inspection protocol should be used for all inspections on federally-assisted properties in its current format, or at least, investigate minor adjustments to the UPCS software while seeking methods to allow for non-REAC inspections to be reported and recorded into REAC's database. HUD is committed to continue this alignment effort after the final results, analysis and report is sent to the White House.

Issue: Inconsistent inspections. A commenter submitted an example where a PHA spent $20 million on a comprehensive modernization, yet “the property received an almost failing score due to the incompetency of the inspector.” This commenter stated that results are influenced unreasonably because of intimidation of HUD Quality Assurance inspectors during random inspections.

HUD Response: Each inspection is based on the observations at the time it is conducted and thus it is always a possibility that improvements may not be in place or items not functioning at that time. Because inspectors are to record all observed deficiencies, whether or not a HUD Quality Assurance (QA) inspector is on site during an inspection, in accordance with the UPCS inspection protocol, the inspector must call out and record all deficiencies observed in the five inspectable areas. If a multifamily owner/PHA feels that a deficiency the inspector called out and cited does not exist, the multifamily owner/PHA should document and submit a request for a technical review as provided in 24 CFR 902.68 for public housing and 24 CFR 200.857(d) for multifamily housing, or request for a database adjustment as provided in 24 CFR 902.24 for public housing and 24 CFR 200.857(e) for multifamily housing.

With respect to the QA inspectors, they are on site to ensure that the inspection is complete and valid and that the contract inspector conducts the inspection in accordance with the UPCS protocol. Should a property feel that a QA inspector exhibited undue pressure during the course of an inspection, HUD advises the multifamily owner/PHA to contact the Physical Inspection QA Manager.

Issue: A commenter stated that a major concern is lack of consistency and fairness by the contracted inspectors, where some inspectors seem to be knowledgeable and interested in performing a true assessment of the physical condition of the PHA, while others have poor attitudes, lack professionalism, and questionable abilities to perform the inspections. This commenter also stated that inspectors do not appear to have a consistent set of guidelines and are often “guided by personal and subjective” preferences. This commenter claims that each time a PHAS inspection is carried out the inspector concentrates on “a new deficiency of the day.” The inspection process must be fair and consistent, as the physical inspection has the largest influence on the overall PHAS score.

HUD Response: Over the past 12 years, HUD has invested significant resources to assure consistent application of established standards, including a team of HUD “quality assurance” inspectors. While always striving to continue to improve the accuracy of its inspections, HUD believes that the inspection process provides a reasonable indication of the physical condition at the time of inspection of each project. Of course, conditions can vary from year to year.

As such, HUD trains all UPCS inspectors. Only those individuals who meet specific knowledge and experience requirements to be UPCS inspectors participate in the UPCS training. The UPCS training which currently consists of classroom and written testing followed by field testing of actual inspections is being updated in 2012 to include a preliminary on line component. In 2012 HUD also will utilize the Internet to deliver training and provide update to inspectors using webcasts, Skype and Live Meeting. Through these training methods, participants will be able to ask questions that can be addressed immediately.

The Data Collection Device (DCD) 4.0 inspection software being released with this Notice is yet another way for HUD to achieve even greater consistency between inspectors and inspections. The 4.0 software enhances objectivity because it is uses a “decision tree” model. Based on answers to questions, the software guides the inspector in recording the level of the observed deficiency.

HUD asks multifamily owners/PHAs that have concerns about an inspector's ability to contact the REAC Technical Assistance Center at 1-888-245-4860.

Issue: A commenter stated that the reduced inspection frequency for high-scoring properties creates a perverse incentive for inspectors to note additional deficiencies and elevate severity levels to maintain demand for their services. This commenter stated that it “has received several reports of irregularities in the baseline inspection process” supporting this concern, and suggests changes in inspector oversight and the inspection protocol.

HUD Response: HUD disagrees that the frequency of inspections influences the number and severity level of deficiencies that inspectors cite. HUD review of thousands of physical inspection reports does not find this issue to be present. The size of the assisted and insured property portfolio subject to UPCS inspection is large enough that there is no incentive for inspectors to cite deficiencies to ensure their continued service. Nonetheless, if a multifamily owner/PHA has a specific basis for concern about an inspector or inspection they have the option to contact the REAC Technical Assistance Center (TAC) at 1-888-245-4860. All such calls are referred to the Inspector Administration Division that investigates the reported concern.

Issue: Improper focus. A commenter stated that the UPCS inspection criteria do not line up well with the priorities of residents. The criteria force PHAs to spend significant time and resources to correct deficiencies found in inspections, at the expense of other enhancements that would improve quality of life for residents. By demanding a focus on individual deficiencies, UPCS scoring creates a barrier to allowing PHAs to pursue a more holistic approach. For example, by emphasizing fogged window panes, bent fences, and other items that do not present a health and safety risk, UPCS scores divert attention from larger-scale improvements like unit reconfigurations, replacement of obsolete but functional fixtures, and other efforts that improve overall livability.

HUD Response: HUD disagrees that the scoring is a barrier to multifamily owners/PHAs pursuing a holistic approach to property management. The UPCS is comprehensive in scope, assessing the overall physical condition of the entire property. HUD defers to multifamily owners/PHAs on the amenities and resident priorities they wish to provide and pursue. Maintaining decent safe and sanitary housing that is in good repair is not inconsistent with developing and implementing modernization projects and capital improvement plans that contribute to livability.

Issue: Suggestions for improving inspections. A commenter stated that inspectors should be required to provide documentation and evidence of all deficiencies recorded against a property, which will encourage adherence to the Dictionary of Definitions by inspectors, provide the PHA with information to address the deficiency, and provide a factual basis for appeals. This commenter also stated that there should be automatic quality control reinspection when a score decreases by 20 points or more from one inspection to the next, in addition to the reinspection when the score increases, so as to be neutral with reinspections. To minimize administrative burden, the PHA could have the option to decline the reinspection for a large score decrease if it believes it is accurate.

HUD Response: Since HUD began conducting UPCS inspections in 1998, properties have received an exigent health and safety report at the conclusion of each day of the inspection and an overall physical inspection report that identifies all deficiencies observed after the inspection is scored. As part of the new 4.0 software, that physical inspection report will include a location for each deficiency cited. All of this information, along with any information noted by the property representative that accompanies the inspector throughout the inspection, provides the property with the information necessary to submit an appeal.

HUD disagrees that there should be an automatic quality assurance re-inspection when the score changes by 20 or more points from the previous inspection. The determination as to when HUD will conduct a quality assurance re-inspection after an inspection has been conducted is based on the overall review of the inspection report, which review includes consideration of the change in the score (either a decrease or increase) from the previous inspection. In all instances HUD considers input from the multifamily owner/PHA when making the determination to do a quality assurance review, but the final determination still rests with HUD.

Issue: A commenter stated that HUD should address the disproportionate effect on scoring when there are few buildings or units.

HUD Response: The point loss cap as described in the proposed notice that will be implemented in the 4.0 software mitigates the disproportionate impact or effect on scoring for the five inspectable areas for properties with one or few buildings.

Issue: Tenant-caused issues and matters outside PHA's control. Several commenters stated that points should not be deducted for tenant-caused deficiencies or other matters stated to be outside the control of the PHA.

A commenter stated that tenant-caused deficiencies should not cause a reduction in the score where the tenants have disobeyed rules or instructions from the PHA. Another commenter stated that a greater emphasis is placed on the site in areas that have little to no impact on the integrity of the units, and the residents' quality of living becomes increasingly compromised. As funding is reduced, PHAs will have to choose whether to expend those funds to ensure that residents have safe, secure, and decent affordable housing, or using the funds to retain high performer status.

A commenter stated that points should not be deducted where the tenant commits a lease violation that the PHA could not reasonably have prevented, or where the tenant fails to report an issue with the unit. This commenter stated that the most frequent of these are: tenant refuses to admit an inspector; tenant created safety violations that are not visible outside the unit, such as trip hazards, tampering with the call-for-aid feature, or furniture too close to the heating source; unreported damage since the last PHA inspection, such as physical damage to walls and cabinets, misplacing or damaging the basin plug, cracked or removed plate covers, and damaged plumbing. At a minimum, appropriate time should be given to remedy these issues and points “recaptured” accordingly.

A commenter stated that PHAs should not be held accountable for tenant-created deficiencies that cannot be controlled by management, such as blocking egress by placement of furniture or adding additional locks after the PHA's inspection but before the REAC inspection.

A commenter stated that PHAs should not incur point deductions for matters outside the control of the PHA, including tenant-caused damage, unreported damage, and deficiencies on public property not controlled by the PHA. This commenter cites the lack of ability to appeal to HUD for these kinds of deficiencies. As an example, the commenter stated that in the case of tenant-paid utilities, PHAs lose points when the utilities have been shut off and the PHA cannot show it has taken any action with the tenant to remedy the situation. Where the shut-off occurred shortly before the REAC inspection, the PHA has had no time to take action, yet it loses points with no appeal option.

HUD Response: The multifamily owner/PHA is ultimately responsible for the physical condition of a unit, and should enforce the appropriate provisions of the lease or other directives if a resident does not comply with them. This includes a resident's failure to maintain the equipment (that is leased with the unit) in acceptable condition, causing damage to the unit, altering the unit or creating safety hazards. Further, if a resident causes damage and fails to report it, the citation of the deficiency will alert the multifamily owner/PHA to the existence of the problem.

With respect to the matter of appeals, through the technical review/database adjustment process, HUD makes adjustments for deficiencies on public property that is not controlled by the PHA. Database adjustments may be made prior to or after the inspection and once HUD approves a database adjustment, it is recorded in HUD's records. For all approved database adjustments, HUD automatically adjusts the inspection by restoring points after each subsequent inspection so that when the inspection report is issued, the multifamily owner/PHA does not have to file another request.

HUD does not consider appeals for tenant caused damage because under statute (See, e.g., 42 U.S.C. 1437d(f)(1)) and contract (e.g., the ACC) such damage is the responsibility of the multifamily owner/PHA. Accordingly, HUD reminds multifamily owners/PHAs to schedule regular housekeeping and preventative maintenance inspections and ensure that a provision addressing tenant caused damage issues is included in the lease.

As stated, the citation in the inspection serves to alert the PHA or owner to the existence of unreported damage.

Issue: Deferred maintenance plans and seasonal issues. A commenter stated that PHAs should not be penalized for deficiencies that are scheduled for future maintenance or that are part of a deferred maintenance plan due to weather or seasonal issues, as weather is beyond the control of a PHA. For instance, pooling of water on a site may not be fixable during winter when the ground is frozen.

HUD Response: HUD understands budgetary constraints which are often the cause for deferring maintenance items. However, part of good management is maintaining a preventative maintenance schedule by priority while considering the season(s) that the work can take place. Since the physical inspection of a unit is a snapshot in time, if maintenance work is planned but not yet begun at the time of the inspection, the physical condition is recorded in the inspection report.

Issue: A commenter stated that HUD should allow a specified time to correct physical deficiencies found during the inspection before points are deducted. This commenter stated that Section 8 and multifamily housing programs under HQS allow 30 days to correct deficiencies, and 24 hours for life-threatening issues.

HUD Response: The application of a time delay in scoring in order to afford the owner an opportunity to correct or mitigate observed deficiencies is inconsistent with UPCS. Inspections under UPCS, which was established in 1998 as a uniform inspection standard that is applicable to all project based housing assistance programs, are a snapshot of the time at which the inspection was conducted. Under the applicable regulations, if the multifamily owner/PHA believes the inspector was in error or if there is an objectively verifiable material error, after receipt of the inspection report the multifamily owner/PHA may file a technical review or request for a database adjustment, as applicable, which may result in an improvement in the property's overall score.

B. Point Loss Caps

Issue: Point loss caps generally. Several commenters supported the general concept of point loss caps, but stated that the point loss caps were still too high, such that minor issues could still lead to disproportionate point reductions. One commenter specifically mentioned the inspectable areas of site and building exterior. One commenter stated that especially EHS issues would be overrepresented in the score despite the point loss caps. This commenter stated that this is particularly true for scattered site developments, and for such developments, the various sites should be treated like buildings and units and averaged for the number of sites. One commenter stated that, while the point loss cap provides some relief to smaller PHAs, it “will not provide much, if any, relief to housing authorities and properties containing larger numbers of units.”

HUD Response: HUD disagrees that the point loss caps are too high. The point loss caps are based on statistical analyses of thousands of inspections and HUD believes they are reasonable in mitigating the disproportionate impact of deficiencies on property scores. The point loss cap is a buildings-driven concept—a concept based on the number of buildings in a property, not the number of units in the property. Therefore, there will be relief in the inspection scores for all properties that are comprised of one or just a few buildings.

Issue: Specific suggestions and concerns about point deductions. One commenter stated that point deductions should be proportional to how many of the items at issue there are on the property. This commenter cites an example of a small PHA that lost 15.2 points out of a possible 20.2 for site due to various deficiencies including health and safety violations for a missing water valve cover and a loose screw on a piece of playground equipment. The valve cover should have been considered in proportion to how many such covers there were on the site. The health and safety deductions are the most “devastating” ones and are out of proportion. The scoring system is arbitrary and difficult to work with, and does not focus sufficiently on the units, which is where the residents actually live.

HUD Response: Proportionality is one of the equity principles built into the scoring of all deficiencies. The proportionality applied to a single observed deficiency is dependent upon the inspectable area in which the inspectable item is located and the deficiency definition that corresponds to that specific deficiency. In addition to the application of the equity principle of proportionality, certain categories of deficiencies result in larger point deductions due to the potential impact on residents, guests, and property staff. Those categories of deficiencies are the Level 3 deficiencies and all health and safety deficiencies. Any health and safety deficiency on the site affects all property residents, guests, and staff and therefore results in a larger point loss than, for example, a health and safety deficiency in one unit. In the situation described by the commenter, the health and safety deficiency of a missing cover on site poses a personal injury risk and creates opportunities for damage to a building system. The health and safety deficiency of a missing cover on the site affects all property residents, guests, and staff by, for example, posing a personal injury risk and creating opportunities for damage to the building system or posing a personal injury risk, and therefore results in a larger point loss than, for example, a health and safety deficiency in one unit.

Regarding the issue of focus on the living units, as the scoring notice states, of the five inspectable areas that comprise a UPSC property inspection, the dwelling unit inspectable area is accorded the greatest weight and carries the highest weight of 35 percent of the total property score of 100.

C. Appeals and Adjustments

Issue: Appeals process. Several commenters stated that changes should be made to the appeals process. A commenter stated that the requirements for technical reviews are excessive and often require a great deal of time and expense to get an error corrected. Technical reviews also exclude many of the most common reasons a technical review would be needed, such as incorrect severity levels and deficiencies caused by residents that the agency could not have reasonably prevented or corrected. HUD should engage a third party to review appeals, allow for a more cost-effective documentation standard, and, at a minimum, allow agencies to appeal any deficiency that would have sufficient impact to make a difference in their overall PHAS score. While this may increase HUD costs, the significance of physical inspection scores on housing authority funding and status warrants a fair and meaningful process.

A commenter stated that in cases where PHAs wish to appeal, the appeals should be heard by a neutral third party, which is what PHAs are required to do as to residents. The commenter also stated that appeals should be allowed even when they would not change the overall designation of the agency. REAC scores are relied on by lenders, commissioners, and the general public as measurements of the overall condition and performance of PHAs, so PHAs should be afforded the opportunity to appeal mistakes affecting those scores, regardless of whether it would change the PHA's overall designation. Also, a change in score that affects the frequency of inspection, even if it does not affect the overall designation, is material and should be able to be appealed.

HUD Response: HUD does not agree that the document requirements for submitting technical reviews are excessive. The majority of items for which technical reviews are submitted require only a date/time-stamped photograph taken during the inspection that clearly reflects the condition of the inspectable area/item cited as a deficiency. The other items for which a signed and dated letter from a local fire marshal or building code official is required are often one-time letters that verify state and local aspects such as fire safety codes or ownership of fences and sidewalks. To assist multifamily owners/PHAs in preparing requests for technical reviews, HUD has posted a standard submission form along with information and examples of required documents on the Web site.

Additionally, the technical review provisions in the applicable regulations (24 CFR part 200 for multifamily owners and 24 CFR part 902 for PHAs) were not part of the public comment solicitation and are outside the scope of this notice. Accordingly, HUD is not making any changes to these provisions.

Section 6(j)(2)(A)(iii) of the U.S. Housing Act of 1937, 42 U.S.C. 1437d(j)(2)(A)(iii), provides only for the appeal of designation (including mod-troubled), the petition to remove a troubled designation, and the appeal of a denial of such petition. Therefore these are the appeals provided in the PHAS rule. This notice does not make any changes to provide for appeals that would not result in a change of designation, nor is it within the scope of this notice to do so.

HUD has several years experience with appeals, and has found that the mechanisms for technical reviews, database adjustments and appeals provide sufficient recourse to a PHA where there are issues of record or fact in dispute so that there is not a need for a neutral third party hearing.

Issue: Score adjustments. A commenter stated that score adjustments should be allowed when the PHA can show that it had already contracted with a third party or scheduled force account labor to do the necessary repairs. In today's budget environment, PHAs do not have the capacity to fix everything immediately.

HUD Response: HUD recognizes the importance of prioritizing housing repairs and encourages the owner to do so in compliance with regulatory and statutory requirements. However, HUD does not consider a contract not yet in force with work started or scheduled force account labor as part of the score as it would not be a credible inspection of the property at the time of the inspection. Because the physical inspection of a unit is a snapshot in time, if maintenance work is in progress during the inspection of a unit, the physical condition of the unit is recorded in the inspection report.

Issue: Underfunding. A commenter stated generally that given the backlog of unmet capital needs, along with dramatic reductions in the Capital Fund, it is unfair to hold PHAs accountable for the effects of these constraints, and scoring should take these factors into account. Another commenter stated that with no control over funding levels for operating and capital, but fully accountable for the condition of their properties, PHAs are concerned about how to maintain their properties given anticipated cuts to funding levels. Funding levels should be taken into account in measuring the performance of PHAs.

HUD Response: HUD declines to prorate these measures. Funding for all multifamily owners/PHAs is subject to the availability of appropriations and those that make the most effective and efficient use of their available resources will, and should, score the most points on their physical inspections.

Issue: Suggestions for taking funding into account. A commenter suggested the following formula: REAC Score/Average funding reduction over last 5 years = adjusted REAC score, be used to determine the physical assessment score.

HUD Response: The UPCS inspection protocol as designed assesses the physical condition of HUD assisted and insured housing according to a uniform standard. As an engineering protocol based on observations at the time of the inspection, it is delinked from funding considerations. This is to ensure that each inspection is objective and verifiable without consideration of external factors.

D. New Software

Issue: Software generally. A commenter stated that providing inspectors with the database adjustments prior to the inspection will streamline the inspection process for all parties, saving inspectors time by eliminating those items from the list of inspectable items, reducing the burden on HUD to correct the findings before scores are issued, and allowing PHAs to maintain their focus on addressing valid findings.

HUD Response: HUD agrees that pre-database adjustments are appropriate and stores approved pre-DBAs in the REAC system for local code variances and other approved items not owned by the property such as fences or roads. Due to the fact that the field office is required to verify a request for a database adjustment based on the supporting documentation, the inspector cannot make an adjustment while on-site. While inspectors must record the deficiencies in accordance with the inspection protocol, the inspection is adjusted automatically after submission to the REAC system and prior to final scoring. Guidelines and a standardized submission form to establish approved pre-DBAs are posted on the HUD Web site.

Issue: A commenter stated that HUD should provide more information about the new software before implementing it, and should field test the software thoroughly before rolling it out along with the new definitions nationally. The test should include different inspectors using the software on the same properties to identify inconsistency and ensure objectivity before implementing the final version.

HUD Response: HUD agrees with the necessity for field testing the new software. HUD has already completed a number of field tests addressing various scenarios and the QA inspectors are conducting in house testing with mock inspections. HUD is in the process of developing web based demonstrations for the various modules of the new software that will be available on line in the near future. In addition, HUD QA inspectors are working with the REAC physical inspection staff in planning a live demonstration that will be announced as a webcast, Skype or Live Meeting that will include real time questions and answers.

E. Public Process

Issue: Public comment process. A commenter urged HUD to engage the industry in meaningful, informed, and specific dialogue before adding elements to the final notice which were not previously available for comment and discussion.

HUD Response: This final notice is within the scope of the proposed notice, on which the public has had appropriate opportunity to comment.

F. Deficiency Definitions

Issue: Definitions generally: A commenter stated that the updates are “very minor and will not make much difference.”

HUD Response: HUD disagrees. The changes in the deficiency definitions in this notice were designed to create greater consistency among inspectors. These definitional changes coupled with the point loss cap scoring enhancement will result in more accurate and equitable assessments of the physical condition of HUD properties.

Issue: Duplication. A commenter stated that HUD should limit duplicate citations for a single item. For example, a contiguous area of mold present on a wall and adjacent ceiling is counted as 2 deficiencies when “logic suggests that it should only be noted once.” This commenter also stated that it is “double jeopardy” to (in this example) also deduct for poor air quality resulting from the mold. In that case, only the most severe of the deficiencies related to the same item should be noted.

HUD Response: There is no duplication in the example cited. Walls and ceiling are separate and distinct inspectable items within a given inspectable area such as the unit. And, while they have some similar applicable deficiencies, they also have different applicable deficiencies. As such in accordance with the UPCS inspection protocol, inspectors will record the observed deficiency, as applicable, for each inspection item. Recording only one deficiency would not be accurate and complete. Even a small amount of mold or mildew can be potentially dangerous, especially if it is allowed to increase in size. The presence of mold or mildew should be identified, and the cause should be determined and corrected. Because mold/mildew has been recognized as a serious health and safety issue, it is also recorded as poor air quality.

Issue: Proportionality. A commenter stated that HUD should reconsider the proportionality of the weights for deficiencies, especially regarding sites, to reflect a more realistic approach to addressing deficiencies considering the overall context and size of properties. For example, a small deficiency, such as ponding or a hole in a fence, will be weighted in the same way over a small site versus a large site regardless of acreage, square footage, or number of units, leading to disproportionate results. Because deficiencies are not weighted in proportion to the size of the site, scores can be unreasonably decreased and impact a PHA's ability to qualify for additional funding.

HUD Response: Under UPCS there is a single site for all of a development's properties regardless of the size of the property or if the property is comprised of scattered sites. The underlying basis is that UPCS treats all deficiencies on site as affecting all residents, guests, and staff on that site. HUD appreciates the commenter's suggestion about weighting deficiencies in proportion to the size of the property and will give this suggestion further consideration.

Issue: Subjectivity of inspectors. A commenter stated that, due to potential subjectivity of interpretation among inspectors, HUD should re-evaluate the impact of the new deficiency definitions either through extensive field-testing or an initial evaluation period to determine if they are objective enough to ensure inspections are conducted in a standard manner.

HUD Response: The revised definitions will be implemented as part of the new DCD 4.0 software which uses a “decision tree” structure that HUD believes will reduce the possibility of wide variations due to subjectivity. Regarding testing, HUD has already completed a number of field tests and the QA inspectors are conducting in house testing.

Issue: No points should be deducted for cosmetic issues. A commenter stated that PHAs should be scored on true measures of livability rather than cosmetic issues such as paint and tile, and no points should be deducted for cosmetic issues. Given tight budgets with capital needs outstripping resources, a PHA could be penalized for choosing to spend their capital funds on major systems, leaving insufficient funding to address cosmetic issues. Conversely, a PHA could receive a high score by focusing on surface issues while issues below the surface, such as rot and mold, can have a severe impact. This commenter stated that a review of the most frequently cited deficiencies on HUD's Web site shows that at least a quarter are purely cosmetic, while many others are “likely cosmetic in nature.”

HUD Response: Under UPCS, which assesses the overall physical condition of the entire property, the scoring impact of each deficiency will vary based on the item weight and criticality and severity levels of the deficiency. The protocol establishes the relative importance of one deficiency to another. What the commenter refers to as cosmetic are lower impact deficiencies and that is reflected in the points that are deducted.

HUD posted the list of the most frequently cited deficiencies for general informational purposes because they span the various criticality and severity levels of the possible deficiencies in the UPCS protocol. However, a multifamily owner/PHA's best portfolio management tool is the actual inspection reports and the deficiencies cited therein.

Issue: Specific deficiencies. Commenters raised issues with a number of the specific deficiency definitions, and also reiterated their comments on the 2004 proposed changes to the deficiency definitions (69 FR 12474 et seq., March 16, 2004). Where a comment refers to the 2004 proposed changes, the comment is identified as such and a citation is provided to the changes to which the commenter refers.

Building Exterior

Issue: Building exterior, windows, missing/deteriorated caulk, seals, glazing compound. A commenter stated that this deficiency (69 FR 12479) should be advisory only, not scored (2004).

HUD Response: The proposed change is to the severity level of the deficiency. What was the Level 2 deficiency for building exterior, windows, missing/deteriorated caulk, seals, glazing compound window is now the Level 1 deficiency. The scoring of this deficiency was not part of the public comment solicitation. HUD has retained the scoring of this deficiency due to the potential deteriorating situation it addresses. The definition as proposed remains unchanged. There are two other deficiency areas regarding windows that are revised to conform to the proposed definition for Building Exterior—Windows—Missing/Deteriorated Caulking/Seals/Glazing compound. Both areas pertain to this deficiency, one for common areas windows and the other for dwelling unit windows. Because these definitions are similar in the current Dictionary, the deficiency definitions for missing/deteriorated caulking/seals/glazing compound for common area windows and dwelling unit windows are revised in this final notice to reflect the same revisions contained in the proposed missing/deteriorated caulking/seals/glazing compound in the building exterior deficiency definition.

Issue: Building exterior, peeling/needs paint. A commenter stated that no points should be deducted for cosmetic paint issues, for this and similar deficiencies.

HUD Response: The scoring of this deficiency was not part of the public comment solicitation and this final notice makes no change to this item.

Building Systems

Issue: Building systems, exhaust system, roof fans inoperable. A commenter stated that this definition should be clarified so that a deficiency would be cited only when the equipment that is part of the exhaust system does not function as intended.

HUD Response: The definition encompasses both the functional and non functional features because a non functional deficiency can, over time, if not addressed, lead to a more serious deficiency that can contribute to wear and tear and affect the efficiency and operation of the system. Citing all deficiencies allows multifamily owners/PHAs to take timely correction action. The definition remains unchanged.

Issue: Building systems, HVAC. A commenter stated that this definition could be read to give physical condition inspectors leeway to cite any associated part of the HVAC system, regardless of whether it applies to the functionality of the HVAC, as a “building system” deficiency. This could result in a large physical condition score point loss for something that may be a minor deficiency or repair. This commenter stated that HUD should clarify that the deficiency would only apply to parts of the HVAC that impact its functionality.

HUD Response: HUD disagrees because the associated parts that are addressed in the definitions are specific to deficiencies. All deficiencies associated with the HVAC do not, necessarily, cause the HVAC not to function. For example, in the Boiler/Pump/Cooling System Leaks (HVAC—Building Systems) deficiency, coolant, water or steam escaping from the unit casing and/or pump packing/system piping is clearly a deficiency and in fact may be a Health and Safety deficiency and yet the HVAC may continue to function.

Units

Issue: Units, HVAC Systems, General Rust/Corrosion. A commenter stated that it disagrees with the proposed definition of this deficiency (69 FR 12500) as “deterioration is defined as rust and/or formations of metal oxides, flaking or discoloration, or a pit or crevice.” This proposed change does not address how the HVAC system is functioning; it only addresses the presence of rust and corrosion. If the equipment is working properly, there should be no deficiency. This criterion is too subjective and gives the inspector too much latitude (2004). This commenter also stated that the definition of “rust or corrosion” including “pit or crevice” does not give any parameters for the size of the pit or crevice or extent of rust or corrosion required, and so gives too much latitude to the inspector (2004).

Another commenter stated that no points should be deducted when rust does not indicate a structural problem and does not impact the functionality. Consideration should be given to where the rust is located on the HVAC system.

Another commenter stated that only “significant” deterioration should be covered; minor instances that have no effect on the functioning of the system should not be scored. This commenter stated that this should be a no-score item according to discussions held in 2002. (2004)

Another commenter stated that the defined deteriorations—rust and/or formations of metal oxides, flaking, or discoloration, or a pit or crevice—may simply be cosmetic blemishes and not indicative of the functionality of and/or the need to repair the unit. This commenter stated that HUD should specify that cosmetic blemishes which do not affect the operation of the unit may not be cited as deficiencies.

HUD Response: Because there is no way to tell if the presence of rust and/or corrosion is affecting the functionality of a system, it is considered a deficiency but it is only recorded as a

Level 1 deficiency. The presence of rust and/or corrosion makes the multifamily owner/PHA aware of the potentially deteriorating situation. Rust is corrosive and if left untreated can comprise the integrity of the building envelop. The functionality of the HVAC system is addressed elsewhere in the Dictionary.

The objective measure for rust and/or corrosion is that they are easily observable. The definition for this deficiency has remained as proposed. The scoring of this deficiency was not part of the public comment solicitation. This final notice retains the scoring of this deficiency due to the potential deteriorating situation it addresses.

Issue: Units, kitchen, Range Hood/Exhaust Fans, Excessive Grease/Inoperable (applies to both common areas and units). A commenter stated that the proposed definition, which includes “grease or other barrier noticeably reduces,” is too subjective (2004). This deficiency would permit an inspector to score a resident's housekeeping skills, over which a PHA has no control, as a physical deficiency, thereby lowering the score. Further, reference to health and safety is excessive and would penalize the PHA for the resident's housekeeping skills.

HUD Response: HUD agrees that this definition should not refer to a health and safety hazard and this notice removes the reference. The multifamily owner/PHA is ultimately responsible for the physical condition of a unit, and should enforce the appropriate provisions of the lease if a resident does not maintain the equipment (that is leased with the unit) in acceptable condition.

Issue: Units, call-for-aid inoperable. A commenter stated that resident interference with the equipment should be taken into account when finding a deficiency.

HUD Response: HUD does not agree that interference with the call-for-aid equipment should be taken into account by the inspector. The call-for-aid as installed must serve its intended function (e.g., a bell sounds an alarm, a light is turned on, or off-site personnel notified when the system is activated). The multifamily owner/PHA responsibility for the physical condition of a unit and lease enforcement includes a resident's interference with the call-for-aid. The citation of the deficiency alerts the multifamily owner/PHA to the existence of the problem with this critical system.

Issue: A commenter stated that this definition (call-for-aid inoperable) should only require that the system function as intended. This commenter stated that deficiencies have been found because the cord was tied up and did not reach the floor, and this it is inappropriate for HUD to penalize the property for the resident's decision to tie up the cord, as long as the item is working.

HUD Response: HUD does not agree that this definition should only require that the system function as intended. A coiled or tied call-for-aid cord is not automatically a deficiency—the system components must also be tested. But because the pull cord is an integral component of the call-for-aid system it must be tested in a way that reflects how someone laying on the floor in distress might pull the cord. If the coiled or tied cord causes the system to fail when the cord is pulled, a deficiency is cited. But, if the components of the system function when the cord is pulled, the call-for-aid system functions as intended and there is no deficiency.

Site

Issue: Site, Fencing and Gates—Holes/Missing Sections/Damaged/Falling/Leaning. A commenter disagrees with the proposed Level 2 Comments in this section that adds reference to health and safety hazards to this deficiency (2004). This proposal does not provide adequate parameters as to what “poses a danger”, thereby leaving the designation of a health and safety hazard too subjective. This commenter stated that the reference to health and safety hazards should be eliminated.

HUD Response: HUD has determined to retain the phrase “poses a danger” even though it may be considered subjective. It is impractical to include in the definition everything that could pose a threat. The reference to health and safety will be retained because an injury or bodily harm is a health and safety issue. HUD will enhance its inspector training protocol to emphasize the following definition of security fencing: “Fencing that provides a closed boundary by connections at all points, including gates.” This will ensure the inspector clearly understand the difference between perimeter/border fencing and security fencing. In reviewing the proposed definition, HUD observed that the reference in the notes should be consistent and therefore this notice revises the reference to “Pools and Related Structures (Common Areas).” HUD has also determined that the final definition will be for “non-security/non-safety fences and “security/safety fences.”

Issue: Site, Fencing and Gates. A commenter stated that this deficiency should cover only “significant” rust or deterioration, and only those instances of deterioration that actually impact the functionality of the fixture should be scored.

HUD Response: The three levels of this deficiency address what is necessary for a deficiency to be present and are proportional. The presence of rust and/or corrosion makes the multifamily owner/PHA aware of a potentially deteriorating situation. There is no way to tell if the presence of rust and/or corrosion does or will affect the functionality of this inspectable item, but there are three levels of deficiency in this definition. If addressed at the earliest stages, timely corrective action could prevent a more serious problem from developing over time.

Issue: A commenter stated that no points should be deducted for damage to fences that do not affect the safety and security of the property.

HUD Response: The scoring of this deficiency was not part of the public comment solicitation. No change is made in this final notice.

Issue: A commenter stated that reference to swimming pool enclosures is inconsistent between this item and one on the following page, referring to 69 FR 12505 and 12506 (March 16, 2004), and asked: “Is it Site, Fencing, and Gates, or is it Common Areas, Pools, and Related Structures” (2004)?

HUD Response: HUD agrees that the references in the notes should be consistent and this final notice changes the reference to “Pools and Related Structures (Common Areas).” HUD also revises this notice so that the final definitions are for “non-security/non-safety fences” and “security/safety fences.”

Issue: Site, grounds, ponding and site drainage. A commenter stated that the level 2 and 3 descriptions (69 FR 12508) “would be improved by adding `at least 100 square feet'” (2004).

HUD Response: HUD agrees and the Level 2 and 3 definitions are revised to state “at least 100 square feet” and “over 100 square feet” respectively. Also the language throughout the Dictionary is conformed to read “more than” where appropriate.

Issue: Site, parking lots/driveways/roads, damaged paving. A commenter stated that the deficiency description (69 FR 12509) should read “also, repaired/sealed cracks should NOT be considered a deficiency.” (2004)

HUD Response: HUD agrees with the commenter and this final notice adds the note, “Repaired/sealed cracks should not be considered a deficiency.” HUD will enhance its inspector training protocol to include the recognition of repaired/sealed cracks and damage with picture examples.

Issue: Site, walkways, steps, cracks, settlement, heaving. A commenter stated that the notes for deficiency (69 FR 12516) should state that “repaired/sealed cracks should NOT be considered a deficiency.” (2004)

HUD Response: HUD agrees and this final notice adds this sentence as item 4 under the note.

Issue: Site, retaining wall, damaged, falling leaning. Commenter stated that this deficiency (69 FR 12515) refers to a deteriorating or damaged retaining wall as defined, “but we do not see a definition of a damaged retaining wall.” (2004) What is the threshold for damage to a retaining wall? HUD has been taking these issues case-by-case under technical review, or relying on the inspector's judgment, but this issue requires further study.

HUD Response: It is not practical to include every possible type of damage to a retaining wall that may occur. Therefore, HUD does review this deficiency on a case-by-case basis through the technical review process to ensure that multifamily owners/PHAs are not unduly penalized. HUD also considers this an important training issue and emphasizes it by using a multitude of examples, and using color pictures whenever possible, as part of the training. This final notice removes the phrase “as defined” from the definitions.

Common Areas

Issue: Common areas, ceiling—holes/missing tiles, etc. A commenter stated that in the 2004 notice (69 FR 12485)), the Level 1 definition was proposed to be revised to include a crack more than ⅛ inch wide and 11 inches long. This commenter stated that the Level 1 definition should remain as before the 2004 proposed revision, and the material that was added to Level 1 should be placed in the Level 2 definition.

HUD Response: HUD believes that including cracks in the Level 1 definition is less stringent than including cracks in the Level 2 definition, and has retained the proposed definition.

Issue: Common areas, ceiling, mold. A commenter stated that no points should be deducted for superficial stains that do not pose an imminent threat to health and safety. Another commenter in 2004 stated that in discussions held in 2002 on this deficiency (69 FR 12486), “we arrived” at a size area for mold of 1-4 square feet. This has been reduced to 4 square inches—1 square foot in the Level 1 definition, and in the Level 3 definition, to 1 square foot. This definition should be returned to the “agreed measures.”

HUD Response: It is impractical to include in the definition how to identity all possible conditions that may have lead to a stain, but the presence of mold/mildew would clearly indicate it is more than superficial. Thus, this final notice revises the wording of this definition to clarify that the primary focus is the presence of mold/mildew, as well as evidence of water infiltration or other moisture producing conditions. The definition reads, “You see mold or mildew that may have been caused by saturation or surface failure, or evidence of water infiltration or other moisture producing conditions.” This notice revises the title of this definition to conform to the revised definition to read, “Mold/Mildew/Water Stains/Water Damage (Ceiling—Common Areas).”

HUD believes the use of “4 square inches to one square foot” and “more than 1 square foot” included in the proposed definition, rather than the suggested “1-4 square feet” and “4 square feet,” is more realistic given the potential seriousness of the presence of mold/mildew. One square foot (144 square inches) is an area that is 36 times larger than the proposed 4 square inches, and 4 square feet is 4 times larger than 1 square foot. Because of the importance of the presence of mold/mildew, HUD has determined to use the smaller areas as the minimum.

Even a small amount of mold/mildew can be potentially dangerous, especially if it is allowed to increase in size. The presence of mold/mildew should be identified, and the cause should be determined and corrected. The definition for this deficiency has remained as proposed.

There are two other deficiency definitions regarding mold/mildew in common areas that this notice revises to conform to the proposed definition for “Ceiling—Water Stains/Water Damage/Mold/Mildew (Common Areas).” One pertains to mold/mildew on walls in common areas, and the other is mold/mildew on floors in common areas. Because of the similarities in the definitions for mold/mildew, this notice makes a holistic change to mold/mildew in all locations where it can be recorded (not just the definition for ceiling), though differences in the actual definitions may be warranted. Therefore, the deficiency definitions for common areas walls and floors have been revised to reflect similar revisions as those contained in the proposed “Ceiling—Water Stains/Water Damage/Mold/Mildew (Common Areas)” deficiency definition. In addition, there are three deficiency definitions regarding mold/mildew in dwelling units that have been revised to conform to the proposed definition for “Ceiling—Water Stains/Water Damage/Mold/Mildew (Common Areas).” They are dwelling unit ceiling, walls, and floors. The current deficiency definitions for the dwelling unit ceiling, walls and floors are similar to the current deficiency definition for “Ceiling—Water Stains/Water Damage/Mold/Mildew (Common Areas).” Therefore, the deficiency definitions for dwelling unit ceiling, walls and floors have been revised to reflect similar revisions as those contained in the proposed ceiling common areas deficiency definition, though differences in the actual definitions may be warranted.

Issue: Common areas, routes obstructed or inaccessible to wheelchair. A commenter stated that if the common area and route existed prior to these requirements, no points should be deducted.

HUD Response: The definition does not impose new requirements. The change simply adds the words “at least one route” to the current definition clarifies that the inspector need only verify one route, not all of them. The definition remains as proposed in the October 13, 2011 notice.

Issue: Common areas, hard floor covering, missing flooring/tiles. A commenter stated that the thresholds for this definition (69 FR 12487) should be returned to those agreed to at the 2002 meetings, that is, level one is 10-20 percent, and level 2 is 20-50 percent (2004).

HUD Response: HUD has determined to retain the threshold language in the proposed definition and use a consistent application of percentages for all square foot items, when appropriate. For example, the same percentages are used for the soft floor covering deficiency definition. HUD notes that the comment for Level 3 is redundant and this final notice deletes the comment.

There is one additional deficiency definition regarding hard floor covering in dwelling units that is revised in this final notice to conform to the proposed definition for hard floor covering in common areas. The deficiency definition for hard floor covering in dwelling units is revised in this final notice to reflect the same revisions contained in the proposed hard floor covering in common areas deficiency definition.

Issue: Common areas, soft floor covering damaged, floors. A commenter stated that the title of the definition should be changed to include “carpet,” since that is all that is covered, and the deficiency should read: “you see damaged or missing carpet.” This deficiency should not be considered a health and safety issue (2004).

HUD Response: The commenter is incorrect that carpet is the only soft floor covering (e.g., interlocking foam tiles). HUD has determined to retain the deficiency title to read “Soft Floor Covering Missing/Damaged (Floors—Common Areas)” and the deficiency to read “You see damaged and/or missing soft floor covering.” The changes to the two floor covering deficiency definition titles move from a paradigm that solely describes the type of deficiency in the title (missing or damaged flooring) to one that includes the type of floor covering generally (soft or hard) in the title and describes the levels of deficiencies for that type of flooring. The general description of the type of floor covering in the title ensures that the definition is applicable to all types of soft and hard floor coverings respectively.

The titles to the two floor covering deficiency definition now include the type of floor covering generally (soft or hard) in addition to the describing the type of deficiency in the title (missing or damaged flooring) without giving an example of the type to ensure the definition is covers all types of soft and hard floor coverings respectively.

Soft floor covering that is missing, has holes, tears or loose areas could be a tripping hazard, and therefore, is a health and safety issue.

There is one additional deficiency definition regarding soft floor covering in dwelling units that this notice revises to conform to the proposed definition for soft floor covering in common areas. The deficiency definition for soft floor covering in dwelling units has been revised to reflect the same revisions contained in the proposed soft floor covering in the common areas deficiency definition.

Issue: Common areas, floors, rot/deteriorated subfloor. A commenter stated that the comment on level 3 should be consistent with other similar notes instructing the inspector to notify the PHA of possible failure of the item and recommend an engineering inspection (2004).

HUD Response: HUD agrees, and this notice revises the language in the Level 3 comment to the suggested language. This change is consistent with language in other deficiency definitions.

Issue: Another commenter stated that it is extremely concerned that HUD's note to “apply weight” to a suspect floor could result in injury to the inspector or additional damage to the property. This commenter stated that HUD should remove the “apply weight” note from this definition.

HUD Response: By applying a moderate amount of weight to the floor, a noticeable deflection will be felt if there is rot, decay, deterioration, and/or damage. This is the most common way to determine if there is a problem and it is used throughout the inspection industry. HUD will enhance its inspector training protocol to ensure that this definition is adequately explained and examples provided.

Issue: Common areas, HVAC Noisy, Vibrating, Leaking. A commenter stated that this definition includes examples of “unusual vibrations, leaks, or abnormal noise” such as “screeching, squealing, banging, shaking, etc.” This commenter stated that these examples add more subjectivity than clarification to the definition. As a result, properties may receive a citation for a non-existent deficiency. This commenter stated that the current definition should be retained.

HUD Response: HUD disagrees. HUD has included these illustrative examples to provide information to assist the inspector in identifying the types of noises that may emanate from an HVAC unit. This definition only applies if there is a noise, otherwise it is marked no observed deficiency and will not result in a point deduction. The definition for this deficiency remained as proposed.

Issue: Common areas, walls, damaged. A commenter stated that the note under this deficiency description should state that repaired or sealed cracks should not be recorded as a deficiency (2004). Another commenter stated that no points should be deducted for cracks that are not a structural deficiency

HUD Response: This deficiency does not address any threat to the integrity of the structure. Cracks that have been repaired or sealed properly are no longer a deficiency, and will not be cited as a deficiency. This final notice adds a note to this definition: “Cracks that have been repaired or sealed properly should not be considered a deficiency.” The definition for this deficiency has remained as proposed. This final notice revises one additional deficiency definition regarding damaged walls in dwelling units to conform to the proposed definition for damaged walls in common areas. The deficiency definition for damaged walls in dwelling units is revised to reflect the same revisions contained in the proposed damaged walls in common areas deficiency definition.

Issue: Common areas, graffiti. A commenter stated that the deficiency description should note that “one location” means “adjacent walls, doors, ceiling, and/or floors” (2004).

HUD Response: HUD believes the proposed deficiency definition is more descriptive of the intent of the use of the word “location” defined in the definition as, “* * * one general area in a building such as one hallway in a 10 story building or one floor of a stair-well in a 5 story building.” The definition for this deficiency has remained as proposed.

Health and Safety

Issue: Health and safety, air quality, mold and mildew. Commenters stated that this item is a housekeeping issue and not a maintenance issue, and that mold on a wall and adjacent ceiling should be considered 1 item, where it is currently considered 2 items.

A commenter also stated that in discussions held in 2002, it was agreed that mold would have to cover 1-4 square feet for a point deduction, which has been reduced to 4 inches-1 foot, and that this should be returned to the agreed measure (2004); another commenter stated that the minimum should be 1 square foot before a defect is found.

Another commenter stated that the definition is too broad and could include situations where the residents cause moisture damage by disabling the room fan, lifestyle, or other causes outside the PHA's control.

HUD Response: It is almost impossible to determine if the presence of mold/mildew is caused by resident lifestyle and failure to ventilate properly. The multifamily owner/PHA is ultimately responsible for the physical condition of a unit, and should enforce the appropriate provisions of the lease if a resident does not maintain the equipment (that is leased with the unit) in acceptable condition.

Walls and ceiling are separate inspectable items with similar and different applicable deficiencies. As such in accordance with the UPCS inspection protocol, inspectors will record the observed deficiency, as applicable, for each inspection item. Even a small amount of mold/mildew can be potentially dangerous, especially if it is allowed to increase in size. The presence of mold/mildew should be identified, and the cause should be determined and corrected. Because mold/mildew has been recognized as a serious health and safety issue, it is also recorded as poor air quality.

As stated in HUD's response to comment on ceiling mold in common areas, HUD has determined the measurements as proposed are more realistic given the potential seriousness of mold/mildew. As such, the definition for this deficiency is made final as proposed.

In determining if other moisture producing conditions are present, the inspector will use common sense. It is impractical to address how to identity all possible other moisture producing conditions, but the presence of mold/mildew would clearly indicate that something other than water, if there is no evidence of water infiltration, is causing the growth of mold/mildew.

Issue: Health and safety, air quality, sewer odor detected. A commenter stated that it prefers the prior definition that required the inspector to make a judgment whether the odor presented a health risk. Another commenter stated that the proposed definition does not differentiate between an issue being completely ignored and one that has just occurred. A time frame for addressing the problem is also absent. Also, a commenter stated that this definition is too vague. A property owner often has no control over situations when sewer odors are detected—i.e., flooding, pipes bursting, etc.—especially when these incidents are not on the property. This commenter stated that HUD should clarify what a “health risk” from sewer odors entails rather than have a blanket deficiency on any odors detected.

HUD Response: HUD has determined that the inspector should cite any strong odor that can be detected during the physical inspection, hence the proposed definition removed the reference to health risk. As with other definitions, there is no distinction between what may be being ignored or what has just occurred because the odor itself is what necessitates action by the multifamily owner/PHA. The multifamily owner/PHA cannot know that the odor detected by the inspector and cited in the inspection is not a sewer odor unless it is investigated. If after investigation the multifamily owner/PHA determines that the odor does not emanate from the property, the multifamily owner/PHA can, in accordance with the applicable regulations, submit a request for a technical review or database adjustment to HUD. But as with all other deficiencies, if the cause of the odor is due to a condition on the property, the multifamily owner/PHA must take action to remedy the condition. The definition for this deficiency has remained as proposed.

Neither the physical inspection scoring notice nor the Dictionary of Deficiency Definitions addresses time frames for correcting, remedying or mitigating deficiencies. Multifamily owners/PHAs should refer to their applicable program regulations and other guidance.

Issue: Health and safety, flammable materials, improperly stored. A commenter stated that “not all paint is flammable (i.e., latex paint) and therefore should be excluded from the definition. Another commenter stated that a threshold should be included in this definition. For example, paper stored near a gas furnace is an issue, but paper stored elsewhere is not.

HUD Response: The UPCS inspection protocol is based on the inspector's observations. It is neither practical nor prudent for the inspector to determine the content of containers, such as those listed in the proposed definition.

HUD believes examples are not necessary as this is covered in the proposed definition by stating “near a heat or electric source….” This is an area that is extensively covered in the inspector training. Just one instance of flammable materials igniting due to improper storage is one instance too many. The presence of improperly stored flammable material should be identified and mitigated. The scoring of this deficiency was not part of the public comment solicitation. The definition for this deficiency is made final as proposed.

IV. The Revised Physical Inspection Scoring Process

1. Definitions

The following are the definitions of the terms used in the physical condition scoring process:

Criticality means one of five levels that reflect the relative importance of the deficiencies for an inspectable item. Appendix 1 lists all deficiencies with their designated criticality levels, which vary from 1 to 5, with 5 being the most critical. Based on the criticality level, each deficiency has an assigned value that is used in scoring. Those values are as follows:

Criticality | Level | Value
Critical | 5 | 5.00
Very Important | 4 | 3.00
Important | 3 | 2.25
Contributes | 2 | 1.25
Slight Contribution | 1 | 0.50

Based on the importance of the deficiency as reflected by its criticality value, points are deducted from the project score. For example, a clogged drain in the kitchen is more critical than a damaged surface on a countertop. Therefore, more points will be deducted for a clogged drain than for a damaged surface.

Deficiencies refer to specific problems that are recorded for inspectable items, such as a hole in a wall or a damaged refrigerator in the kitchen.

Inspectable area means any of the five major components of the project: site, building exteriors, building systems, common areas, and dwelling units.

Inspectable items refer to walls, kitchens, bathrooms, and other features that are inspected in an inspectable area. The number of inspectable items varies for each inspectable area, from 8 to 17. Weights are assigned to each item to reflect their relative importance and are shown in the Item Weights and Criticality Levels tables. The tables refer to the weight of each item as the nominal item weight, which is also known as the amenity weight.

Normalized area weight represents weights used with area scores to calculate project-level scores. The weights are adjusted to reflect the inspectable items actually present at the time of the inspection. These weights are proportional, as follows:

• For dwelling units, the area score is the weighted average of sub-area scores for each unit, weighted by the total of item weights present for inspection in each unit, which is referred to as the amenity weight.

• For common areas, the area score is the weighted average of sub-area common area scores weighted by the total weights for items available for inspection (or amenity weight) in each residential building common area or common building. Common buildings refer to any inspectable building that contains no dwelling units. All common buildings are inspected.

• For building exteriors or building systems, the area scores are weighted averages of sub-area scores.

• For sites, the area score is calculated as follows: (1) The amenity weights found on a site, (2) minus deductions for deficiencies, and (3) normalized to a 100-point scale.

Normalized sub-area weight means the weight used with sub-area scores to compute an inspectable area score. These weights are proportional:

• For dwelling units, the item weight of amenities available in the unit at the time of inspection is the amenity weight.

• For common areas, the common area amenity weight is divided by a building's probability of being selected for inspection. All residential buildings with common areas may not be selected for inspection; however, all buildings with common areas are used to determine the amenity weight.

• For building exterior and building systems, the building exterior or building system amenity weight is multiplied by the building's size (number of units) and then divided by its probability of being selected for inspection.

• For the site, there is no sub-area score. For each project, there is a single site.

Note that dividing by a building's probability of being selected for inspection is the same as multiplying by the probability weight since the probability weight is 1 divided by the probability of being selected for inspection.

Point loss cap is the maximum number of points that a single deficiency can count against the overall property score. The point loss cap for each inspectable area is:

Inspectable area | Maximum point deduction for a single deficiency
Site | 7.5
Building Exterior | 10.0
Building Systems | 10.0
Common Areas | 10.0
Dwelling Units | 5.0

Project is used synonymously with the term “property.”

Severity means one of three levels that reflect the extent of damage associated with each deficiency, with values assigned as follows:

Severity level | Value
3 | 1.00
2 | 0.50
1 | 0.25

The Item Weights and Criticality Levels tables show the severity levels that are possible for each deficiency. Based on the severity of each deficiency, the score is reduced. Points deducted are calculated by multiplying the item weight by the values for criticality and severity, as described below. For specific definitions of each severity level, see the Dictionary of Deficiency Definitions.

Score means a number between 0 and 100 that reflects the physical condition of a project, inspectable area, or sub-area. A property score includes both an alphabetical and a numerical component. The number represents an overall score for the basic physical condition of a property, including points deducted for health and safety deficiencies other than those associated with smoke detectors. The letter code specifically indicates whether health and safety deficiencies were detected, as shown in the chart below:

Physical inspection score alphanumeric codes | No health and safety deficiencies | Health and safety deficiencies: Non-life threatening (NLT) | Health and safety deficiencies: Life threatening (LT)/exigent health and safety (EHS) | Health and safety deficiencies: Fire safety: No smoke detector problems | Health and safety deficiencies: Fire safety: Smoke detector problems
a | X |  |  | X |
a * | X |  |  |  | X
b |  | X |  | X |
b * |  | X |  |  | X
c |  |  | X | X |
c * |  |  | X |  | X

To record a health or safety problem, a letter is added to the project score (a, b, or c) and to note that one or more smoke detectors is inoperable or missing an asterisk (*) is added to the project score. The project score for properties with LT deficiencies will have a “c” whether or not there also are NLT deficiencies.

Sub-area means an area that will be inspected for all inspectable areas except the site. For example, the building exterior for building “2” is a sub-area of the building exterior area. Likewise, unit “5” would be a sub-area of the dwelling units area. Each inspectable area for each building in a property is treated as a sub-area.

2. Scoring Protocol

To generate accurate scores, the inspection protocol includes a determination of the appropriate relative weights of the various components of the inspection; that is, which components are the most important, the next most important, and so on. For example, in the building exterior area, a blocked or damaged fire escape is more important than a cracked window, which is more important than a broken light fixture. The Item Weights and Criticality Levels tables provide the nominal weight of observable deficiencies by inspectable item for each area/sub-area. The Dictionary of Deficiency Definitions provides a definition for the severity of each deficiency in each area/sub-area.

3. Equity Principles

In addition to determining the appropriate relative weights, consideration is also given to several issues concerning equity between properties so that scores fairly assess all types of properties:

Proportionality. The scoring methodology includes an important control that does not allow any sub-area scores to be negative. If a sub-area, such as the building exterior for a given building, has so many deficiencies that the sub-area score would be negative, the score is set to zero. This control mechanism ensures that no single building or dwelling unit can affect the overall score more than its proportionate share of the whole.

Configuration of project. The scoring methodology takes into account different numbers of units in buildings. To fairly score projects with different numbers of units in buildings, the area scores are calculated for building exteriors and systems by using weighted averages of the sub-area scores, where the weights are based on the number of units in each building and on the building's probability of being selected for inspection. In addition, the calculation for common areas includes the amenities existing in the residential common areas and common buildings at the time of inspection.

Differences between projects. The scoring methodology also takes into account that projects have different features and amenities. To ensure that the overall score reflects only items that are present to be inspected, weights to calculate area and project scores are adjusted depending on how many items are actually there to be inspected.

Point loss cap. The scoring methodology further takes into account that a single deficiency can have disproportionate effects on scoring when there are relatively few buildings or units that are inspected in a project. To mitigate any disproportionate impact, the number of points deducted from the project score for any one deficiency is capped. Point loss caps are set at the inspectable area level.

4. Deficiency Definitions

During a physical inspection of a project, the inspector looks for deficiencies for each inspectable item within the inspectable areas, such as the walls (the inspectable item) of a dwelling unit (the inspectable area). Based on the observed condition, the Dictionary of Deficiency Definitions defines up to the three levels of severity for each deficiency: Level 1 (minor), Level 2 (major), and Level 3 (severe). The associated values are shown in the definition of “severity” in Section V.1. A specific criticality level, with associated values as shown in that chart, is also assigned to each deficiency. The criticality level reflects the importance of the deficiency relative to all other possible observable deficiencies for the inspectable area.

5. Health and Safety Deficiencies

The UPCS physical inspection emphasizes health and safety (H&S) deficiencies because of their crucial impact on the well-being of residents. A subset of H&S deficiencies is exigent health and safety (EHS) deficiencies. These are life threatening (LT) and require immediate action or remedy. EHS deficiencies can substantially reduce the overall project score. As noted in the definition for the word “score” in the Definitions section, all H&S deficiencies are highlighted by the addition of a letter to the numeric score. The Item Weights and Criticality Levels tables list all H&S deficiencies with an LT designation for those that are EHS deficiencies and an NLT designation for those that are non-life threatening. The LT and NLT designations apply only to severity level 3 deficiencies.

To ensure prompt correction, remedy, or action to abate H&S deficiencies, the inspector gives the project representative a deficiency report identifying every observed EHS deficiency before the inspector leaves the site. The project representative acknowledges receipt of the deficiency report by signature. HUD makes available to all PHAs an inspection report that includes information about all of the H&S deficiencies recorded by the inspector. The report shows:

• The number of H&S deficiencies (EHS and NLT) that the inspector observed;

• All observed smoke detector deficiencies; and

• A projection of the total number of H&S problems that the inspector potentially would see in an inspection of all buildings and all units.

If there are smoke detector deficiencies, the physical conditions score will include an asterisk. However, problems with smoke detectors do not currently affect the overall score. When there is an asterisk indicating that the project has at least one smoke detector deficiency, that part of the score may be identified as “risk;” for example, “93a, risk” for 93a*, and “71c, risk” for 71c*. There are six distinct letter grade combinations based on the H&S deficiencies and smoke detector deficiencies observed: a, a*, b, b*, c, and c*. For example:

• A score of 90c* means that the project contains at least one EHS deficiency to be corrected, including at least one smoke detector deficiency, but is otherwise in excellent condition.

• A score of 40b* means the project is in poor condition, has at least one non-life threatening deficiency, and has at least one missing or inoperable smoke detector.

• A score of 55a means that the project is in poor condition, even though there are no H&S deficiencies.

• A project in excellent physical condition with no H&S deficiencies would have a score of 90a to 100a.

6. Scoring Process Elements

The physical condition scoring process is based on three elements within each project: (1) Five inspectable areas (site, exterior, systems, common areas, and dwelling units); (2) inspectable items in each inspectable area; and (3) observed deficiencies.

7. Scoring Using Weighted Averages

The score for a property is the weighted average of the five inspectable area scores, where area weights are adjusted to account for all of the inspectable items that are actually present to be inspected. In turn, area scores are calculated by using weighted averages of sub-area scores (e.g., building area scores for a single building or unit scores for a single unit) for all sub-areas within an area.

For all areas except the site, normalized sub-area weights are determined using the size of sub-areas, the items available for inspection, and the sub-area's probability of selection for inspection. Sub-area scores are determined by deducting points for deficiencies, including H&S deficiencies, based on the importance (weight) of the item, the criticality of the deficiency, and the severity of the deficiency. The maximum deduction for a single deficiency cannot exceed the point cap for the inspectable area where the deficiency is observed and a sub-area score cannot be less than zero. Also, points will be deducted only for one deficiency of the same kind within a sub-area. For example, if multiple deficiencies for broken windows are recorded, only the most severe deficiency observed (or one of the most severe, if there are multiple deficiencies with the same level of severity) will result in a point deduction.

8. Essential Weights and Levels

The process of scoring a project's physical condition depends on the weights, levels, and associated values of the following quantities:

• Weights for the 5 inspectable areas (site, building exteriors, building systems, common areas, and dwelling units).

• Weights for inspectable items within inspectable areas (8 to 17 per area).

• Criticality levels (critical, very important, important, contributes, and slight contribution) plus their associated values for deficiencies within areas inspected.

• Severity levels (3, 2, and 1) and their associated values for deficiencies.

• Health and safety deductions (exigent/fire safety and non-life threatening for all inspectable areas).

• Point loss cap, defined at the inspectable area level.

9. Normalized Area Weights

Area weights are used to obtain a weighted average of area scores. A project's overall physical condition score is a weighted average of all inspectable area scores. The nominal weights are:

Inspectable area | Weight (percent)
Site | 15
Building Exterior | 15
Building Systems | 20
Common Areas | 15
Dwelling Units | 35

These weights are assigned for all inspections when all inspectable items are present for each area and for each building and unit. All of the inspectable items may not be present in every inspectable area. When items are missing in an area, the area weights are modified to reflect the missing items so that within that area they will add up to 100 percent. Area weights are recalculated when some inspectable items are missing in one or more area(s).

Although rare, it is possible that an inspectable area could have no inspectable items available; for example, there could be no common areas in the inspected residential buildings and no common buildings. In this case, the weight of the “common areas” would be zero percent and its original 15 percent weight would be equitably redistributed to the other inspectable areas. The 15 percent is redistributed by totaling the weights of other inspectable areas (15 + 15 + 20 + 35 = 85) and dividing the weights of each by that amount (0.85, which is 85% expressed as a decimal). The modified weights are 17.6 percent, 17.6 percent and 23.5 percent, zero percent, and 41.2 percent for site, building exterior, building systems, common areas, and units, respectively, and they add up to 100 percent.

10. Area and Sub-Area Scores

For inspectable areas with sub-areas (all areas except sites), the inspectable area score is a weighted average of the sub-area scores within that area. The scoring protocol determines the amenity weight for the site and each sub-area as noted in Section VI.1 under the definition for normalized sub-area weight. For example, a property with no fencing or gates in the inspectable area of the site would have an amenity weight of 90 percent or 0.9 (100 percent minus 10 percent for lack of fencing and gates), and a single dwelling unit with all items available for inspection, except a call-for-aid would have an amenity weight of 0.98 or 98 percent (100 percent minus 2 percent for lack of call-for-aid). A call-for-aid is a system designed to provide elderly residents the opportunity to call for help in the event of an emergency.

The amenity weight excludes all health and safety items. Each deficiency as weighted and normalized are subtracted from the sub-area or site-weighted amenity score. Sub-area and site area scores are further reduced for any observed health and safety deficiencies. These deductions are taken at the site, building, or unit level. At this point, a control is applied to prevent a negative site, building, or unit score. The control ensures that no single building or unit can affect an area score more than its weighted share.

11. Overall Project Score

The overall project score is the weighted average of the five inspectable area scores, with the five areas weighted by their normalized weights. Normalized area weights reflect both the initial weights and the relative weights between areas of inspectable items actually present. For reporting purposes, the number of possible points is the normalized area weight adjusted by multiplying by 100 so that the possible points for the five areas add up to 100. In the Physical Inspection Report for each project that is sent to the PHA, the following items are listed:

• Normalized weights as the “possible points” by area;

• The area scores, taking into account the points deducted for observed deficiencies;

• The deductions for H&S for each inspectable area; and

• The overall project score.

The Physical Inspection Report allows the PHA and the project manager to see the magnitude of the points lost by inspectable area and the impact on the score of the H&S deficiencies.

12. Examples of Physical Condition Score Calculations

The physical inspection scoring is deficiency based. All projects start with 100 points. Each deficiency observed reduces the score by an amount dependent on the importance and severity of the deficiency, the number of buildings and units inspected, the inspectable items actually present to be inspected, and the relative weights between inspectable items and inspectable areas.

The calculation of a physical condition score is illustrated in the examples provided below. The examples go through a number of interim stages in calculating the score, illustrating how sub-area scores are calculated for a single project, how the sub-area scores are rolled up into area scores, how the point cap is applied, and how area scores are combined to calculate the overall project score. One particular deficiency, missing/damaged/expired fire extinguishers, is carried through the example.

As will be seen, the deduction starts as a percent of the sub-area. Then the area score is decreased considerably in the final overall project score since it is averaged across other sub-areas (building systems in the example) and then averaged across the five inspectable areas. Last, as applicable, the points deducted due to the observance of a particular deficiency are reduced by the application of the point loss cap. Although interim results in the examples are rounded to one decimal, only the final results are rounded for actual calculations.

Following this section, another example is given specifically for public housing projects to show how project scores are rolled up into the PHAS physical indicator score for the PHA as a whole.

Example #1. This example illustrates how the score for a sub-area of building systems is calculated based on the following features.

Consider a project for which the five inspectable areas are present and during the inspection of a residential building with 28 units missing/damaged/expired fire extinguishers are observed. This deficiency has a severity level of 3, which has a severity weight of 1.00 (see Item 1 of this section); a criticality level of 5, which has a criticality weight of 5 (see Item 1 of this section); and an item weight of 15.5. The amount of the points deducted is the item weight (15.5), multiplied by the criticality weight (5), multiplied by the severity weight (1), which equals 77.5.

If this sub-area has all inspectable items, the amenity weight for the sub-area adds to 100%. If missing/damaged/expired fire extinguishers is the only deficiency observed, the initial proportionate score for this sub-area (building systems in building one) is the amenity score minus the deficiency points, normalized to a 100-point basis. In this instance the initial proportionate sub-area score is 100 − 77.5 = 22.5 × (100 ÷ 100) = 22.5. Because the point deduction for the missing/damaged/expired fire extinguishers is 77.5, this deficiency accounts for 77.5% of the sub-area score. Additional deficiencies or H&S deficiencies would be calculated in the same manner and further decrease the sub-area score, and if the result is less than zero (a negative number) the score is set to zero.

Element | Associated value
Amenity score | 100.00
Deficiency points | 77.5
Calculation for the initial proportionate score | 100.00 − 77.5 = 22.5
Normalizing factor | 100 ÷ 100 = 1
Normalized initial sub-area score | 22.5 × 1= 22.5

Example #2. This example illustrates how the building systems inspectable area score is calculated from the sub-area score. Consider a property with two buildings with the following characteristics:

• Building One (from example #1 above):

— 28 units

— 100 percent amenity weight for items that are present to be inspected in building systems

— Building systems sub-area score is 22.5 points

• Building Two:

— 2 units

— 62 percent amenity weight for items that are present to be inspected in the building's systems

— Building systems sub-area score is 100.0 points

The score for the building systems area is the weighted average of the individual scores for each building's systems. Each building systems score is weighted by the number of units and the percent of the weight for items present to be inspected in the building systems inspectable area.

The building systems area score is determined as follows. First, the unit weighted average for each building is computed by multiplying the number of units in the building by the amenity weight for that building. The unit weighted average for each building then is divided by the total of the building weights for all buildings in the property to determine the proportion of building weight for each building. Multiplying the proportion of building weight by the initial sub-area score for the building produces the building systems area score. The building systems area score for the property is the sum of the building systems area score for each building.

In this example, the buildings systems area score for the property is 25.7.

Building | Number of units | × | Amenity weight | = | Unit weighted average
One | 28 |  | 1.00 |  | 28.0
Two | 2 |  | .62 |  | 1.24
Total | 30 |  |  |  | 29.24

Unit weighted average | ÷ | Sum of building weights | = | Proportion of building weight
28.0 |  | 29.24 |  | .958
1.24 |  | 29.24 |  | .042
29.24 |  |  |  |

Proportion of building weight | × | Initial sub-area score | = | Building systems Area score
.958 |  | 22.5 |  | 21.5
.042 |  | 100.0 |  | 4.2
|  |  |  | 25.7

As shown in the calculations above, the proportion of building weight allocated to building one is 95.8% (28.0 ÷ 29.24 = .958). A building systems area score of 25.7 indicates that the point deduction for the missing/damaged/expired fire extinguishers in building one is 74.2 points: the number of points deducted at the sub-area (from example #1) multiplied by the proportion of building weight allocated to building one, or 77.5 × .958 = 74.2.

Example #3. This example illustrates how the overall weighted average for the building systems area amenity weight is calculated. The unit weighted average of amenity weight for each building is computed by dividing the unit weighted average for the building (as calculated in example #2) by the total number of units in the property. Normalizing the unit weighted average of amenity weights for each building by multiplying by 100 results in the overall building systems weighted average amenity weight. In this example, the overall building systems weighted average amenity weight for the property is 97.4.

Building | Unit weighted average | ÷ | Total units in property | = | Unit weighted average of amenity weights | × | Normalized to a 100 point basis | = | Overall building systems weighted average amenity weight
One | 28.0 |  | 30 |  | .933 |  | 100 |  | 93.3
Two | 1.24 |  | 30 |  | .041 |  | 100 |  | 4.1
Total | 29.24 |  |  |  |  |  |  |  | 97.4

Example #4. This example illustrates how the score for a property is calculated. Consider a property with the following characteristics. All of the values are presumed except for the values buildings systems which were calculated in the preceding examples.

• Site

—Score: 90 points

—67.5 percent weighted average amenity weight

—Nominal area weight: 15 percent

• Building Exteriors

—Score: 85 points

—100 percent weighted average amenity weight

—Nominal area weight: 15 percent

• Building Systems (from Examples 2 and 3)

—Score: 25.7 points

—97.4 percent weighted average amenity weight

—Nominal area weight: 20 percent

• Common Areas

—Score: 77 points

—20 percent weighted average amenity weight

—Nominal area weight: 15 percent

• Dwelling Units

—Score: 85 points

—94 weighted average amenity weight

—Nominal area weight: 35 percent

To calculate the property score, the adjusted area weights for all five inspectable areas are determined. The amenity weights for each of the five inspectable areas shown in the table below are all presumed, except for the amenity weight for building systems that was calculated in the three examples above.

The property score is determined as follows. The amenity weighted average is computed by multiplying the nominal area weight for the inspectable area (see Item 1 of this Section) by the amenity weight (presumed for the example). Next, the amenity weighted averages for the five inspectable areas are added to determine the total adjusted weight (80.5 in this example) to determine the maximum possible points for the inspectable area, each amenity weighted average is divided by the total adjusted weight and then multiplied by 100 to normalize the result. The sum of the five maximum inspectable area points is the total number of possible points for the property. In this example, the maximum possible points, 99.9, was rounded to 100.

Inspectable area | Nominal area weight | × | Amenity weight | = | Amenity weighted average | ÷ | Total adjusted weight | × | Normalized to 100 point scale | = | Maximum Possible area points
Site | 15 |  | 0.675 |  | 10.1 |  | 80.5 |  | 100 |  | 12.5
Building Exterior | 15 |  | 1.00 |  | 15.0 |  | 80.5 |  | 100 |  | 18.6
Building Systems | 20 |  | 0.974 |  | 19.5 |  | 80.5 |  | 100 |  | 24.2
Common Areas | 15 |  | 0.20 |  | 3.0 |  | 80.5 |  | 100 |  | 3.7
Dwelling Units | 35 |  | 0.94 |  | 32.9 |  | 80.5 |  | 100 |  | 40.9
Total |  |  |  |  | 80.5 |  |  |  |  |  | 100.0

Before the final property score is calculated, the points deducted for each deficiency are checked against the point loss cap in the applicable inspectable area to assure that no single deficiency results in the deduction of too many points. For the missing/damaged/expired fire extinguishers in building one, the points deducted under building systems will be the result of multiplying the number of building systems points deducted for the deficiency (74.2 as determined in example #2) by the proportion of total points allocated to the building systems inspectable area (.242 from the table above). In this example, the points deducted for this deficiency would be 74.2 × .242 = 18.0. Because the point loss cap for building systems is 10 points, this 18.0 point deduction exceeds the cap. Therefore, the total points deducted due to the missing/damaged/expired fire extinguishers deficiency in building one is reduced to 10.

There are four steps to implement the point deduction in the final score. First, the points lost at the area level are set. For this property, the building systems points deducted due to missing/damaged/expired fire extinguishers is set by dividing the point cap (10) by the proportion of total points allocated to building systems (.242), or 10 ÷ .242 = 41.3.

Second, the building systems sub-area weight for building one is set. This is determined by dividing the points lost at the area level (41.3) by the proportion of building weight for building one (.958), or 41.3 ÷ .958 = 43.1.

Third, the building one building systems sub-area score is recalculated by summing the building systems deficiencies in building one. In example #1, the missing/damaged/expired fire extinguishers is the only deficiency in this sub-area. Therefore, the recalculated sub-area score for building one building systems is the amenity score (100) minus the building systems sub-area deficiency points (43.1), or 100 − 43.1 = 56.9.

The last step in the application of the point loss cap is the determination of the building systems area score for the property.

Building | Number of units | × | Amenity weight | = | Unit weighted average | ÷ | Sum of the building weights | × | Initial proportionate score | = | Building systems area score
One | 28 |  | 1.00 |  | 28.0 |  | 29.24 |  | 56.9 |  | 54.5
Two | 2 |  | 0.62 |  | 1.24 |  | 29.24 |  | 100.0 |  | 4.2
Total | 30 |  |  |  | 29.24 |  |  |  |  |  | 58.7

The recalculated building systems area score is 58.7 points, and will be rounded to 59. This area score is used to calculate the overall property score.

The nominal possible points for each inspectable area is multiplied by the amenity weight, divided by the total adjusted amenity weight, and normalized to a 100-point basis, in order to produce the possible points for the inspectable area. The property score is the sum of all weighted inspectable area scores for that property. The example below reflects how the missing/damaged/expired fire extinguishers deficiency from example #1 in building systems impacts the overall property score. In this example, the property score of 78.9 is rounded to 79.

Inspectable area | Area points | × | Area score | ÷ | Normalized to a 100 point scale | = | Project weighted area scores
Site | 12.5 |  | 90 |  | 100 |  | 11.2
Building Exterior | 18.6 |  | 85 |  | 100 |  | 15.8
Building Systems | 24.2 |  | 59 |  | 100 |  | 14.3
Common Areas | 3.7 |  | 77 |  | 100 |  | 2.8
Dwelling Units | 40.9 |  | 85 |  | 100 |  | 34.8
Total | 100.0 |  |  |  |  |  | 78.9

13. Computing the PHAS Physical Inspection Score

The physical inspection score for the PHAS for a PHA is the weighted average of the PHA's individual project physical inspection scores, where the weights are the number of units in each project divided by the total number of units in all projects for the PHA.

Example: Project 1 has a score of 79 and has 30 units (from the example above)

Project 2 has a score of 88 and has 600 units.

The overall PHAS score is computed as follows:

Score = [79 × 30/(30+600)] + [88 × 600/(30+600)]

= 3.76 + 83.81

= 87.57 that rounds to an overall physical inspection score of 88.

14. Examples of Sampling Weights for Buildings

The determination of which buildings will be inspected is a two-phase process. In Phase 1 of the process, all common buildings and buildings that contain sampled dwelling units that will be inspected are included in the sampled buildings that will be inspected. (Dwelling units are sampled with equal probabilities at random from all buildings.) When all buildings in a project are not selected in the building sample through Phase 1, Phase 2 is used to increase the size of the building sample. In Phase 2, the additional buildings that are to be included in the sample are selected with equal probabilities so that the total residential building sample size is the lesser of either (1) the dwelling unit sample size, or (2) the number of residential buildings.

To illustrate the process for sampling buildings, two examples are provided below:

Example #1. This example illustrates a project with two buildings for which both buildings are sampled with certainty.

Building 1 has 10 dwelling units and building 2 has 20 dwelling units, for a total of 30 dwelling units. The target dwelling unit sample size for a project with 30 dwelling units is 15. Thus, the sampling ratio for this project is the total number of dwelling units divided by the unit sample size, or 30 ÷ 15 = 2. This means that every second dwelling unit will be selected. The number of residential buildings to be inspected is the minimum of 15 (the dwelling unit sample) and 2 (the number of residential buildings). Thus, 2 residential buildings will be inspected. Since both buildings have at least 2 dwelling units, both buildings are certain to be selected for inspection in Phase 1. Since all buildings were selected in Phase 1 of sampling, Phase 2 is not invoked. Both buildings will then have a selection probability of 1.00 and a sampling weight of 1.00.

Example #2. This example illustrates a project with some buildings selected in Phase 1, other buildings selected in Phase 2, and some buildings that are not selected at all.

The project is comprised of 22 residential buildings. Two of the buildings each have 10 dwelling units and the other 20 buildings are single-family dwelling units, for a total of 40 dwelling units (2 × 10) + 20 = 40. The target dwelling unit sample size for a project with 40 dwelling units is 16. The sampling ratio for this project is the total number of units divided by the unit sample size, or 40 ÷ 16 = 2.5. In accordance with the inspection protocol of inspecting the minimum of the dwelling unit sample (16) and the number of residential buildings (22), 16 of the residential buildings will be inspected for this project.

In Phase 1 of sampling, the two buildings with 10 dwelling units are selected with certainty since each building has more than 2.5 dwelling units. Each of the single-family buildings has a 1 ÷ 2.5 or 0.40 probability of selection in Phase 1.

Assume that both multi-unit buildings and eight of the single-family buildings (10 buildings in all) are selected in Phase 1. This leaves 12 single-family buildings available for selection in Phase 2. Since 16 residential buildings will be inspected, the sample of 10 buildings selected in Phase 1 falls six buildings short of a full sample. Therefore, six buildings will be selected in Phase 2. Since Phase 2 sampling will select 6 of the 12 previously unselected buildings, each building not selected in Phase 1 will have a six in 12 (0.50) probability of selection in Phase 2.

The two multi-unit buildings each have a sampling probability calculated as follows:

Sampling probability = 1.00 + ((1.00 − 1.00) × 0.50) = 1.00. The sampling weight for these buildings is 1.

The single-family buildings each have a sampling probability calculated as follows:

Sampling probability = 0.40 + ((1.00 − 0.40) × 0.50) = 0.70. The sampling weight of selected single-family buildings is 1 ÷ 0.70 = 1.43.

15. Accessibility Questions

HUD reviews particular elements during the physical inspection to determine possible indications of noncompliance with the Fair Housing Act (42 U.S.C. 3601-3619) and section 504 of the Rehabilitation Act of 1973 (29 U.S.C. 794). More specifically, during the physical inspection, the inspector will record if: (1) There is a wheelchair-accessible route to and from the main ground floor entrance of the buildings inspected; (2) the main entrance for every building inspected is at least 32 inches wide, measured between the door and the opposite door jamb; (3) there is an accessible route to all exterior common areas; and (4) for multi-story buildings that are inspected, the interior hallways to all inspected units and common areas are at least 36 inches wide. These items are recorded, but do not affect the score.

IV. Environmental Review

This notice provides operating instructions and procedures in connection with activity under the Public Housing Assessment System regulations at 24 DFR part 902 that have previously been subject to the required environmental review. Accordingly, under 24 CFR 50.19(c)(4), this notice is categorically excluded from environmental review under the National Environmental Policy Act of 1969 (42 U.S.C. 4321).

Dated: July 26, 2012.
Sandra B. Henriquez,
Assistant Secretary for Public and Indian Housing.

Appendix I: Item Weights and Criticalities

Area—Site
Inspectable item | Nominal item weight (percent) | Observable deficiency | Criticality | Level: 1 | Level: 2 | Level: 3 | H&S
Fencing and Gates | 10.0 | Holes/Missing Sections/Damaged/Falling/Leaning (Non-security/Non-safety) | 3 |  | X |  |
| 10.0 | Holes/Missing Sections/Damaged/Falling/Leaning (Security/Safety) | 4 | X | X | X | NLT
Grounds | 12.5 | Erosion/Rutting Areas | 4 |  | X | X | NLT
| 12.5 | Overgrown/Penetrating Vegetation | 3 |  | X | X |
| 12.5 | Ponding/Site Drainage | 4 |  | X | X |
Health & Safety | 12.5 | Air Quality—Sewer Odor Detected | 3 |  |  | X | NLT
| 12.5 | Air Quality—Propane/Natural Gas/Methane Gas Detected | 5 |  |  | X | LT
| 12.5 | Electrical Hazards—Exposed Wires/Open Panels | 5 |  |  | X | LT
| 12.5 | Electrical Hazards—Water Leaks on/near Electrical Equipment | 5 |  |  | X | LT
| 12.5 | Flammable/Combustible Materials—Improperly Stored | 3 |  |  | X | NLT
| 12.5 | Garbage and Debris—Outdoors | 3 |  |  | X | NLT
| 0.0 | Hazards—Other | 3 |  |  | X | NLT
| 12.5 | Hazards—Sharp Edges | 3 |  |  | X | NLT
| 12.5 | Hazards—Tripping | 3 |  |  | X | NLT
| 12.5 | Infestation—Insects | 3 |  |  | X | NLT
| 12.5 | Infestation—Rats/Mice/Vermin | 3 |  |  | X | NLT
Mailboxes/Project Signs | 1.0 | Mailbox Missing/Damaged | 2 |  |  | X |
| 1.0 | Signs Damaged | 2 | X |  |  |
Market Appeal | 8.0 | Graffiti | 4 | X | X | X |
| 8.0 | Litter | 4 |  | X |  |
Parking Lots/Driveways/Roads | 8.5 | Cracks/Settlement/Heaving/Loose Materials/Potholes | 4 |  | X | X |
| 8.5 | Ponding | 4 |  | X | X |
Play Areas and Equipment | 12.5 | Damaged/Broken Equipment | 3 | X | X | X | NLT
| 12.5 | Deteriorated Play Area Surface | 3 |  | X | X |
Refuse Disposal | 12.5 | Broken/Damaged Enclosure—Inadequate Outside Storage Space | 3 |  | X |  |
Retaining Walls | 10.0 | Damaged/Falling/Leaning | 4 | X |  | X | NLT
Storm Drainage | 12.5 | Damaged/Obstructed | 5 |  | X | X |
Walkways/Steps | 12.5 | Broken/Missing Hand Railing | 3 |  |  | X | NLT
| 12.5 | Cracks/Settlement/Heaving | 3 |  | X |  |
| 12.5 | Spalling | 3 | X | X |  |
Note: 1) Nominal item weight assumes that all items for the Site are present. Item weights would be adjusted accordingly when items are not applicable (N/A).
2) The Health & Safety item assumes the highest item weight for a particular inspection. Nominally it is equal to 12.5%.
3) “X” in the level column indicates which levels are applicable.
4) Only level 3 is applied to H&S deficiencies.
5) In the H&S column, NLT is non-life threatening H&S and LT (life threatening) is exigent/fire safety (calling for immediate attention or remedy).

Area—Building Exterior
Inspectable item | Nominal item weight (percent) | Observable deficiency | Criticality | Level: 1 | Level: 2 | Level: 3 | H&S
Doors | 18.4 | Damaged Frames/Threshold/Lintels/Trim | 2 |  | X | X | NLT
| 18.4 | Damaged Hardware/Locks | 3 |  | X | X |
| 18.4 | Damaged Surface (Holes/Paint/Rust/Glass) | 4 |  | X | X |
| 18.4 | Damaged/Missing Screen/Storm/Security Door | 3 | X |  | X | NLT
| 18.4 | Deteriorated/Missing Caulking/Seals | 4 |  |  | X |
| 18.4 | Missing Door | 5 |  |  | X |
FHEO | 0.0 | FHEO—Main Entrance Less Than 32” Wide | 5 |  |  | X |
| 0.0 | FHEO—Obstructed or Missing Accessibility Route | 5 |  |  | X |
Fire Escapes | 18.4 | Blocked Egress/Ladders | 5 |  |  | X | LT
| 18.4 | Visibly Missing Components | 5 |  |  | X | LT
Foundations | 18.4 | Cracks/Gaps | 5 |  | X | X |
| 18.4 | Spalling/Exposed Rebar | 4 |  | X | X |
Health and Safety | 18.4 | Electrical Hazards—Exposed Wires/Open Panels | 5 |  |  | X | LT
| 18.4 | Electrical Hazards—Water Leaks on/near Electrical Equipment | 5 |  |  | X | LT
| 18.4 | Emergency Fire Exits—Emergency/Fire Exits Blocked/Unusable | 5 |  |  | X | LT
| 18.4 | Emergency Fire Exits—Missing Exit Signs | 3 |  |  | X | NLT
| 18.4 | Flammable/Combustible Materials—Improperly Stored | 3 |  |  | X | NLT
| 18.4 | Garbage and Debris—Outdoors | 3 |  |  | X | NLT
| 0.0 | Hazards—Other | 3 |  |  | X | NLT
| 18.4 | Hazards—Sharp Edges | 3 |  |  | X | NLT
| 0.0 | Hazards—Tripping | 3 |  |  | X | NLT
| 18.4 | Infestation—Insects | 3 |  |  | X | NLT
| 18.4 | Infestation—Rats/Mice/Vermin | 3 |  |  | X | NLT
Lighting | 11.5 | Broken Fixtures/Bulbs | 4 |  | X | X |
Roofs | 18.4 | Damaged/Clogged Drains | 5 |  | X | X |
| 18.4 | Damaged Soffits/Fascia/Soffit Vents | 4 | X |  | X |
| 18.4 | Damaged Vents | 4 | X |  | X |
| 18.4 | Damaged/Torn Membrane/Missing Ballast | 5 |  | X | X |
| 18.4 | Missing/Damaged Components from Downspout/Gutter | 3 | X | X | X |
| 18.4 | Missing/Damaged Shingles | 5 | X | X | X |
| 18.4 | Ponding | 4 |  |  | X |
Walls | 14.9 | Cracks/Gaps | 5 |  | X | X |
| 14.9 | Damaged Chimneys | 4 | X | X | X | NLT
| 14.9 | Missing/Damaged Caulking/Mortar | 4 | X | X |  |
| 14.9 | Missing Pieces/Holes/Spalling | 4 |  | X | X |
| 14.9 | Stained/Peeling/Needs Paint | 3 | X | X |  |
Windows | 0.0 | Cracked/Broken/Missing Panes | 3 | X |  | X | NLT
| 0.0 | Damaged/Missing Screens | 2 | X |  |  |
| 0.0 | Damaged Sills/Frames/Lintels/Trim | 5 | X | X |  |
| 0.0 | Missing/Deteriorated Caulking/Seals/Glazing Compound | 5 | X |  | X |
| 0.0 | Peeling/Needs Paint | 2 | X |  |  |
Note: 1) Nominal item weight assumes that all items for the Building Exterior are present. Item weights would be adjusted accordingly when items are not applicable (N/A).
2) The Health & Safety item assumes the highest item weight for a particular inspection. Nominally it is equal to 18.4%.
3) “X” in the level column indicates which levels are applicable.
4) Only level 3 is applied to H&S deficiencies.
5) In the H&S column, NLT is non-life threatening H&S and LT (life threatening) is exigent/fire safety (calling for immediate attention or remedy).

Area—Building Systems
Inspectable item | Nominal item weight (percent) | Observable deficiency | Criticality | Level: 1 | Level: 2 | Level: 3 | H&S
Domestic Water | 15.5 | General Rust/Corrosion on Heater Chimney | 2 |  |  | X | NLT
| 15.5 | Leaking Central Water Supply | 4 |  |  | X |
| 15.5 | Misaligned Chimney/Ventilation System | 5 |  |  | X | LT
| 15.5 | Missing Pressure Relief Valve | 5 |  |  | X | NLT
| 15.5 | Water Supply Inoperable | 5 |  |  | X | NLT
Electrical System | 15.5 | Blocked Access/Improper Storage | 3 |  |  | X | NLT
| 15.5 | Burnt Breakers | 4 |  |  | X | NLT
| 15.5 | Evidence of Leaks/Corrosion | 5 |  |  | X | NLT
| 15.5 | Frayed Wiring | 5 |  |  | X |
| 15.5 | Missing Breakers/Fuses | 5 |  |  | X | LT
| 15.5 | Missing Covers | 5 |  |  | X | LT
Elevators | 5.0 | Inoperable | 5 |  |  | X | NLT
Emergency Power | 2.0 | Auxiliary Lighting Inoperable | 5 |  |  | X |
| 2.0 | Run-Up Records/Documentation Not Available | 4 |  | X | X |
Fire Protection | 15.5 | Missing Sprinkler Head | 5 |  |  | X | NLT
| 15.5 | Missing/Damaged/Expired Extinguishers | 5 | X | X | X | LT
Health & Safety | 15.5 | Air Quality—Mold and/or Mildew Observed | 3 |  |  | X | NLT
| 15.5 | Air Quality—Propane/Natural Gas/Methane Gas Detected | 5 |  |  | X | LT
| 15.5 | Air Quality—Sewer Odor Detected | 3 |  |  | X | NLT
| 15.5 | Electrical Hazards—Exposed Wires/Open Panels | 5 |  |  | X | LT
| 15.5 | Electrical Hazards—Water Leaks on/near Electrical Equipment | 5 |  |  | X | LT
| 15.5 | Elevator—Tripping | 3 |  |  | X | NLT
| 15.5 | Emergency Fire Exits—Emergency/Fire Exits Blocked/Unusable | 5 |  |  | X | LT
| 15.5 | Emergency Fire Exits—Missing Exit Signs | 3 |  |  | X | NLT
| 15.5 | Flammable/Combustible Materials—Improperly Stored | 3 |  |  | X | NLT
| 15.5 | Garbage and Debris—Indoors | 3 |  |  | X | NLT
| 15.5 | Garbage and Debris—Outdoors | 3 |  |  | X | NLT
| 0.0 | Hazards—Other | 3 |  |  | X | NLT
| 15.5 | Hazards—Sharp Edges | 3 |  |  | X | NLT
| 0.0 | Hazards—Tripping | 3 |  |  | X | NLT
| 15.5 | Infestation—Insects | 3 |  |  | X | NLT
| 15.5 | Infestation—Rats/Mice/Vermin | 3 |  |  | X | NLT
HVAC | 15.5 | Boiler/Pump/Cooling System Leaks | 4 | X |  | X |
| 15.5 | Fuel Supply Leaks | 4 |  |  | X | NLT
| 15.5 | General Rust/Corrosion | 2 |  | X | X | NLT
| 15.5 | Misaligned Chimney/Ventilation System | 5 |  |  | X | LT
Roof Exhaust System | 15.5 | Roof Exhaust Fan(s) Inoperable | 3 |  |  | X |
Sanitary System | 15.5 | Broken/Leaking/Clogged Pipes or Drains | 5 |  |  | X | NLT
| 15.5 | Missing Drain/Cleanout/Manhole Covers | 3 |  |  | X |
Note: 1) Nominal item weight assumes that all items for the Building System are present. Item weights would be adjusted accordingly when items are not applicable (N/A).
2) The Health & Safety item assumes the highest item weight for a particular inspection. Nominally it is equal to 15.5%.
3) “X” in the level column indicates which levels are applicable.
4) Only level 3 is applied to H&S deficiencies.
5) In the H&S column, NLT is non-life threatening H&S and LT (life threatening) is exigent/fire safety (calling for immediate attention or remedy).

Area—Common Areas
Inspectable item location | Nominal item weight (percent) | Observable deficiency | Criticality | Level: 1 | Level: 2 | Level: 3 | H&S
Basement/Garage/Carport | 5 | Ceiling—Bulging/Buckling | 4 |  |  | X |
| 5 | Ceiling—Holes/Missing Tiles/Panels/Cracks | 4 | X | X | X |
| 5 | Ceiling—Peeling/Needs Paint | 1 | X | X |  |
| 5 | Ceiling—Mold/Mildew/Water Stains/Water Damage | 2 | X |  | X |
| 5 | Doors—Damaged Frames/Threshold/Lintels/Trim | 3 |  | X | X | NLT
| 5 | Doors—Damaged Hardware/Locks | 3 | X | X | X |
| 5 | Doors—Damaged/Missing Screen/Storm/Security Door | 4 | X |  | X | NLT
| 5 | Doors—Damaged Surface (Holes/Paint/Rust/Glass) | 3 |  | X | X |
| 5 | Doors—Deteriorated/Missing Seals (Entry Only) | 5 |  |  | X |
| 5 | Doors—Missing Door | 4 | X | X | X |
| 5 | Electrical—Blocked Access to Electrical Panel | 3 |  |  | X | NLT
| 5 | Electrical—Burnt Breakers | 4 |  |  | X | NLT
| 5 | Electrical—Evidence of Leaks/Corrosion | 5 |  |  | X | NLT
| 5 | Electrical—Frayed Wiring | 5 |  |  | X |
| 5 | Electrical—Missing Breakers | 5 |  |  | X | LT
| 5 | Electrical—Missing Covers | 5 |  |  | X | LT
| 5 | Floors—Bulging/Buckling | 4 |  |  | X |
| 5 | Floors—Soft Floor Covering Damaged | 4 | X | X | X |
| 5 | Floors—Hard Floor Covering Missing/Damaged Flooring/Tiles | 4 | X | X | X |
| 5 | Floors—Peeling/Needs Paint | 1 | X | X |  |
| 5 | Floors—Rot/Deteriorated Subfloor | 4 |  | X | X |
| 5 | Floors—Mold/Mildew/Water Stains/Water Damage | 2 |  | X | X |
| 5 | Lighting—Missing/Damaged/Inoperable Fixture | 4 |  | X | X |
| 5 | Outlets/Switches/Cover Plates—Missing/Broken | 3 | X |  | X | LT
| 0 | Smoke Detector—Missing/Inoperable | 5 |  |  | X | LT
| 5 | Stairs—Broken/Damaged/Missing Steps | 3 |  |  | X | NLT
| 5 | Stairs—Broken/Missing Hand Railing | 3 |  |  | X | NLT
| 5 | Walls—Bulging/Buckling | 4 |  |  | X |
| 5 | Walls—Damaged | 3 | X | X | X |
| 5 | Walls—Damaged/Deteriorated Trim | 1 | X | X | X |
| 5 | Walls—Peeling/Needs Paint | 1 | X | X |  |
| 5 | Walls—Mold/Mildew/Water Stains/Water Damage | 2 | X |  | X |
| 5 | Windows—Cracked/Broken/Missing Panes | 3 | X |  | X | NLT
| 5 | Windows—Damaged/Missing Screens | 2 | X |  |  |
| 5 | Windows—Damaged Sills/Frames/Lintels/Trim | 4 | X | X |  |
| 5 | Windows—Missing/Deteriorated Caulking/Seals/Glazing Compound | 5 | X |  | X |
| 5 | Windows—Inoperable/Not Lockable | 3 | X |  | X | NLT
| 5 | Windows—Peeling/Needs Paint | 1 | X |  |  |
| 5 | Windows—Security Bars Prevent Egress | 5 |  |  | X | LT
Closet/Utility Mechanical | 5 | Ceiling—Bulging/Buckling | 4 |  |  | X |
| 5 | Ceiling—Holes/Missing Tiles/Panels/Cracks | 4 | X | X | X |
| 5 | Ceiling—Peeling/Needs Paint | 1 | X | X |  |
| 5 | Ceiling—Mold/Mildew/Water Stains/Water Damage | 2 | X |  | X |
| 5 | Doors—Damaged Frames/Threshold/Lintels/Trim | 2 |  | X | X | NLT
| 5 | Doors—Damaged Hardware/Locks | 3 | X | X | X |
| 5 | Doors—Damaged/Missing Screen/Storm/Security Door | 3 | X |  | X | NLT
| 5 | Doors—Damaged Surface (Holes/Paint/Rust/Glass) | 3 |  | X | X |
| 5 | Doors—Deteriorated/Missing Seals (Entry Only) | 4 |  |  | X |
| 5 | Doors—Missing Door | 5 | X | X | X | NLT
| 5 | Electrical—Blocked Access to Electrical Panel | 3 |  |  | X | NLT
| 5 | Electrical—Burnt Breakers | 4 |  |  | X | NLT
| 5 | Electrical—Evidence of Leaks/Corrosion | 5 |  |  | X | NLT
| 5 | Electrical—Frayed Wiring | 5 |  |  | X |
| 5 | Electrical—Missing Breakers | 5 |  |  | X | LT
| 5 | Electrical—Missing Covers | 5 |  |  | X | LT
| 5 | Floors—Bulging/Buckling | 4 |  |  | X |
| 5 | Floors—Soft Floor Covering Missing/Damaged | 4 | X | X | X |
| 5 | Floors—Hard Floor Covering Missing/Damaged Flooring/Tiles | 4 | X | X | X |
| 5 | Floors—Peeling/Needs Paint | 1 | X | X |  |
| 5 | Floors—Rot/Deteriorated Subfloor | 4 |  | X | X |
| 5 | Floors—Mold/Mildew/Water Stains/Water Damage | 2 |  | X | X |
| 5 | Lighting—Missing/Damaged/Inoperable Fixture | 4 |  | X | X |
| 5 | Outlets/Switches/Cover Plates—Missing/Broken | 3 | X |  | X | LT
| 0 | Smoke Detector—Missing/Inoperable | 5 |  |  | X | LT
| 5 | Stairs—Broken/Damaged/Missing Steps | 3 |  |  | X | NLT
| 5 | Stairs—Broken/Missing Hand Railing | 3 |  |  | X | NLT
| 5 | Walls—Bulging/Buckling | 4 |  |  | X |
| 5 | Walls—Damaged | 3 | X | X | X |
| 5 | Walls—Damaged/Deteriorated Trim | 1 | X | X | X |
| 5 | Walls—Peeling/Needs Paint | 1 | X | X |  |
| 5 | Walls—Mold/Mildew/Water Stains/Water Damage | 2 | X |  | X |
| 5 | Windows—Cracked/Broken/Missing Panes | 3 | X |  | X | NLT
| 5 | Windows—Damaged/Missing Screens | 2 | X |  |  |
| 5 | Windows—Damaged Sills/Frames/Lintels/Trim | 4 | X | X |  |
| 5 | Windows—Missing/Deteriorated Caulking/Seals/Glazing Compound | 5 | X |  | X |
| 5 | Windows—Inoperable/Not Lockable | 3 | X |  | X | NLT
| 5 | Windows—Peeling/Needs Paint | 1 | X |  |  |
| 5 | Windows—Security Bars Prevent Egress | 5 |  |  | X | LT
Community Room | 10 | Ceiling—Bulging/Buckling | 4 |  |  | X |
| 10 | Ceiling—Holes/Missing Tiles/Panels/Cracks | 4 | X | X | X |
| 10 | Ceiling—Peeling/Needs Paint | 1 | X | X |  |
| 10 | Ceiling—Mold/Mildew/Water Stains/Water Damage | 2 | X |  | X |
| 10 | Doors—Damaged Frames/Threshold/Lintels/Trim | 2 |  | X | X | NLT
| 10 | Doors—Damaged Hardware/Locks | 3 | X | X | X |
| 10 | Doors—Damaged/Missing Screen/Storm/Security Door | 3 | X |  | X | NLT
| 10 | Doors—Damaged Surface (Holes/Paint/Rust/Glass) | 3 |  | X | X |
| 10 | Doors—Deteriorated/Missing Seals (Entry Only) | 4 |  |  | X |
| 10 | Doors—Missing Door | 5 | X | X | X | NLT
| 10 | Electrical—Blocked Access to Electrical Panel | 3 |  |  | X | NLT
| 10 | Electrical—Burnt Breakers | 4 |  |  | X | NLT
| 10 | Electrical—Evidence of Leaks/Corrosion | 5 |  |  | X | NLT
| 10 | Electrical—Frayed Wiring | 5 |  |  | X |
| 10 | Electrical—Missing Breakers | 5 |  |  | X | LT
| 10 | Electrical—Missing Covers | 5 |  |  | X | LT
| 10 | Floors—Bulging/Buckling | 4 |  |  | X |
| 10 | Floors—Soft Floor Covering Missing/Damaged | 4 | X | X | X |
| 10 | Floors—Hard Floor Covering Missing/Damaged Flooring/Tiles | 4 | X | X | X |
| 10 | Floors—Peeling/Needs Paint | 1 | X | X |  |
| 10 | Floors—Rot/Deteriorated Subfloor | 4 |  | X | X |
| 10 | Floors—Mold/Mildew/Water Stains/Water Damage | 2 |  | X | X |
| 10 | HVAC—Misaligned Chimney/Ventilation System | 5 |  |  | X | LT
| 10 | HVAC—Inoperable | 5 |  |  | X |
| 10 | HVAC—Noisy/Vibrating/Leaking | 4 | X |  |  |
| 10 | HVAC—Convection/Radiant Heat System Covers Missing/Damaged | 2 |  |  | X |
| 10 | HVAC—General Rust/Corrosion | 2 | X | X | X |
| 10 | Lighting—Missing/Damaged/Inoperable Fixture | 4 |  | X | X |
| 10 | Outlets/Switches/Cover Plates—Missing/Broken | 3 | X |  | X | LT
| 0 | Smoke Detector—Missing/Inoperable | 5 |  |  | X | LT
| 10 | Stairs—Broken/Damaged/Missing Steps | 3 |  |  | X | NLT
| 10 | Stairs—Broken/Missing Hand Railing | 3 |  |  | X | NLT
| 10 | Walls—Bulging/Buckling | 4 |  |  | X |
| 10 | Walls—Damaged | 3 | X | X | X |
| 10 | Walls—Damaged/Deteriorated Trim | 1 | X | X | X |
| 10 | Walls—Peeling/Needs Paint | 1 | X | X |  |
| 10 | Walls—Mold/Mildew/Water Stains/Water Damage | 2 | X |  | X |
| 10 | Windows—Cracked/Broken/Missing Panes | 3 | X |  | X | NLT
| 10 | Windows—Damaged/Missing Screens | 2 | X |  |  |
| 10 | Windows—Damaged Sills/Frames/Lintels/Trim | 4 | X | X |  |
| 10 | Windows—Missing/Deteriorated Caulking/Seals/Glazing Compound | 5 | X |  | X |
| 10 | Windows—Inoperable/Not Lockable | 3 | X |  | X | NLT
| 10 | Windows—Peeling/Needs Paint | 1 | X |  |  |
| 10 | Windows—Security Bars Prevent Egress | 5 |  |  | X | LT
Day Care | 10 | Ceiling—Bulging/Buckling | 4 |  |  | X |
| 10 | Ceiling—Holes/Missing Tiles/Panels/Cracks | 4 | X | X | X |
| 10 | Ceiling—Peeling/Needs Paint | 1 | X | X |  |
| 10 | Ceiling—Mold/Mildew/Water Stains/Water Damage | 2 | X |  | X |
| 10 | Doors—Damaged Frames/Threshold/Lintels/Trim | 2 |  | X | X | NLT
| 10 | Doors—Damaged Hardware/Locks | 3 | X | X | X |
| 10 | Doors—Damaged/Missing Screen/Storm/Security Door | 3 | X |  | X | NLT
| 10 | Doors—Damaged Surface (Holes/Paint/Rust/Glass) | 3 |  | X | X |
| 10 | Doors—Deteriorated/Missing Seals (Entry Only) | 4 |  |  | X |
| 10 | Doors—Missing Door | 5 | X | X | X |
| 10 | Electrical—Blocked Access to Electrical Panel | 3 |  |  | X | NLT
| 10 | Electrical—Burnt Breakers | 4 |  |  | X | NLT
| 10 | Electrical—Evidence of Leaks/Corrosion | 5 |  |  | X | NLT
| 10 | Electrical—Frayed Wiring | 5 |  |  | X |
| 10 | Electrical—Missing Breakers | 5 |  |  | X | LT
| 10 | Electrical—Missing Covers | 5 |  |  | X | LT
| 10 | Floors—Bulging/Buckling | 4 |  |  | X |
| 10 | Floors—Soft Floor Covering Missing/Damaged | 4 | X | X | X |
| 10 | Floors—Hard Floor Covering Missing/Damaged Flooring/Tiles | 4 | X | X | X |
| 10 | Floors—Peeling/Needs Paint | 1 | X | X |  |
| 10 | Floors—Rot/Deteriorated Subfloor | 4 |  | X | X |
| 10 | Floors—Mold/Mildew/Water Stains/Water Damage | 2 |  | X | X |
| 10 | HVAC—Misaligned Chimney/Ventilation System | 5 |  |  | X | LT
| 10 | HVAC—Inoperable | 5 |  |  | X |
| 10 | HVAC—Noisy/Vibrating/Leaking | 4 | X |  |  |
| 10 | HVAC—Convection/Radiant Heat System Covers Missing/Damaged | 2 |  |  | X |
| 10 | HVAC—General Rust/Corrosion | 2 | X | X | X |
| 10 | Lighting—Missing/Damaged/Inoperable Fixture | 4 |  | X | X |
| 10 | Outlets/Switches/Cover Plates—Missing/Broken | 3 | X |  | X | LT
| 0 | Smoke Detector—Missing/Inoperable | 5 |  |  | X | LT
| 10 | Stairs—Broken/Damaged/Missing Steps | 3 |  |  | X | NLT
| 10 | Stairs—Broken/Missing Hand Railing | 3 |  |  | X | NLT
| 10 | Walls—Bulging/Buckling | 4 |  |  | X |
| 10 | Walls—Damaged | 3 | X | X | X |
| 10 | Walls—Damaged/Deteriorated Trim | 1 | X | X | X |
| 10 | Walls—Peeling/Needs Paint | 1 | X | X |  |
| 10 | Walls—Mold/Mildew/Water Stains/Water Damage | 2 | X |  | X |
| 10 | Windows—Cracked/Broken/Missing Panes | 3 | X |  | X | NLT
| 10 | Windows—Damaged/Missing Screens | 2 | X |  |  |
| 10 | Windows—Damaged Sills/Frames/Lintels/Trim | 4 | X | X |  |
| 10 | Windows—Missing/Deteriorated Caulking/Seals/Glazing Compound | 5 | X |  | X |
| 10 | Windows—Inoperable/Not Lockable | 3 | X |  | X | NLT
| 10 | Windows—Peeling/Needs Paint | 1 | X |  |  |
| 10 | Windows—Security Bars Prevent Egress | 5 |  |  | X | LT
FHEO | 0 | FHEO—Multi-story Building Hallways/Common Areas Less Than 36” Wide | 5 |  |  | X |
| 0 | FHEO—Routes Obstructed or Inaccessible to Wheelchair | 5 |  |  | X |
Halls/Corridors/Stairs | 10 | Ceiling—Bulging/Buckling | 4 |  |  | X |
| 10 | Ceiling—Holes/Missing Tiles/Panels/Cracks | 4 | X | X | X |
| 10 | Ceiling—Peeling/Needs Paint | 1 | X | X |  |
| 10 | Ceiling—Mold/Mildew/Water Stains/Water Damage | 2 | X |  | X |
| 10 | Doors—Damaged Frames/Threshold/Lintels/Trim | 2 |  | X | X | NLT
| 10 | Doors—Damaged Hardware/Locks | 3 | X | X | X |
| 10 | Doors—Damaged/Missing Screen/Storm/Security Door | 3 | X |  | X | NLT
| 10 | Doors—Damaged Surface (Holes/Paint/Rust/Glass) | 3 |  | X | X |
| 10 | Doors—Deteriorated/Missing Seals (Entry Only) | 4 |  |  | X |
| 10 | Doors—Missing Door | 5 | X | X | X |
| 10 | Electrical—Blocked Access to Electrical Panel | 3 |  |  | X | NLT
| 10 | Electrical—Burnt Breakers | 4 |  |  | X | NLT
| 10 | Electrical—Evidence of Leaks/Corrosion | 5 |  |  | X | NLT
| 10 | Electrical—Frayed Wiring | 5 |  |  | X |
| 10 | Electrical—Missing Breakers | 5 |  |  | X | LT
| 10 | Electrical—Missing Covers | 5 |  |  | X | LT
| 10 | Floors—Bulging/Buckling | 4 |  |  | X |
| 10 | Floors—Soft Floor Covering Missing/Damaged | 4 | X | X | X |
| 10 | Floors—Hard Floor Covering Missing/Damaged Flooring/Tiles | 4 | X | X | X |
| 10 | Floors—Peeling/Needs Paint | 1 | X | X |  |
| 10 | Floors—Rot/Deteriorated Subfloor | 4 |  | X | X |
| 10 | Floors—Mold/Mildew/Water Stains/Water Damage | 2 |  | X | X |
| 10 | Graffiti | 4 | X | X | X |
| 10 | HVAC—Misaligned Chimney/Ventilation System | 5 |  |  | X | LT
| 10 | HVAC—Inoperable | 5 |  |  | X |
| 10 | HVAC—Noisy/Vibrating/Leaking | 4 | X |  |  |
| 10 | HVAC—Convection/Radiant Heat System Covers Missing/Damaged | 2 |  |  | X |
| 10 | HVAC—General Rust/Corrosion | 2 | X | X | X |
| 10 | Lighting—Missing/Damaged/Inoperable Fixture | 4 |  | X | X |
| 10 | Mailbox—Missing/Damaged | 2 |  |  | X |
| 10 | Outlets/Switches/Cover Plates—Missing/Broken | 3 | X |  | X | LT
| 0 | Smoke Detector—Missing/Inoperable | 5 |  |  | X | LT
| 10 | Stairs—Broken/Damaged/Missing Steps | 3 |  |  | X | NLT
| 10 | Stairs—Broken/Missing Hand Railing | 3 |  |  | X | NLT
| 10 | Walls—Bulging/Buckling | 4 |  |  | X |
| 10 | Walls—Damaged | 3 | X | X | X |
| 10 | Walls—Damaged/Deteriorated Trim | 1 | X | X | X |
| 10 | Walls—Peeling/Needs Paint | 1 | X | X |  |
| 10 | Walls—Mold/Mildew/Water Stains/Water Damage | 2 | X |  | X |
| 10 | Windows—Cracked/Broken/Missing Panes | 3 | X |  | X | NLT
| 10 | Windows—Damaged/Missing Screens | 2 | X |  |  |
| 10 | Windows—Damaged Sills/Frames/Lintels/Trim | 4 | X | X |  |
| 10 | Windows—Missing/Deteriorated Caulking/Seals/Glazing Compound | 5 | X |  | X |
| 10 | Windows—Inoperable/Not Lockable | 3 | X |  | X | NLT
| 10 | Windows—Peeling/Needs Paint | 1 | X |  |  |
| 10 | Windows—Security Bars Prevent Egress | 5 |  |  | X | LT
| 10 | Pedestrian/Wheelchair Ramp | 3 |  | X | X |
Health & Safety | 10 | Air Quality—Mold and/or Mildew Observed | 3 |  |  | X | NLT
| 10 | Air Quality—Propane/Natural Gas/Methane Gas Detected | 5 |  |  | X | LT
| 10 | Air Quality—Sewer Odor Detected | 3 |  |  | X | NLT
| 10 | Electrical Hazards—Exposed Wires/Open Panels | 5 |  |  | X | LT
| 10 | Electrical Hazards—Water Leaks on/near Electrical Equipment | 5 |  |  | X | LT
| 10 | Emergency Fire Exits—Emergency/Fire Exits Blocked/Unusable | 3 |  |  | X | LT
| 10 | Emergency Fire Exits—Missing Exit Signs | 3 |  |  | X | NLT
| 10 | Flammable/Combustible Materials—Improperly Stored | 3 |  |  | X | NLT
| 10 | Garbage and Debris—Indoors | 3 |  |  | X | NLT
| 10 | Garbage and Debris—Outdoors | 3 |  |  | X | NLT
| 0 | Hazards—Other | 3 |  |  | X | NLT
| 10 | Hazards—Sharp Edges | 3 |  |  | X | NLT
| 0 | Hazards—Tripping | 3 |  |  | X | NLT
| 10 | Infestation—Insects | 3 |  |  | X | NLT
| 10 | Infestation—Rats/Mice/Vermin | 3 |  |  | X | NLT
Kitchen | 10 | Cabinets—Missing/Damaged | 2 |  | X | X |
| 10 | Call for Aid—Inoperable | 3 |  |  | X | NLT
| 10 | Ceiling—Bulging/Buckling | 4 |  |  | X |
| 10 | Ceiling—Holes/Missing Tiles/Panels/Cracks | 4 | X | X | X |
| 10 | Ceiling—Peeling/Needs Paint | 1 | X | X |  |
| 10 | Ceiling—Mold/Mildew/Water Stains/Water Damage | 2 | X |  | X |
| 10 | Countertops—Missing/Damaged | 2 |  | X |  |
| 10 | Dishwasher/Garbage Disposal—Inoperable | 2 |  | X |  |
| 10 | Doors—Damaged Frames/Threshold/Lintels/Trim | 2 |  | X | X | NLT
| 10 | Doors—Damaged Hardware/Locks | 3 | X | X | X |
| 10 | Doors—Damaged/Missing Screen/Storm/Security Door | 3 | X |  | X | NLT
| 10 | Doors—Damaged Surface (Holes/Paint/Rust/Glass) | 3 |  | X | X |
| 10 | Doors—Deteriorated/Missing Seals (Entry Only) | 4 |  |  | X |
| 10 | Doors—Missing Door | 5 | X | X | X |
| 10 | Electrical—Blocked Access to Electrical Panel | 3 |  |  | X | NLT
| 10 | Electrical—Burnt Breakers | 4 |  |  | X | NLT
| 10 | Electrical—Evidence of Leaks/Corrosion | 5 |  |  | X | NLT
| 10 | Electrical—Frayed Wiring | 5 |  |  | X |
| 10 | Electrical—Missing Breakers | 5 |  |  | X | LT
| 10 | Electrical—Missing Covers | 5 |  |  | X | LT
| 10 | Floors—Bulging/Buckling | 4 |  |  | X |
| 10 | Floors—Soft Floor Covering Missing/Damaged | 4 | X | X | X |
| 10 | Floors—Hard Floor Covering Missing/Damaged Flooring/Tiles | 4 | X | X | X |
| 10 | Floors—Peeling/Needs Paint | 1 | X | X |  |
| 10 | Floors—Rot/Deteriorated Subfloor | 4 |  | X | X |
| 10 | Floors—Mold/Mildew/Water Stains/Water Damage | 2 |  | X | X |
| 10 | GFI—Inoperable | 5 |  |  | X | NLT
| 10 | HVAC—Misaligned Chimney/Ventilation System | 5 |  |  | X | LT
| 10 | HVAC—Inoperable | 5 |  |  | X |
| 10 | HVAC—Noisy/Vibrating/Leaking | 4 | X |  |  |
| 10 | HVAC—Convection/Radiant Heat System Covers Missing/Damaged | 2 |  |  | X |
| 10 | HVAC—General Rust/Corrosion | 2 | X | X | X |
| 10 | Lighting—Missing/Damaged/Inoperable Fixture | 4 |  | X | X |
| 10 | Outlets/Switches/Cover Plates—Missing/Broken | 3 | X |  | X | LT
| 10 | Plumbing—Clogged Drains | 4 | X |  | X | NLT
| 10 | Plumbing—Leaking Faucet/Pipes | 3 | X |  | X | NLT
| 10 | Range/Stove—Missing/Damaged/Inoperable | 3 | X | X | X |
| 10 | Range Hood/Exhaust Fans—Excessive Grease/Inoperable | 2 | X |  | X |
| 10 | Refrigerator—Damaged/Inoperable | 3 | X |  | X |
| 10 | Sink—Missing/Damaged | 5 | X |  | X | NLT
| 0 | Smoke Detector—Missing/Inoperable | 5 |  |  | X | LT
| 10 | Stairs—Broken/Damaged/Missing Steps | 3 |  |  | X | NLT
| 10 | Stairs—Broken/Missing Hand Railing | 3 |  |  | X | NLT
| 10 | Walls—Bulging/Buckling | 4 |  |  | X |
| 10 | Walls—Damaged | 3 | X | X | X |
| 10 | Walls—Damaged/Deteriorated Trim | 1 | X | X | X |
| 10 | Walls—Peeling/Needs Paint | 1 | X | X |  |
| 10 | Walls—Mold/Mildew/Water Stains/Water Damage | 2 | X |  | X |
| 10 | Windows—Cracked/Broken/Missing Panes | 3 | X |  | X | NLT
| 10 | Windows—Damaged/Missing Screens | 2 | X |  |  |
| 10 | Windows—Damaged Sills/Frames/Lintels/Trim | 4 | X | X |  |
| 10 | Windows—Missing/Deteriorated Caulking/Seals/Glazing Compound | 5 | X |  | X |
| 10 | Windows—Inoperable/Not Lockable | 3 | X |  | X | NLT
| 10 | Windows—Peeling/Needs Paint | 1 | X |  |  |
| 10 | Windows—Security Bars Prevent Egress | 5 |  |  | X | LT
Laundry Room | 10 | Ceiling—Bulging/Buckling | 4 |  |  | X |
| 10 | Ceiling—Holes/Missing Tiles/Panels/Cracks | 4 | X | X | X |
| 10 | Ceiling—Peeling/Needs Paint | 1 | X | X |  |
| 10 | Ceiling—Mold/Mildew/Water Stains/Water Damage | 2 | X |  | X |
| 10 | Doors—Damaged Frames/Threshold/Lintels/Trim | 2 |  | X | X | NLT
| 10 | Doors—Damaged Hardware/Locks | 3 | X | X | X |
| 10 | Doors—Damaged/Missing Screen/Storm/Security Door | 3 | X |  | X | NLT
| 10 | Doors—Damaged Surface (Holes/Paint/Rust/Glass) | 3 |  | X | X |
| 10 | Doors—Deteriorated/Missing Seals (Entry Only) | 4 |  |  | X |
| 10 | Doors—Missing Door | 5 | X | X | X |
| 10 | Dryer Vent—Missing/Damaged/Inoperable | 3 |  |  | X |
| 10 | Electrical—Blocked Access to Electrical Panel | 3 |  |  | X | NLT
| 10 | Electrical—Burnt Breakers | 4 |  |  | X | NLT
| 10 | Electrical—Evidence of Leaks/Corrosion | 5 |  |  | X | NLT
| 10 | Electrical—Frayed Wiring | 5 |  |  | X |
| 10 | Electrical—Missing Breakers | 5 |  |  | X | LT
| 10 | Electrical—Missing Covers | 5 |  |  | X | LT
| 10 | Floors—Bulging/Buckling | 4 |  |  | X |
| 10 | Floors—Soft Floor Covering Missing/Damaged | 4 | X | X | X |
| 10 | Floors—Hard Floor Covering Missing/Damaged Flooring/Tiles | 4 | X | X | X |
| 10 | Floors—Peeling/Needs Paint | 1 | X | X |  |
| 10 | Floors—Rot/Deteriorated Subfloor | 4 |  | X | X |
| 10 | Floors—Mold/Mildew/Water Stains/Water Damage | 2 |  | X | X |
| 10 | GFI—Inoperable | 5 |  |  | X | NLT
| 10 | HVAC—Misaligned Chimney/Ventilation System | 5 |  |  | X | LT
| 10 | HVAC—Inoperable | 5 |  |  | X |
| 10 | HVAC—Noisy/Vibrating/Leaking | 4 | X |  |  |
| 10 | HVAC—Convection/Radiant Heat System Covers Missing/Damaged | 2 |  |  | X |
| 10 | HVAC—General Rust/Corrosion | 2 | X | X | X |
| 10 | Lighting—Missing/Damaged/Inoperable Fixture | 4 |  | X | X |
| 10 | Outlets/Switches/Cover Plates—Missing/Broken | 3 | X |  | X | LT
| 0 | Smoke Detector—Missing/Inoperable | 5 |  |  | X | LT
| 10 | Stairs—Broken/Damaged/Missing Steps | 3 |  |  | X | NLT
| 10 | Stairs—Broken/Missing Hand Railing | 3 |  |  | X | NLT
| 10 | Walls—Bulging/Buckling | 4 |  |  | X |
| 10 | Walls—Damaged | 3 | X | X | X |
| 10 | Walls—Damaged/Deteriorated Trim | 1 | X | X | X |
| 10 | Walls—Peeling/Needs Paint | 1 | X | X |  |
| 10 | Walls—Mold/Mildew/Water Stains/Water Damage | 2 | X |  | X |
| 10 | Windows—Cracked/Broken/Missing Panes | 3 | X |  | X | NLT
| 10 | Windows—Damaged/Missing Screens | 2 | X |  |  |
| 10 | Windows—Damaged Sills/Frames/Lintels/Trim | 4 | X | X |  |
| 10 | Windows—Missing/Deteriorated Caulking/Seals/Glazing Compound | 5 | X |  | X |
| 10 | Windows—Inoperable/Not Lockable | 3 | X |  | X | NLT
| 10 | Windows—Peeling/Needs Paint | 1 | X |  |  |
| 10 | Windows—Security Bars Prevent Egress | 5 |  |  | X | LT
Lobby | 5 | Ceiling—Bulging/Buckling | 4 |  |  | X |
| 5 | Ceiling—Holes/Missing Tiles/Panels/Cracks | 4 | X | X | X |
| 5 | Ceiling—Peeling/Needs Paint | 1 | X | X |  |
| 5 | Ceiling—Mold/Mildew/Water Stains/Water Damage | 2 | X |  | X |
| 5 | Doors—Damaged Frames/Threshold/Lintels/Trim | 2 |  | X | X | NLT
| 5 | Doors—Damaged Hardware/Locks | 3 | X | X | X |
| 5 | Doors—Damaged/Missing Screen/Storm/Security Door | 3 | X |  | X | NLT
| 5 | Doors—Damaged Surface (Holes/Paint/Rust/Glass) | 3 |  | X | X |
| 5 | Doors—Deteriorated/Missing Seals (Entry Only) | 4 |  |  | X |
| 5 | Doors—Missing Door | 5 | X | X | X |
| 5 | Electrical—Blocked Access to Electrical Panel | 3 |  |  | X | NLT
| 5 | Electrical—Burnt Breakers | 4 |  |  | X | NLT
| 5 | Electrical—Evidence of Leaks/Corrosion | 5 |  |  | X | NLT
| 5 | Electrical—Frayed Wiring | 5 |  |  | X |
| 5 | Electrical—Missing Breakers | 5 |  |  | X | LT
| 5 | Electrical—Missing Covers | 5 |  |  | X | LT
| 5 | Floors—Bulging/Buckling | 4 |  |  | X |
| 5 | Floors—Soft Floor Covering Missing/Damaged | 4 | X | X | X |
| 5 | Floors—Hard Floor Covering Missing/Damaged Flooring/Tiles | 4 | X | X | X |
| 5 | Floors—Peeling/Needs Paint | 1 | X | X |  |
| 5 | Floors—Rot/Deteriorated Subfloor | 4 |  | X | X |
| 5 | Floors—Mold/Mildew/Water Stains/Water Damage | 2 |  | X | X |
| 5 | HVAC—Misaligned Chimney/Ventilation System | 5 |  |  | X | LT
| 5 | HVAC—Inoperable | 5 |  |  | X |
| 5 | HVAC—Noisy/Vibrating/Leaking | 4 | X |  |  |
| 5 | HVAC—Convection/Radiant Heat System Covers Missing/Damaged | 2 |  |  | X |
| 5 | HVAC—General Rust/Corrosion | 2 | X | X | X |
| 5 | Lighting—Missing/Damaged/Inoperable Fixture | 4 |  | X | X |
| 5 | Outlets/Switches/Cover Plates—Missing/Broken | 3 | X |  | X | LT
| 0 | Smoke Detector—Missing/Inoperable | 5 |  |  | X | LT
| 5 | Stairs—Broken/Damaged/Missing Steps | 3 |  |  | X | NLT
| 5 | Stairs—Broken/Missing Hand Railing | 3 |  |  | X | NLT
| 5 | Walls—Bulging/Buckling | 4 |  |  | X |
| 5 | Walls—Damaged | 3 | X | X | X |
| 5 | Walls—Damaged/Deteriorated Trim | 1 | X | X | X |
| 5 | Walls—Peeling/Needs Paint | 1 | X | X |  |
| 5 | Walls—Mold/Mildew/Water Stains/Water Damage | 2 | X |  | X |
| 5 | Windows—Cracked/Broken/Missing Panes | 3 | X |  | X | NLT
| 5 | Windows—Damaged/Missing Screens | 2 | X |  |  |
| 5 | Windows—Damaged Sills/Frames/Lintels/Trim | 4 | X | X |  |
| 5 | Windows—Missing/Deteriorated Caulking/Seals/Glazing Compound | 5 | X |  | X |
| 5 | Windows—Inoperable/Not Lockable | 3 | X |  | X | NLT
| 5 | Windows—Peeling/Needs Paint | 1 | X |  |  |
| 5 | Windows—Security Bars Prevent Egress | 5 |  |  | X | LT
Office | 5 | Ceiling—Bulging/Buckling | 4 |  |  | X |
| 5 | Ceiling—Holes/Missing Tiles/Panels/Cracks | 4 | X | X | X |
| 5 | Ceiling—Peeling/Needs Paint | 1 | X | X |  |
| 5 | Ceiling—Mold/Mildew/Water Stains/Water Damage | 2 | X |  | X |
| 5 | Doors—Damaged Frames/Threshold/Lintels/Trim | 2 |  | X | X | NLT
| 5 | Doors—Damaged Hardware/Locks | 3 | X | X | X |
| 5 | Doors—Damaged/Missing Screen/Storm/Security Door | 3 | X |  | X | NLT
| 5 | Doors—Damaged Surface (Holes/Paint/Rust/Glass) | 3 |  | X | X |
| 5 | Doors—Deteriorated/Missing Seals (Entry Only) | 4 |  |  | X |
| 5 | Doors—Missing Door | 5 | X | X | X |
| 5 | Electrical—Blocked Access to Electrical Panel | 3 |  |  | X | NLT
| 5 | Electrical—Burnt Breakers | 4 |  |  | X | NLT
| 5 | Electrical—Evidence of Leaks/Corrosion | 5 |  |  | X | NLT
| 5 | Electrical—Frayed Wiring | 5 |  |  | X |
| 5 | Electrical—Missing Breakers | 5 |  |  | X | LT
| 5 | Electrical—Missing Covers | 5 |  |  | X | LT
| 5 | Floors—Bulging/Buckling | 4 |  |  | X |
| 5 | Floors—Soft Floor Covering Missing/Damaged | 4 | X | X | X |
| 5 | Floors—Hard Floor Covering Missing/Damaged Flooring/Tiles | 4 | X | X | X |
| 5 | Floors—Peeling/Needs Paint | 1 | X | X |  |
| 5 | Floors—Rot/Deteriorated Subfloor | 4 |  | X | X |
| 5 | Floors—Mold/Mildew/Water Stains/Water Damage | 2 |  | X | X |
| 5 | HVAC—Misaligned Chimney/Ventilation System | 5 |  |  | X | LT
| 5 | HVAC—Inoperable | 5 |  |  | X |
| 5 | HVAC—Noisy/Vibrating/Leaking | 4 | X |  |  |
| 5 | HVAC—Convection/Radiant Heat System Covers Missing/Damaged | 2 |  |  | X |
| 5 | HVAC—General Rust/Corrosion | 2 | X | X | X |
| 5 | Lighting—Missing/Damaged/Inoperable Fixture | 4 |  | X | X |
| 5 | Outlets/Switches/Cover Plates—Missing/Broken | 3 | X |  | X | LT
| 0 | Smoke Detector—Missing/Inoperable | 5 |  |  | X | LT
| 5 | Stairs—Broken/Damaged/Missing Steps | 3 |  |  | X | NLT
| 5 | Stairs—Broken/Missing Hand Railing | 3 |  |  | X | NLT
| 5 | Walls—Bulging/Buckling | 4 |  |  | X |
| 5 | Walls—Damaged | 3 | X | X | X |
| 5 | Walls—Damaged/Deteriorated Trim | 1 | X | X | X |
| 5 | Walls—Peeling/Needs Paint | 1 | X | X |  |
| 5 | Walls—Mold/Mildew/Water Stains/Water Damage | 2 | X |  | X |
| 5 | Windows—Cracked/Broken/Missing Panes | 3 | X |  | X | NLT
| 5 | Windows—Damaged/Missing Screens | 2 | X |  |  |
| 5 | Windows—Damaged Sills/Frames/Lintels/Trim | 4 | X | X |  |
| 5 | Windows—Missing/Deteriorated Caulking/Seals/Glazing Compound | 5 | X |  | X |
| 5 | Windows—Inoperable/Not Lockable | 3 | X |  | X | NLT
| 5 | Windows—Peeling/Needs Paint | 1 | X |  |  |
| 5 | Windows—Security Bars Prevent Egress | 5 |  |  | X | LT
Other Community Spaces | 5 | Ceiling—Bulging/Buckling | 4 |  |  | X |
| 5 | Ceiling—Holes/Missing Tiles/Panels/Cracks | 4 | X | X | X |
| 5 | Ceiling—Peeling/Needs Paint | 1 | X | X |  |
| 5 | Ceiling—Mold/Mildew/Water Stains/Water Damage | 2 | X |  | X |
| 5 | Doors—Damaged Frames/Threshold/Lintels/Trim | 2 |  | X | X | NLT
| 5 | Doors—Damaged Hardware/Locks | 3 | X | X | X |
| 5 | Doors—Damaged/Missing Screen/Storm/Security Door | 3 | X |  | X | NLT
| 5 | Doors—Damaged Surface (Holes/Paint/Rust/Glass) | 3 |  | X | X |
| 5 | Doors—Deteriorated/Missing Seals (Entry Only) | 4 |  |  | X |
| 5 | Doors—Missing Door | 5 | X | X | X |
| 5 | Electrical—Blocked Access to Electrical Panel | 3 |  |  | X | NLT
| 5 | Electrical—Burnt Breakers | 4 |  |  | X | NLT
| 5 | Electrical—Evidence of Leaks/Corrosion | 5 |  |  | X | NLT
| 5 | Electrical—Frayed Wiring | 5 |  |  | X |
| 5 | Electrical—Missing Breakers | 5 |  |  | X | LT
| 5 | Electrical—Missing Covers | 5 |  |  | X | LT
| 5 | Floors—Bulging/Buckling | 4 |  |  | X |
| 5 | Floors—Soft Floor Covering Missing/Damaged | 4 | X | X | X |
| 5 | Floors—Hard Floor Covering Missing/Damaged Flooring/Tiles | 4 | X | X | X |
| 5 | Floors—Peeling/Needs Paint | 1 | X | X |  |
| 5 | Floors—Rot/Deteriorated Subfloor | 4 |  | X | X |
| 5 | Floors—Mold/Mildew/Water Stains/Water Damage | 2 |  | X | X |
| 5 | HVAC—Misaligned Chimney/Ventilation System | 5 |  |  | X | LT
| 5 | HVAC—Inoperable | 5 |  |  | X |
| 5 | HVAC—Noisy/Vibrating/Leaking | 4 | X |  |  |
| 5 | HVAC—Convection/Radiant Heat System Covers Missing/Damaged | 2 |  |  | X |
| 5 | HVAC—General Rust/Corrosion | 2 | X | X | X |
| 5 | Lighting—Missing/Damaged/Inoperable Fixture | 4 |  | X | X |
| 5 | Outlets/Switches/Cover Plates—Missing/Broken | 3 | X |  | X | LT
| 0 | Smoke Detector—Missing/Inoperable | 5 |  |  | X | LT
| 5 | Stairs—Broken/Damaged/Missing Steps | 3 |  |  | X | NLT
| 5 | Stairs—Broken/Missing Hand Railing | 3 |  |  | X | NLT
| 5 | Walls—Bulging/Buckling | 4 |  |  | X |
| 5 | Walls—Damaged | 3 | X | X | X |
| 5 | Walls—Damaged/Deteriorated Trim | 1 | X | X | X |
| 5 | Walls—Peeling/Needs Paint | 1 | X | X |  |
| 5 | Walls—Mold/Mildew/Water Stains/Water Damage | 2 | X |  | X |
| 5 | Windows—Cracked/Broken/Missing Panes | 3 | X |  | X | NLT
| 5 | Windows—Damaged/Missing Screens | 2 | X |  |  |
| 5 | Windows—Damaged Sills/Frames/Lintels/Trim | 4 | X | X |  |
| 5 | Windows—Missing/Deteriorated Caulking/Seals/Glazing Compound | 5 | X |  | X |
| 5 | Windows—Inoperable/Not Lockable | 3 | X |  | X | NLT
| 5 | Windows—Peeling/Needs Paint | 1 | X |  |  |
| 5 | Windows—Security Bars Prevent Egress | 5 |  |  | X | LT
Patio/Porch/Balcony | 5 | Baluster/Side Railings—Damaged | 3 |  |  | X |
| 5 | Ceiling—Bulging/Buckling | 4 |  |  | X |
| 5 | Ceiling—Holes/Missing Tiles/Panels/Cracks | 4 | X | X | X |
| 5 | Ceiling—Peeling/Needs Paint | 1 | X | X |  |
| 5 | Ceiling—Mold/Mildew/Water Stains/Water Damage | 2 | X |  | X |
| 5 | Doors—Damaged Frames/Threshold/Lintels/Trim | 2 |  | X | X | NLT
| 5 | Doors—Damaged Hardware/Locks | 3 | X | X | X |
| 5 | Doors—Damaged/Missing Screen/Storm/Security Door | 3 | X |  | X | NLT
| 5 | Doors—Damaged Surface (Holes/Paint/Rust/Glass) | 3 |  | X | X |
| 5 | Doors—Deteriorated/Missing Seals (Entry Only) | 4 |  |  | X |
| 5 | Doors—Missing Door | 5 | X | X | X |
| 5 | Electrical—Blocked Access to Electrical Panel | 3 |  |  | X | NLT
| 5 | Electrical—Burnt Breakers | 4 |  |  | X | NLT
| 5 | Electrical—Evidence of Leaks/Corrosion | 5 |  |  | X | NLT
| 5 | Electrical—Frayed Wiring | 5 |  |  | X |
| 5 | Electrical—Missing Breakers | 5 |  |  | X | LT
| 5 | Electrical—Missing Covers | 5 |  |  | X | LT
| 5 | Floors—Bulging/Buckling | 4 |  |  | X |
| 5 | Floors—Soft Floor Covering Missing/Damaged | 4 | X | X | X |
| 5 | Floors—Hard Floor Covering Missing/Damaged Flooring/Tiles | 4 | X | X | X |
| 5 | Floors—Peeling/Needs Paint | 1 | X | X |  |
| 5 | Floors—Rot/Deteriorated Subfloor | 4 |  | X | X |
| 5 | Floors—Mold/Mildew/Water Stains/Water Damage | 2 |  | X | X |
| 5 | Lighting—Missing/Damaged/Inoperable Fixture | 4 |  | X | X |
| 5 | Outlets/Switches/Cover Plates—Missing/Broken | 3 | X |  | X | LT
| 5 | Stairs—Broken/Damaged/Missing Steps | 3 |  |  | X | NLT
| 5 | Stairs—Broken/Missing Hand Railing | 3 |  |  | X | NLT
| 5 | Walls—Bulging/Buckling | 4 |  |  | X |
| 5 | Walls—Damaged | 3 | X | X | X |
| 5 | Walls—Damaged/Deteriorated Trim | 1 | X | X | X |
| 5 | Walls—Peeling/Needs Paint | 1 | X | X |  |
| 5 | Walls—Mold/Mildew/Water Stains/Water Damage | 2 | X |  | X |
| 5 | Windows—Cracked/Broken/Missing Panes | 3 | X |  | X | NLT
| 5 | Windows—Damaged/Missing Screens | 2 | X |  |  |
| 5 | Windows—Damaged Sills/Frames/Lintels/Trim | 4 | X | X |  |
| 5 | Windows—Missing/Deteriorated Caulking/Seals/Glazing Compound | 5 | X |  | X |
| 5 | Windows—Inoperable/Not Lockable | 3 | X |  | X | NLT
| 5 | Windows—Peeling/Needs Paint | 1 | X |  |  |
| 5 | Windows—Security Bars Prevent Egress | 5 |  |  | X | LT
Pools and Related Structures | 5 | Pools—Damaged/Not Intact—Fencing or Gate(s) | 5 |  |  | X |
| 5 | Pools—Inoperable | 2 |  |  | X |
Restrooms/Pool Structures | 5 | Call for Aid—Inoperable | 3 |  |  | X | NLT
| 5 | Ceiling—Bulging/Buckling | 4 |  |  | X |
| 5 | Ceiling—Holes/Missing Tiles/Panels/Cracks | 4 | X | X | X |
| 5 | Ceiling—Peeling/Needs Paint | 1 | X | X |  |
| 5 | Ceiling—Mold/Mildew/Water Stains/Water Damage | 2 | X |  | X |
| 5 | Doors—Damaged Frames/Threshold/Lintels/Trim | 2 |  | X | X | NLT
| 5 | Doors—Damaged Hardware/Locks | 3 | X | X | X |
| 5 | Doors—Damaged/Missing Screen/Storm/Security Door | 3 | X |  | X | NLT
| 5 | Doors—Damaged Surface (Holes/Paint/Rust/Glass) | 3 |  | X | X |
| 5 | Doors—Deteriorated/Missing Seals (Entry Only) | 4 |  |  | X |
| 5 | Doors—Missing Door | 5 | X | X | X |
| 5 | Electrical—Blocked Access to Electrical Panel | 3 |  |  | X | NLT
| 5 | Electrical—Burnt Breakers | 4 |  |  | X | NLT
| 5 | Electrical—Evidence of Leaks/Corrosion | 5 |  |  | X | NLT
| 5 | Electrical—Frayed Wiring | 5 |  |  | X |
| 5 | Electrical—Missing Breakers | 5 |  |  | X | LT
| 5 | Electrical—Missing Covers | 5 |  |  | X | LT
| 5 | Floors—Bulging/Buckling | 4 |  |  | X |
| 5 | Floors—Soft Floor Covering Missing/Damaged | 4 | X | X | X |
| 5 | Floors—Hard Floor Covering Missing/Damaged Flooring/Tiles | 4 | X | X | X |
| 5 | Floors—Peeling/Needs Paint | 1 | X | X |  |
| 5 | Floors—Rot/Deteriorated Subfloor | 4 |  | X | X |
| 5 | Floors—Mold/Mildew/Water Stains/Water Damage | 2 |  | X | X |
| 5 | GFI—Inoperable | 5 |  |  | X | NLT
| 5 | HVAC—Misaligned Chimney/Ventilation System | 5 |  |  | X | LT
| 5 | HVAC—Inoperable | 5 |  |  | X |
| 5 | HVAC—Noisy/Vibrating/Leaking | 4 | X |  |  |
| 5 | HVAC—Convection/Radiant Heat System Covers Missing/Damaged | 2 |  |  | X |
| 5 | HVAC—General Rust/Corrosion | 2 | X | X | X |
| 5 | Lavatory Sink—Damaged/Missing | 3 | X |  | X | NLT
| 5 | Lighting—Missing/Damaged/Inoperable Fixture | 4 |  | X | X |
| 5 | Outlets/Switches/Cover Plates—Missing/Broken | 3 | X |  | X | LT
| 5 | Plumbing—Clogged Drains | 5 | X |  | X | NLT
| 5 | Plumbing—Leaking Faucet/Pipes | 4 | X |  | X | NLT
| 5 | Restroom Cabinet—Damaged/Missing | 2 | X |  |  |
| 0 | Smoke Detector—Missing/Inoperable | 5 |  |  | X | LT
| 5 | Shower/Tub—Damaged/Missing | 4 |  | X | X |
| 5 | Stairs—Broken/Damaged/Missing Steps | 3 |  |  | X | NLT
| 5 | Stairs—Broken/Missing Hand Railing | 3 |  |  | X | NLT
| 5 | Ventilation/Exhaust System—Inoperable | 4 |  | X |  |
| 5 | Walls—Bulging/Buckling | 4 |  |  | X |
| 5 | Walls—Damaged | 3 | X | X | X |
| 5 | Walls—Damaged/Deteriorated Trim | 1 | X | X | X |
| 5 | Walls—Peeling/Needs Paint | 1 | X | X |  |
| 5 | Walls—Mold/Mildew/Water Stains/Water Damage | 2 | X |  | X |
| 5 | Water Closet/Toilet—Damaged/Clogged/Missing | 5 |  | X | X |
| 5 | Windows—Cracked/Broken/Missing Panes | 3 | X |  | X | NLT
| 5 | Windows—Damaged/Missing Screens | 2 | X |  |  |
| 5 | Windows—Damaged Sills/Frames/Lintels/Trim | 4 | X | X |  |
| 5 | Windows—Missing/Deteriorated Caulking/Seals/Glazing Compound | 5 | X |  | X |
| 5 | Windows—Inoperable/Not Lockable | 3 | X |  | X | NLT
| 5 | Windows—Peeling/Needs Paint | 1 | X |  |  |
| 5 | Windows—Security Bars Prevent Egress | 5 |  |  | X | LT
Storage | 5 | Ceiling—Bulging/Buckling | 4 |  |  | X |
| 5 | Ceiling—Holes/Missing Tiles/Panels/Cracks | 4 | X | X | X |
| 5 | Ceiling—Peeling/Needs Paint | 1 | X | X |  |
| 5 | Ceiling—Mold/Mildew/Water Stains/Water Damage | 2 | X |  | X |
| 5 | Doors—Damaged Frames/Threshold/Lintels/Trim | 2 |  | X | X | NLT
| 5 | Doors—Damaged Hardware/Locks | 3 | X | X | X |
| 5 | Doors—Damaged/Missing Screen/Storm/Security Door | 3 | X |  | X | NLT
| 5 | Doors—Damaged Surface (Holes/Paint/Rust/Glass) | 3 |  | X | X |
| 5 | Doors—Deteriorated/Missing Seals (Entry Only) | 4 |  |  | X |
| 5 | Doors—Missing Door | 5 | X | X | X |
| 5 | Electrical—Blocked Access to Electrical Panel | 3 |  |  | X | NLT
| 5 | Electrical—Burnt Breakers | 4 |  |  | X | NLT
| 5 | Electrical—Evidence of Leaks/Corrosion | 5 |  |  | X | NLT
| 5 | Electrical—Frayed Wiring | 5 |  |  | X |
| 5 | Electrical—Missing Breakers | 5 |  |  | X | LT
| 5 | Electrical—Missing Covers | 5 |  |  | X | LT
| 5 | Floors—Bulging/Buckling | 4 |  |  | X |
| 5 | Floors—Soft Floor Covering Missing/Damaged | 4 | X | X | X |
| 5 | Floors—Hard Floor Covering Missing/Damaged Flooring/Tiles | 4 | X | X | X |
| 5 | Floors—Peeling/Needs Paint | 1 | X | X |  |
| 5 | Floors—Rot/Deteriorated Subfloor | 4 |  | X | X |
| 5 | Floors—Mold/Mildew/Water Stains/Water Damage | 2 |  | X | X |
| 5 | HVAC—Misaligned Chimney/Ventilation System | 5 |  |  | X | LT
| 5 | HVAC—Inoperable | 5 |  |  | X |
| 5 | HVAC—Noisy/Vibrating/Leaking | 4 | X |  |  |
| 5 | HVAC—Convection/Radiant Heat System Covers Missing/Damaged | 2 |  |  | X |
| 5 | HVAC—General Rust/Corrosion | 2 | X | X | X |
| 5 | Lighting—Missing/Damaged/Inoperable Fixture | 4 |  | X | X |
| 5 | Outlets/Switches/Cover Plates—Missing/Broken | 3 | X |  | X | LT
| 0 | Smoke Detector—Missing/Inoperable | 5 |  |  | X | LT
| 5 | Stairs—Broken/Damaged/Missing Steps | 3 |  |  | X | NLT
| 5 | Stairs—Broken/Missing Hand Railing | 3 |  |  | X | NLT
| 5 | Walls—Bulging/Buckling | 4 |  |  | X |
| 5 | Walls—Damaged | 3 | X | X | X |
| 5 | Walls—Damaged/Deteriorated Trim | 1 | X | X | X |
| 5 | Walls—Peeling/Needs Paint | 1 | X | X |  |
| 5 | Walls—Mold/Mildew/Water Stains/Water Damage | 2 | X |  | X |
| 5 | Windows—Cracked/Broken/Missing Panes | 3 | X |  | X | NLT
| 5 | Windows—Damaged/Missing Screens | 2 | X |  |  |
| 5 | Windows—Damaged Sills/Frames/Lintels/Trim | 4 | X | X |  |
| 5 | Windows—Missing/Deteriorated Caulking/Seals/Glazing Compound | 5 | X |  | X |
| 5 | Windows—Inoperable/Not Lockable | 3 | X |  | X | NLT
| 5 | Windows—Peeling/Needs Paint | 1 | X |  |  |
| 5 | Windows—Security Bars Prevent Egress | 5 |  |  | X | LT
Trash Collection Areas | 5 | Chutes—Damaged/Missing Components | 3 |  | X |  |
Note: 1) Nominal item weight assumes that all items for the Common Areas are present. Item weights would be adjusted accordingly when items are not applicable (N/A).
2) The Health & Safety item assumes the highest item weight for a particular inspection. Nominally it is equal to 10%.
3) “X” in the level column indicates which levels are applicable.
4) Only Level 3 is applied to H&S deficiencies.
5) In the H&S column, NLT is non-life threatening H&S and LT (life threatening) is exigent/fire safety (calling for immediate attention or remedy).

Area—Units
Inspectable item | Nominal item weight (percent) | Observable deficiency | Criticality | Level: 1 | Level: 2 | Level: 3 | H&S
Bathroom | 15.0 | Bathroom Cabinets—Damaged/Missing | 2 | X |  |
| 15.0 | Lavatory Sink—Damaged/Missing | 3 | X |  | X | NLT
| 15.0 | Plumbing—Clogged Drains | 5 | X |  | X | NLT
| 15.0 | Plumbing—Leaking Faucet/Pipes | 4 | X |  | X | NLT
| 15.0 | Shower/Tub—Damaged/Missing | 4 | X | X | X | NLT
| 15.0 | Ventilation/Exhaust System—Inoperable | 4 |  | X |  |
| 15.0 | Water Closet/Toilet—Damaged/Clogged/Missing | 5 |  | X | X | NLT
Call-for-Aid | 2.0 | Inoperable | 3 |  |  | X | NLT
Ceiling | 4.0 | Bulging/Buckling | 4 |  |  | X |
| 4.0 | Holes/Missing Tiles/Panels/Cracks | 4 | X | X | X |
| 4.0 | Peeling/Needs Paint | 1 | X | X |  |
| 4.0 | Mold/Mildew/Water Stains/Water Damage | 2 | X |  | X |
Doors | 4.5 | Damaged Frames/Threshold/Lintels/Trim | 2 |  | X | X | NLT
| 4.5 | Damaged Hardware/Locks | 3 | X | X | X |
| 4.5 | Damaged/Missing Screen/Storm/Security Door | 3 | X |  | X | NLT
| 4.5 | Damaged Surface (Holes/Paint/Rust/Glass) | 3 |  | X | X |
| 4.5 | Deteriorated/Missing Seals (Entry Only) | 4 |  |  | X |
| 4.5 | Missing Door | 5 | X | X | X | NLT
Electrical System | 10.0 | Blocked Access to Electrical Panel | 3 |  |  | X | NLT
| 10.0 | Burnt Breakers | 4 |  |  | X | NLT
| 10.0 | Evidence of Leaks/Corrosion | 5 |  |  | X | NLT
| 10.0 | Frayed Wiring | 5 |  |  | X |
| 10.0 | GFI—Inoperable | 5 |  |  | X | NLT
| 10.0 | Missing Breakers/Fuses | 5 |  |  | X | LT
| 10.0 | Missing Covers | 5 |  |  | X | LT
Floors | 4.0 | Bulging/Buckling | 4 |  |  | X |
| 4.0 | Hard Floor Covering Missing/Damaged Flooring/Tiles | 4 | X | X | X |
| 4.0 | Mold/Mildew/Water Stains/Water Damage | 2 |  | X | X |
| 4.0 | Peeling/Needs Paint | 1 | X | X |  |
| 4.0 | Rot/Deteriorated Subfloor | 4 |  | X | X |
| 4.0 | Soft Floor Covering Missing/Damaged | 4 | X | X | X |
Health & Safety | 15.0 | Air Quality—Mold and/or Mildew Observed | 3 |  |  | X | NLT
| 15.0 | Air Quality—Sewer Odor Detected | 3 |  |  | X | NLT
| 15.0 | Air Quality—Propane/Natural Gas/Methane Gas Detected | 5 |  |  | X | LT
| 15.0 | Electrical Hazards—Exposed Wires/Open Panels | 5 |  |  | X | LT
| 15.0 | Electrical Hazards—Water Leaks on/near Electrical Equipment | 5 |  |  | X | LT
| 15.0 | Emergency Fire Exits—Emergency/Fire Exits Blocked/Unusable | 5 |  |  | X | LT
| 15.0 | Emergency Fire Exits—Missing Exit Signs | 3 |  |  | X | NLT
| 15.0 | Flammable/Combustible Materials—Improperly Stored | 3 |  |  | X | NLT
| 15.0 | Garbage and Debris—Indoors | 3 |  |  | X | NLT
| 15.0 | Garbage and Debris—Outdoors | 3 |  |  | X | NLT
| 0.0 | Hazards—Other | 3 |  |  | X | NLT
| 15.0 | Hazards—Sharp Edges | 3 |  |  | X | NLT
| 0.0 | Hazards—Tripping | 3 |  |  | X | NLT
| 15.0 | Infestation—Insects | 3 |  |  | X | NLT
| 15.0 | Infestation—Rats/Mice/Vermin | 3 |  |  | X | NLT
Hot Water Heater | 10.0 | General Rust/Corrosion | 3 | X | X | X | NLT
| 10.0 | Inoperable Unit/Components | 5 |  |  | X | NLT
| 10.0 | Leaking Valves/Tanks/Pipes | 4 |  |  | X |
| 10.0 | Misaligned Chimney/Ventilation System | 5 |  |  | X | LT
| 10.0 | Missing Pressure Relief Valve | 5 |  |  | X | NLT
HVAC System | 15.0 | Convection/Radiant Heat System Covers Missing/Damaged | 2 |  |  | X |
| 15.0 | General Rust/Corrosion | 2 | X |  |  |
| 15.0 | Inoperable | 5 |  |  | X |
| 15.0 | Misaligned Chimney/Ventilation System | 5 |  |  | X | LT
| 15.0 | Noisy/Vibrating/Leaking | 4 | X |  |  |
Kitchen | 15.0 | Cabinets—Missing/Damaged | 2 |  | X | X | NLT
| 15.0 | Countertops—Missing/Damaged | 2 |  | X |  | NLT
| 15.0 | Dishwasher/Garbage Disposal—Inoperable | 2 |  | X |  |
| 15.0 | Plumbing—Clogged Drains | 4 | X |  | X | NLT
| 15.0 | Plumbing—Leaking Faucet/Pipes | 3 | X |  | X | NLT
| 15.0 | Range Hood/Exhaust Fans—Excessive Grease/Inoperable | 2 | X |  | X |
| 15.0 | Range/Stove—Missing/Damaged/Inoperable | 3 | X | X | X |
| 15.0 | Refrigerator-Missing/Damaged/Inoperable | 3 | X |  | X | NLT
| 15.0 | Sink—Missing/Damaged | 5 | X |  | X | NLT
Laundry Area (Room) | 2.0 | Dryer Vent—Missing/Damaged/Inoperable | 3 |  |  | X |
Lighting | 2.0 | Missing/Inoperable Fixture | 4 | X | X | X | NLT
Outlets/Switches | 4.0 | Missing | 3 |  |  | X | LT
| 4.0 | Missing/Broken Cover Plates | 3 | X |  | X | LT
Patio/Porch/ Balcony | 2.0 | Baluster/Side Railings Damaged | 3 |  |  | X |
Smoke Detector | 0.0 | Missing/Inoperable | 5 |  |  | X | LT
Stairs | 2.0 | Broken/Damaged/Missing Steps | 3 |  |  | X | NLT
| 2.0 | Broken/Missing Hand Railing | 3 |  |  | X | NLT
Walls | 4.0 | Bulging/Buckling | 4 |  |  | X |
| 4.0 | Damaged | 3 | X | X | X |
| 4.0 | Damaged/Deteriorated Trim | 1 | X | X | X |
| 4.0 | Peeling/Needs Paint | 1 | X | X |  |
| 4.0 | Mold/Mildew/Water Stains/Water Damage | 2 | X |  | X |
Windows | 4.5 | Cracked/Broken/Missing Panes | 3 | X |  | X | NLT
| 4.5 | Damaged/Missing Screens | 2 | X |  |  |
| 4.5 | Damaged Sills/Frames/Lintels/Trim | 4 | X | X |  |
| 4.5 | Missing/Deteriorated Caulking/Seals/Glazing Compound | 5 | X |  | X |
| 4.5 | Inoperable/Not Lockable | 3 | X |  | X | NLT
| 4.5 | Peeling/Needs Paint | 1 | X |  |  |
| 4.5 | Security Bars Prevent Egress | 5 |  |  | X | LT
Note: (1) Nominal item weight assumes that all items for the Units are present. Item weights would be adjusted accordingly when items are not applicable (N/A).
(2) The Health & Safety item assumes the highest item weight for a particular inspection. Nominally it is equal to 15%.
(3) “X” in the level column indicates which levels are applicable.
(4) Only level 3 is applied to H&S deficiencies.
(5) In the H&S column, NLT is non-life threatening H&S and LT (life threatening) is exigent/fire safety (calling for immediate attention or remedy).

Appendix 2: Dictionary of Deficiency Definitions

Site Inspectable Items

Items to inspect for “Site” are as follows:

• Fencing and Gates

• Grounds

• Mailboxes/Project Signs

• Market Appeal

• Parking Lots/Driveways/Roads

• Play Areas and Equipment

• Refuse Disposal

• Retaining Walls

• Storm Drainage

• Walkways/Steps

Fencing and Gates (Site)

Fence: A structure functioning as a boundary or barrier. An upright structure serving to enclose, divide or protect an area.

Gate: A structured opening in a fence for entrance or exit.

Note: This does not include swimming pool fences or gates. Swimming pool fences and gates are covered under “Pools and Related Structures (Common Areas).”

This inspectable item can have the following deficiencies:

• Holes/Missing Sections/Damaged/Falling/Leaning—Non-Security/Non-Safety

• Holes/Missing Sections/Damaged/Falling/Leaning—Security/Safety

Holes/Missing Sections/Damaged/Falling/Leaning—Non-security/Non-safety (Fencing and Gates—Site)

Deficiency: A non-security/non-safety (for example, privacy/decorative) fence or gate is rusted, deteriorated, uprooted, missing or contains holes.

Note:

1. Gates for swimming pool fences are covered in another section, “Pools and Related Structures (Common Areas).”

2. Fences designed for security/safety are addressed under “Holes/Missing Sections/Damaged/Falling/Leaning—Security/Safety (Fencing and Gates—Sites).”

Level of Deficiency:

Level 1: N/A

Level 2: A non-security/non-safety fence or gate contains holes or deterioration/damage in greater than 25% of a fence.

Level 3: N/A

Comment:

Level 2: If the non-security/non-safety fence poses any danger, note this as a health and safety issue under “Hazards (Health and Safety).”

Holes/Missing Sections/Damaged/Falling/Leaning—Security/Safety (Fencing and Gates—Site)

Deficiency: A security/safety (i.e., perimeter/security) fence or gate is rusted, deteriorated, uprooted or missing such that it may threaten security, health or safety.

Note:

1. Do not evaluate the fence under this item if the fence or gate is not designed for security/safety, such as keeping intruders or children out. Refer to “Holes/Missing Sections/Damaged/Falling/Leaning—Non-Security/Non-Safety (Fencing and Gates—Sites).”

2. Security/safety fences include perimeter fences that are designed to keep people in and/or out as well as fences around playgrounds, etc.

3. Fences less than 4 feet in height are to be addressed under non-security fences.

4. Gates for swimming pool fences are covered in another section, “Pools and Related Structures (Common Areas).”

Level of Deficiency:

Level 1: A security/safety fence or gate contains small holes or related damage as defined above (smaller than 12 inches by 12 inches) in less than 25% of the fence.

Level 2: A security/safety fence or gate contains small holes or related damage as defined above (smaller than 12 inches by 12 inches) in more than 25% of the fence.

Level 3: A security/safety fence or fence section contains large holes or related damage as defined above (greater than 12 inches by 12 inches) or is missing a section.

Note: If the fence can cause injury or allow bodily harm, record it under “Hazards (Health and Safety).”

Grounds (Site)

The improved land adjacent to or surrounding the housing and related structures. This does not include land not owned or under the control of the housing provider.

This inspectable item can have the following deficiencies:

• Erosion/Rutting Areas

• Overgrown/Penetrating Vegetation

• Ponding/Site Drainage

Erosion/Rutting Areas (Grounds—Site)

Deficiency: Natural processes, weathering, erosion, or gravity, or man-made processes have caused either of these conditions:

—Collection or removal of surface material.

-OR-

—Sunken tracks, ruts, grooves, or depressions.

Note: This does not include erosion/rutting from a defined storm drainage system or in a play area. These are covered in these sections: “Storm Drainage (Site)” and “Play Areas and Equipment (Site).”

Level of Deficiency:

Level 1: N/A

Level 2: Erosion has caused surface material to collect, leading to a degraded surface that would likely cause water to pool in a confined area, especially next to structures, paved areas, or walkways.

-OR-

A rut/groove is 6 to 8 inches wide and 3 to 5 inches deep.

Level 3: Runoff has extensively displaced soil, which has caused visible damage or the potential failure of adjoining structures or systems, such as pipes, pavements, foundations, building, etc.

-OR-

Advanced erosion threatens the safety of pedestrians or makes an area of the grounds unusable.

-OR-

There is a rut larger than 8 inches wide by 5 inches deep.

Overgrown/Penetrating Vegetation (Grounds—Site)

Deficiency: Plant life has spread to unacceptable areas, unintended surfaces, or has grown in areas where it was not intended to grow.

Level of Deficiency:

Level 1: N/A

Level 2: Vegetation is extensive and dense; it is difficult to see broken glass, holes, and other hazards.

-OR-

Vegetation contacts or penetrates an unintended surface, such as buildings, gutters, fences/walls, roofs, HVAC units, etc., but you see no visible damage.

-OR-

Extensive, dense vegetation obstructs the intended path of walkways or roads, but the path is still passable.

Level 3: Plants have visibly damaged a component, area, or system of the property or have made them unusable/impassable.

Ponding/Site Drainage (Grounds—Site)

Deficiency: Water or ice has collected in a depression or on ground where ponding was not intended.

Note:

1. This does not include detention/retention basins or ponding on paved areas, such as parking lots:

—Detention/retention basins are covered in “Storm Drainage (Site).”

—Ponding on paved areas is covered in “Parking Lots/Driveways/Roads (Site).”

2. If there has been measurable precipitation (1/10 inch or more) during the previous 48 hours, consider the impact on the extent of the ponding.

3. Determine that ponding has occurred only when there is clear evidence of a persistent or long-standing problem.

Level of Deficiency:

Level 1: N/A

Level 2: An accumulation of water (3 to 5 inches deep) affects the use of at least 100 square feet of the grounds, but the grounds are generally usable.

Level 3: There is an accumulation of more than 5 inches deep over 100 square feet.

-OR-

Accumulation has made a large section of the grounds, more than 20%, unusable for its intended purpose. For example, ponding has made a recreational field unusable.

Mailboxes/Project Signs (Site)

Mailbox is a public container where mail is deposited for distribution and collection. This does not include mailboxes owned and maintained by the U.S. Postal Service, such as the “Blue Boxes.” Project signs are boards, posters, or placards displayed in a public place to advertise, impart information, or give directions. This does not include signs owned and maintained by the city.

This inspectable item can have the following deficiencies:

• Mailbox Missing/Damaged

• Signs Damaged

Mailbox Missing/Damaged (Mailboxes/Project Signs—Site)

Deficiency: The U.S. Postal Service resident/unit mailbox is either missing or so damaged that it does not function properly.

Note: Do not inspect commercial deposit boxes, FedEx, UPS, etc., or U.S. Postal Service “blue boxes.”

Level of Deficiency:

Level 1: N/A

Level 2: N/A

Level 3: The U.S. Postal Service resident/unit mailbox cannot be locked.

-OR-

The U.S. Postal Service resident/unit mailbox is missing or so damaged that it does not function properly.

Signs Damaged (Mailboxes/Project Signs—Site)

Deficiency: The project sign is not legible or readable because of deterioration or damage.

Level of Deficiency:

Level 1: The sign is damaged, vandalized, or deteriorated, and cannot be read from a reasonable distance (for example, 20 feet).

Level 2: N/A

Level 3: N/A

Market Appeal (Site)

Evaluate only those areas or structures that are under the control of the housing provider.

This inspectable item can have the following deficiencies:

• Graffiti

• Litter

Graffiti (Market Appeal—Site)

Deficiency: You see crude inscriptions or drawings scratched, painted, or sprayed on a building surface, retaining wall, or fence that the public can see from 30 feet away.

Note: There is a difference between art forms and graffiti. Do not consider full wall murals and other art forms as graffiti.

Level of Deficiency:

Level 1: You see graffiti in 1 place.

Level 2: You see graffiti in 2 to 5 places.

Level 3: You see graffiti in 6 or more places.

Litter (Market Appeal—Site)

Deficiency: There is a disorderly accumulation of objects on the property, especially carelessly discarded trash.

Note: Judge litter as you would judge the condition of a city park in America. Do not include these as litter:

1. Litter left behind in the path of a recent garbage collection.

2. Litter that maintenance personnel are collecting and removing during your inspection.

Level of Deficiency:

Level 1: N/A

Level 2: You see excessive litter on the property.

Level 3: N/A

Parking Lots/Driveways/Roads (Site)

An area for parking motorized vehicles begins at the curbside and includes all parking lots, driveways or roads within the property lines that are under the control of the housing provider.

This inspectable item can have the following deficiencies:

• Cracks/Settlement/Heaving/Loose Materials/Potholes

• Ponding

Cracks/Settlement/Heaving/Loose Materials/Potholes (Parking Lots/Driveways/Roads—Site)

Deficiency: There are visible faults in the pavement: longitudinal, lateral, alligator, etc. The pavement sinks or rises because of the failure of sub-base materials.

Note:

1. Do not include cracks on walkways/steps.

2. For this to be a Level 2 deficiency, more than 10% of the area must be impacted, for example, 100 out of 1,000 square feet. The 10% level does not apply to Level 3 conditions.

3. Relief joints are there by design; do not consider them cracks.

4. Repaired/sealed cracks should not be considered a deficiency.

5. When observing traffic ability, consider the capacity to support people on foot, in wheelchairs, and using walkers or canes, etc., and the potential for problems and hazards.

Level of Deficiency:

Level 1: N/A

Level 2: Damaged pavement as defined above greater than ¾ inch, cracks, settlement, hinging/tilting, loose materials, pot holes, or missing section(s) that affect traffic ability over more than 10% of the property's parking lots/driveways/roads. Note a deficiency if you see cracks on more than 10% of the paved area.

Level 3: Damaged pavement as defined above has made a parking lot/driveway unusable/impassable or creates unsafe conditions for pedestrians and vehicles.

Comment:

Level 2: If the height differential is greater than ¾ inch, consider this a safety hazard. If the condition of the surface could cause tripping or falling, you must manually record this deficiency under “Hazards (Health and Safety).”

Ponding (Parking Lots/Driveways/Roads—Site)

Deficiency: Water or ice has accumulated in a depression on an otherwise flat plane.

Note:

1. Consider the impact of any measurable precipitation, 1/10 inch or more, during the last 48 hours. Note the deficiency only if there is clear evidence that the ponding is a persistent or long-standing problem.

2. For parking lots/driveways/roads only, note a deficiency if you see ponding on more than 5% of the paved area.

Level of Deficiency:

Level 1: N/A

Level 2: Between 1 and 3 inches of water has accumulated, affecting the use of 5% or more of a parking lot/driveway/road. The parking lot/driveway/road is passable.

Level 3: More than 3 inches of water has accumulated making 5% or more of a parking lot/driveway/road unusable or unsafe.

Play Areas and Equipment (Site)

An outdoor area set aside for recreation or play, especially one containing equipment such as seesaws and swings.

This inspectable item can have the following deficiencies:

• Damaged/Broken Equipment

• Deteriorated Play Area Surface

Damaged/Broken Equipment (Play Areas and Equipment—Site)

Deficiency: Equipment is broken into pieces, shattered, incomplete, or inoperable.

Note: Do not evaluate equipment that the POA states have been withdrawn from service, except when safety is still a concern, such as sharp edges, dangerous leaning, etc. For example, if the POA removed the net and hoop from a basketball backboard and the backboard poses no safety hazards, it is not a deficiency.

Level of Deficiency:

Level 1: You see that some of the equipment, 20% to 50%, does not operate as it should, but poses no safety risk.

Level 2: You see that most of the equipment, more than 50%, does not operate as it should, but poses no safety risk.

Level 3: You see equipment that poses a threat to safety and could cause injury.

Deteriorated Play Area Surface (Play Areas and Equipment—Site)

Deficiency: You see damage to a play area surface caused by cracking, heaving, settling, ponding, potholes, loose materials, erosion, rutting, etc.

Level of Deficiency:

Level 1: N/A

Level 2: 20% to 50% of the total surveyed play area surface shows deterioration.

Level 3: More than 50% of the surveyed play area surface shows deterioration.

Comment:

Level 3: If the play area surface could cause tripping or falling, you must manually record this deficiency under “Hazards (Health and Safety).”

Refuse Disposal (Site)

Collection areas for trash/garbage common pick-up.

Broken/Damaged Enclosure—Inadequate Outside Storage Space (Refuse Disposal—Site)

Deficiency: The outdoor enclosed area used as a trash/refuse site is:

—Broken or damaged, including its walls.

—OR—

—Too small to properly store refuse until disposal.

Note: This does not include areas that are not designed as trash/refuse enclosures, such as curb pick-up.

Level of Deficiency:

Level 1: N/A

Level 2: A single wall or gate of the enclosure has collapsed or is leaning and is in danger of falling.

—OR—

Trash cannot be stored in the designated area because it is too small to store refuse until disposal.

Level 3: N/A

Retaining Walls (Site)

A wall built to support or prevent the advance of a mass of earth or water.

Damaged/Falling/Leaning (Retaining Walls—Site)

Deficiency: A retaining wall structure is deteriorated, damaged, falling, or leaning.

Level of Deficiency:

Level 1: A retaining wall shows some signs of deterioration, damage, falling or leaning, but it still functions as it should, and it is not a safety risk.

Level 2: N/A

Level 3: A retaining wall is damaged and has failed or is a safety risk.

Storm Drainage (Site)

System used to collect and dispose of surface runoff water through the use of culverts, underground structures, or natural drainage features, e.g., swales, ditches, etc.

Damaged/Obstructed (Storm Drainage—Site)

Deficiency: If the storm drains are structurally unsound/damaged, are blocked/obstructed by accumulated debris, or present other safety hazards.

Level of Deficiency:

Level 1: N/A

Level 2: The system is partially blocked by a large quantity of debris, causing backup into adjacent area(s).

Level 3: The system is structurally unsound/damaged or completely blocked, or a large segment of the system has failed because a large quantity of debris has caused:

—Backups into adjacent area(s).

—OR—

—Runoffs into areas where runoffs are not intended.

Walkways/Steps (Site)

Passages for walking and the structures that allow for changes in vertical orientation.

This inspectable item can have the following deficiencies:

• Broken/Missing Hand Railing

• Cracks/Settlement/Heaving

• Spalling

Broken/Missing Hand Railing (Walkways/Steps—Site)

Deficiency: The handrail is damaged or missing.

Level of Deficiency:

Level 1: N/A

Level 2: N/A

Level 3: The handrail for 4 or more stairs is missing, damaged, loose, or otherwise unusable.

Cracks/Settlement/Heaving (Walkways/Steps—Site)

Deficiency:

—Visible faults in the pavement: longitudinal, lateral, alligator, etc.

—OR—

—Pavement that sinks or rises because of the failure of sub-base materials.

Note:

1. Do not include cracks on parking lots/driveways or roads.

2. For this to be a Level 2 deficiency, 5% of the walkways must be impacted, for example, 50 out of 1,000 square feet.

3. Relief joints are there by design; do not consider them cracks.

4. Repaired/sealed cracks should not be considered a deficiency.

Level of Deficiency:

Level 1: N/A

Level 2: Damaged, as defined above, is greater than ¾ inch, hinging/tilting, or missing section(s) that affect more than 5% of the property's walkways/steps.

Level 3: N/A

Comment:

Level 2: If the walkways or steps could cause tripping or falling, you must manually record this deficiency under “Hazards (Health and Safety).”

Spalling (Walkways/Steps—Site)

Deficiency: A concrete or masonry walkway is flaking, chipping, or crumbling, possibly exposing underlying reinforcing material. This is a defect if 5% or more of the property's walkways/steps are affected. For example, 50 square feet out of 1,000 square feet.

Note: When observing traffic ability, consider the capacity to support people on foot, in wheelchairs, and using walkers.

Level of Deficiency:

Level 1: More than 5% of the walkway/steps have small areas of spalling, 4 inches by 4 inches or less.

Level 2: More than 5% of the walkway/steps have large areas of spalling, larger than 4 inches by 4 inches, and this affects traffic ability.

Level 3: N/A

Building Exterior Inspectable Items

Items to inspect for “Building Exterior” are as follows:

• Doors

• FHEO/Uniform Federal Accessibility Standards (UFAS)

• Fire Escapes

• Foundations

• Lighting

• Roofs

• Walls

• Windows

Doors (Building Exterior)

Means of access to the interior of a building or structure. Doors provide privacy, control passage, maintain security, provide fire and weather resistance. Includes entry to maintenance areas, boiler and mechanical rooms, electrical vaults, storage areas, etc.

Note: This does not include unit doors.

This inspectable item can have the following deficiencies:

• Damaged Frames/Threshold/Lintels/Trim

• Damaged Hardware/Locks

• Damaged Surface (Holes/Paint/Rust/Glass)

• Damaged/Missing Screen/Storm/Security Door

• Deteriorated/Missing Caulking/Seals

• Missing Door

Damaged Frames/Threshold/Lintels/Trim (Doors—Building Exterior)

Deficiency: You see a frame, header, jamb, threshold, lintel, or trim that is warped, split, cracked, or broken.

Note: If you see damage to a door's hardware (locks, hinges, etc.) record this under “Damage Hardware/Locks (Doors—Building Exterior).”

Level of Deficiency:

Level 1: N/A

Level 2: At least 1 door is not functioning or cannot be locked because of damage to the frame, header, jamb, threshold, lintel, or trim.

Level 3: At least 1 entry door or fire/emergency door is not functioning or cannot be locked because of damage to the frame, header, jamb, threshold, lintel, or trim.

Comment:

Level 3: If the condition is a health and safety concern, you must record it manually under “Hazards (Health and Safety).”

Damaged Hardware/Locks (Doors—Building Exterior)

Deficiency: The attachments to a door that provide hinging, hanging, opening, closing, or security are damaged or missing. These include locks, panic hardware, overhead door tracks, springs and pulleys, sliding door tracks and hangers, and door closures.

Note:

1. If a door is designed to have locks, the locks should work.

2. If a door is not designed to have locks, do not record a deficiency for not having a lock.

Level of Deficiency:

Level 1: N/A

Level 2: One door does not function as it should or cannot be locked because of damage to the door's hardware.

Level 3: One door's panic hardware does not function as it should.

—OR—

One entry door or fire/emergency door does not function as it should or cannot be locked because of damage to the door's hardware.

Comment:

Level 3: If the condition is a health and safety concern, you must record it manually under “Health and Safety: Hazards.”

Damaged Surface (Holes/Paint/Rust/Glass) (Doors—Building Exterior)

Deficiency: Damage includes holes, peeling/cracking/no paint, broken glass, and significant rust. You see damage to the door surface that:

- May affect either the surface protection or the strength of the door.

-OR-

- May compromise building security.

Level of Deficiency:

Level 1: N/A

Level 2: One door has a hole or holes with a diameter ranging from ¼ inch to 1 inch.

Level 3: One door has a hole or holes larger than 1 inch in diameter, significant peeling/cracking/no paint, or rust that affects the integrity of the door surface, or broken/missing glass.

-OR-

One entry door or fire/emergency door has a hole or holes with a diameter ranging from ¼ inch to 1 inch.

Damaged/Missing Screen/Storm/Security Door (Doors—Building Exterior)

Deficiency: You see damage to surfaces, including screens, glass, frames, hardware, and door surfaces.

Level of Deficiency:

Level 1: At least 1 screen door or storm door is damaged or is missing screens or glass, shown by an empty frame or frames.

Level 2: N/A

Level 3: A security door is not functioning or missing. (“Missing” applies only if a security door that should be there is not there.)

Deteriorated/Missing Caulking/Seals (Doors—Building Exterior)

Deficiency: Sealant and stripping designed to resist weather or caulking is missing or deteriorated.

Note: This applies only to entry doors that were designed with seals. If a door shows evidence that a seal was never part of its design, do not record a deficiency.

Level of Deficiency:

Level 1: N/A

Level 2: N/A

Level 3: The seals/caulking is missing on 1 entry door, or they are so damaged that they do not function as they should.

Missing Door (Doors—Building Exterior)

Deficiency: A door is missing.

Level of Deficiency:

Level 1: N/A

Level 2: N/A

Level 3: A single missing building exterior door.

Comment:

Level 3: If the condition is a health and safety concern, you must record it manually under “Hazards (Health and Safety).”

FHEO/UFAS (Building Exterior)

This inspectable item can have the following deficiencies:

• Main Entrance Less Than 32″ Wide

• Obstructed or Missing Accessibility Route

Main Entrance Less Than 32″ Wide (FHEO/UFAS—Building Exterior)

Deficiency: Verify that the main entrance for each building inspected is at least 32″ wide, measured from between the face of the door and the opposite door stop.

Level of Deficiency:

Level 1: N/A

Level 2: N/A

Level 3: The distance between the face of the door and the opposite doorstop is not 32” wide.

Obstructed or Missing Accessibility Route (FHEO/UFAS—Building Exterior)

Deficiency: Verify that there is an accessible route to and from the main ground floor entrance for every building inspected. Accessible routes include level surface to the door, ramps, etc.

Level of Deficiency:

Level 1: N/A

Level 2: N/A

Level 3: There is not an accessible route.

Fire Escapes (Building Exterior)

All buildings must have acceptable fire exits. This includes both stairway access doors and external exits. These can include external fire escapes, fire towers, operable windows on the lower floors with easy access to the ground or a back door opening onto a porch with a stairway leading to the ground.

This inspectable item can have the following deficiencies:

• Blocked Egress/Ladders

• Visibly Missing Components

Blocked Egress/Ladders (Fire Escapes—Building Exterior)

Deficiency: Any part of the fire escape, including ladders, is blocked, limiting or restricting people from exiting.

Note: This includes fire escapes, fire towers, and windows on the ground floor that would be used in an emergency.

Level of Deficiency:

Level 1: N/A

Level 2: N/A

Level 3: Stored items or other barriers restrict or block people from exiting.

Visibly Missing Components (Fire Escapes—Building Exterior)

Deficiency: You see that any of the components that affect the function of the fire escape are missing.

Level of Deficiency:

Level 1: N/A

Level 2: N/A

Level 3: You see that any of the functional components that affect the function of the fire escape, for example, 1 section of a ladder or a railing, is missing.

Foundations (Building Exterior)

Lowest level structural wall or floor responsible for transferring the building's load to the appropriate footings and soil. Materials may include concrete, stone, masonry and wood.

This inspectable item can have the following deficiencies:

• Cracks/Gaps

• Spalling/Exposed Rebar

Cracks/Gaps (Foundations—Building Exterior)

Deficiency: You see a split in the exterior of the lowest structural wall.

Note: Cracks that show evidence of water penetration should be evaluated here.

Level of Deficiency:

Level 1: N/A

Level 2: You see cracks more than ⅛ inch wide by ⅛ inch deep by 6 inches long.

-OR-

You see large pieces, for example, many bricks, that are separated or missing from the wall or floor.

Level 3: You see large cracks or gaps more than ⅜ inch wide by ⅜ inch deep by 6 inches long, a possible sign of a serious structural problem.

-OR-

You see cracks that are the full depth of the wall, providing opportunity for water penetration.

-OR-

You see sections of the wall or floor that are broken apart.

Comment:

Level 3: If you have any doubt about the severity of the problem, request an inspection by a structural engineer.

Spalling/Exposed Rebar (Foundations—Building Exterior)

Deficiency: A concrete or masonry wall is flaking, chipping, or crumbling, possibly exposing underlying reinforcing material (rebar).

Level of Deficiency:

Level 1: N/A

Level 2: You see obvious, large spalled area(s) affecting 10% to 50% of any foundation wall.

Level 3: You see obvious, significant spalled area(s) affecting more than 50% of any foundation wall.

-OR-

You see spalling that exposes any reinforcing material, such as rebar or other.

Comment:

Level 3: If you have any doubt about the severity of the problem, request an inspection by a structural engineer.

Lighting (Building Exterior)

System to provide illumination of building exteriors and surrounding grounds. Includes fixtures, lamps, stanchions, poles, supports, and electrical supply that are associated with the building itself.

Broken Fixtures/Bulbs (Lighting—Building Exterior)

Deficiency: Includes broken fixtures and bulbs. This deficiency covers all or part of the lighting associated with the building, including lighting attached to the building used to light the site. If you see lighting that is not directly attached to a specific building, assign it to the nearest building.

Note: If a damaged fixture or bulb presents a safety hazard, rate it as Level 3, and record it manually as a health and safety concern. This includes broken fixtures and bulbs that could fall on pedestrians or could lead to electrocution.

Level of Deficiency:

Level 1: N/A

Level 2: 20% to 50% of the lighting fixtures and bulbs surveyed are broken or missing, but this does not constitute an obvious safety hazard.

Level 3: More than 50% of the lighting fixtures and bulbs surveyed are broken or missing.

-OR-

The condition constitutes an obvious safety hazard.

Comment:

Level 3: If the condition is a health and safety concern, you must record it manually under “Electrical Hazards (Health and Safety).”

Roofs (Building Exterior)

Roof system consists of the structural deck, weathering surface, flashing, parapet, and drainage system. They may be flat or pitched.

This inspectable item can have the following deficiencies:

• Damaged/Clogged Drains

• Damaged Soffits/Fascia

• Damaged Vents

• Damaged/Torn Membrane/Missing Ballast

• Missing/Damaged Components from Downspout/Gutter

• Missing/Damaged Shingles

• Ponding (Roofs)

Damaged/Clogged Drains (Roofs—Building Exterior)

Deficiency: The drainage system does not effectively remove water. Generally, this deficiency applies to flat roofs.

Note:

1. This does not include gutters and downspouts. For these, see “Missing/Damaged Components from Downspout/Gutter (Roofs—Building Exterior).”

2. If there has been measurable precipitation (1/10 inch or more) during the previous 48 hours, consider the impact on the extent of the ponding. Determine that ponding has occurred only when there is clear evidence of a persistent or long-standing problem.

Level of Deficiency:

Level 1: N/A

Level 2: You see debris around or in a drain, but no evidence of ponding.

-OR-

The drain is damaged or partially clogged with debris, but the drain system still functions and you see no evidence of ponding.

Level 3: The drain is so damaged or clogged with debris that the drain no longer functions, as shown by ponding.

Comment:

Level 3: If you have any doubt about the severity of the condition, an inspection by a roofing specialist is recommended.

Damaged Soffits/Fascia/Soffit Vents (Roofs—Building Exterior)

Deficiency: You see damage to soffit, fascia, soffit vents, or associated components that may provide opportunity for water penetration or other damage from natural elements.

Level of Deficiency:

Level 1: You see damage to soffits, fascia or soffit vents, but no obvious opportunities for water penetration.

Level 2: N/A

Level 3: Soffits, fascia or soffit vents that should be there are missing or so damaged that water penetration is visibly possible.

Comment:

Level 3: If you have any doubt about the severity of the condition, an inspection by a roofing specialist is recommended.

Damaged Vents (Roofs—Building Exterior)

Deficiency: Damaged vents on or extending through the roof surface or components are damaged or missing. Vents include ridge vents, gable vents, plumbing vents, gas vents, and others.

Note: This does not include exhaust fans on the roof or soffit vents:

- Exhaust fans are covered under “Roof Exhaust System (Building Systems).”

- Soffit vents are covered under “Damaged Soffits/Fascia/Soffit Vents (Roofs—Building Exterior).”

Level of Deficiency:

Level 1: The vents are visibly damaged, but do not present an obvious risk to promote further roof damage.

Level 2: N/A

Level 3: Vents are missing or so visibly damaged that further roof damage is possible.

Damaged/Torn Membrane/Missing Ballast (Roofs—Building Exterior)

Deficiency: In the membrane or flashing, you see damage that is a rip or tear, including punctures, holes, cracks, blistering, and separated seams. PVC, rubber, bitumen, and similar materials are all subject to tears and punctures.

Level of Deficiency:

Level 1: N/A

Level 2: Ballast has shifted and no longer functions as it should.

Level 3: You see signs of damage, as defined above, to the membrane that may result in water penetration.

Comment:

Level 3: If the condition warrants further inspection, inspection by a roofing specialist is recommended.

Missing/Damaged Components from Downspout/Gutter (Roofs—Building Exterior)

Deficiency: You see that components of the drainage system, including gutters, leaders, downspouts, splashblocks, and drain openings, are missing or damaged.

Note: This does not include clogged drains. For clogged drains, see “Damaged/Clogged Drains (Roofs—Building Exterior).”

Level of Deficiency:

Level 1: Splashblocks are missing or damaged.

Level 2: You see that drainage system components are missing or damaged, but there is no visible damage to the roof, structure, exterior wall surface, or interior.

Level 3: You see that drainage system components are missing or damaged, causing visible damage to the roof, structure, exterior wall surface, or interior.

Missing/Damaged Shingles (Roofs—Building Exterior)

Deficiency: Shingles are missing or damaged, including cracking, warping, cupping, and other deterioration.

Note: A square is 100 square feet.

Level of Deficiency:

Level 1: Up to 1 square of surface material or shingles is missing or damaged from roof areas you survey.

Level 2: One to 2 squares of surface material or shingles are missing or damaged from surveyed roof areas.

Level 3: More than 2 squares of shingles are missing or damaged from surveyed roofing areas.

Comment:

Level 3: If you have any doubt about the severity of the condition, an inspection by a roofing specialist is recommended.

Ponding (Roofs—Building Exterior)

Deficiency: You see evidence of areas of standing water, such as roof depression, mold ring, or effervescence water ring.

Note: If there has been measurable precipitation (1/10 inch or more) during the previous 48 hours, consider the impact on the extent of the ponding. Determine that ponding has occurred only when there is clear evidence of a persistent or long-standing problem.

Level of Deficiency:

Level 1: N/A

Level 2: N/A

Level 3: You see evidence of standing water on the roof, causing potential or visible damage to roof surface or underlying materials.

Comment:

Level 3: If you have any doubt of the severity of the condition, an inspection by a roofing specialist is recommended.

Walls (Building Exterior)

The exterior enclosure of the building or structure. Materials for construction include concrete, masonry block, brick, stone, wood, glass block. Surface finish materials include metal, wood, vinyl, stucco.

Note: This does not include foundation walls.

This inspectable item can have the following deficiencies:

• Cracks/Gaps

• Damaged Chimneys

• Missing/Damaged Caulking/Mortar

• Missing Pieces/Holes/Spalling

• Stained/Peeling/Needs Paint

Cracks/Gaps (Walls—Building Exterior)

Deficiency: You see a split, separation, or gap in the exterior walls.

Note: If you see both cracks/gaps and missing pieces/holes/spalling, do not record both. If you see both deficiencies, record only 1 of the 2.

Level of Deficiency:

Level 1: N/A

Level 2: You see a crack or gap that is more than ⅛ inch wide by ⅛ inch deep by 6 inches long.

-OR-

You see pieces, for example, many bricks, that are separated from the wall.

Level 3: You see a large crack or gap that is more than ⅜ inch wide or deep and 6 inches long, possibly a sign of a serious structural problem.

-OR-

You see a crack or gap that is the full depth of the wall, providing opportunity for water penetration.

-OR-

You see sections of the wall that are broken apart.

Comment:

Level 3: If you have any doubt of the severity of the condition, request an inspection by a structural engineer.

Damaged Chimneys (Walls—Building Exterior)

Deficiency: The chimney, including the part that extends above the roofline, has separated from the wall or has cracks, spalling, missing pieces or broken sections (including chimney caps).

Level of Deficiency:

Level 1: The chimney cap is either visibly loose or damaged.

Level 2: The surface of the chimney shows surface damage on more than 1 piece of wall, for example, a few bricks or a section of siding.

-OR-

The surface of the chimney has holes that affect an area larger than 4 inches by 4 inches.

Level 3: Part or all of the chimney has visibly separated from the adjacent wall.

-OR-

There are cracked or fallen pieces or sections.

-OR-

There is a risk that falling pieces could create a safety hazard.

Comment:

Level 3: If the condition is a health and safety concern, you must record it manually under “Hazards (Health and Safety).”

Missing/Damaged Caulking/Mortar (Walls—Building Exterior)

Deficiency: Caulking designed to resist weather or mortar is missing or deteriorated.

Note: This does not include caulking relative to doors and windows; they are covered in other areas. Address all other caulking here.

Level of Deficiency:

Level 1: Mortar is missing around a single masonry unit.

-OR-

Deteriorated caulk is confined to less than 12 inches.

Level 2: Mortar is missing around more than 1 contiguous masonry unit.

-OR-

You see deteriorated caulking in an area longer than 12 inches.

Level 3: N/A

Missing Pieces/Holes/Spalling (Walls—Building Exterior)

Deficiency: You see deterioration of the exterior wall surface, including missing pieces, holes, or spalling. This may also be attributed to:

—Materials that are rotting.

-OR-

—A concrete, stucco, or masonry wall that is flaking, chipping or crumbling.

Level of Deficiency:

Level 1: N/A

Level 2: You see that there is a missing piece, for example, a single brick or section of siding, or a hole larger than ½; inch in diameter.

-OR-

You see deterioration that affects an area up to 8½; inches by 11 inches.

Level 3: You see deterioration that exposes any reinforcing material (rebar).

-OR-

You see more than 1 missing piece, for example, a few bricks or a section of siding, or holes that affect an area larger than 8½; inches by 11 inches.

-OR-

You see a hole of any size that completely penetrates the exterior wall.

Comment:

Level 3: If you have any doubt about the severity of the condition, request an inspection by a structural engineer.

Stained/Peeling/Needs Paint (Walls—Building Exterior)

Deficiency: Paint is cracking, flaking, or otherwise deteriorated. Water damage or related problems have stained the paint.

Note: This does not include walls that are not intended to have paint, such as most brick walls, etc.

Level of Deficiency:

Level 1: You observe that less than 50% of a single building exterior wall is affected.

Level 2: You observe that more than 50% of a single building exterior wall is affected.

Level 3: N/A

Windows (Building Exterior)

Window systems provide light, security, and exclusion of exterior noise, dust, heat, and cold. Frame materials include wood, aluminum, vinyl, etc.

This inspectable item can have the following deficiencies:

• Cracked/Broken/Missing Panes

• Damaged/Missing Screens

• Damaged Sills/Frames/Lintels/Trim

• Missing/Deteriorated Caulking/Seals/Glazing Compound

• Peeling/Needs Paint

Cracked/Broken/Missing Panes (Windows—Building Exterior)

Deficiency: A glass pane is broken, missing, or cracked.

Level of Deficiency:

Level 1: A glass pane is cracked, but you see no sharp edges.

Level 2: N/A

Level 3: A glass pane is missing or broken.

Damaged/Missing Screens (Windows—Building Exterior)

Deficiency: Screens are punctured, torn, otherwise damaged, or missing.

Level of Deficiency:

Level 1: Three or more screens in 1 building are punctured, torn, otherwise damaged, or missing.

Level 2: N/A

Level 3: N/A

Damaged Sills/Frames/Lintels/Trim (Windows—Building Exterior)

Deficiency: Window sills, frames, sash lintels, or trim are damaged by decay, rust, rot, corrosion, or other deterioration.

Note: Damage does not include scratches and cosmetic deficiencies.

Level of Deficiency:

Level 1: You see damage to sills, frames, lintels, or trim, but nothing is missing. The inside of the surrounding wall is not exposed. You see no impact on either the functioning of the window or weather tightness.

Level 2: Sills, frames, lintels, or trim are missing or damaged, exposing the inside of the surrounding walls and compromising its weather tightness.

Level 3: N/A

Missing/Deteriorated Caulking/Seals/Glazing Compound (Windows—Building Exterior)

Deficiency: The caulk, seals or glazing compound that resists weather is missing or deteriorated.

Note:

1. This also includes Thermopane or insulated windows that have failed.

2. Caulk and seals are considered to be deteriorated when 2 or more seals for any window have lost their elasticity. (If the seals crumble and flake when touched, they have lost their elasticity.)

Level of Deficiency:

Level 1: Most of the window shows missing or deteriorated caulk, seals and/or glazing compound, but there is no evidence of damage to the window or surrounding structure.

Level 2: N/A

Level 3: There are missing or deteriorated caulk, seals and/or glazing compound with evidence of leaks or damage to the window or surrounding structure.

Peeling/Needs Paint (Windows—Building Exterior)

Deficiency:

—Paint covering the window assembly or trim is cracking, flaking, or otherwise failing.

-OR-

—The window assembly or trim is not painted or is exposed to the elements.

Note: This does not include windows that were not intended to be painted.

Level of Deficiency:

Level 1: You see peeling paint or a window that needs paint.

Level 2: N/A

Level 3: N/A

Building Systems Inspectable Items

Items to inspect for “Building Systems” are as follows:

• Domestic Water

• Electrical System

• Elevators

• Emergency Power

• Fire Protection

• HVAC

• Roof Exhaust System

• Sanitary System

Domestic Water (Building Systems)

Portion of the building system that provides potable water conditioning, heating, and distribution, taking its source from outside the building and terminating in domestic plumbing fixtures. The system typically consists of water conditioners (filters and softeners), water heaters, transfer and circulating pumps, strainers, connecting piping, fittings, valves and supports.

Note: This does not include portion of water supply that connects to the heating and cooling system. Also, the delivery points of the system such as sinks and faucets in units or common areas.

This inspectable item can have the following deficiencies:

• General Rust/Corrosion on Heater Chimney

• Leaking Central Water Supply

• Misaligned/Damaged Ventilation System

• Missing Pressure Relief Valve

• Water Supply Inoperable

General Rust/Corrosion on Heater Chimney (Domestic Water—Building Systems)

Deficiency: The water heater chimney shows evidence of flaking, discoloration, pitting, or crevices.

Level of Deficiency:

Level 1: N/A

Level 2: N/A

Level 3: The water heater chimney shows evidence of flaking, discoloration, pitting, or crevices that may create holes that could allow toxic gases to leak from the chimney.

Leaking Central Water Supply (Domestic Water—Building Systems)

Deficiency: You see water leaking from any water system component, including valve flanges, stems, bodies, hose bibs, or any domestic water tank or its pipe or pipe connections.

Note:

1. This includes both hot and cold water systems, but does not include fixtures. Address fixtures in dwelling units or common areas.

2. Some pumps and valves are designed to leak as a normal function, particularly in fire pumps, water pressure pumps, and large circulating pumps, and should be considered accordingly.

Level of Deficiency:

Level 1: N/A

Level 2: N/A

Level 3: You see that water is leaking.

Comment:

Level 3: If leaking water is a health and safety concern (i.e., is leaking on or near electrical equipment), you must record it manually under “Electrical Hazards (Health and Safety).”

Misaligned Chimney/Ventilation System (Domestic Water—Building Systems)

Deficiency: The ventilation system on a gas-fired or oil-fired water heater is misaligned.

Level of Deficiency:

Level 1: N/A

Level 2: N/A

Level 3: You see any misalignment that may cause improper or dangerous venting of exhaust gases.

Missing Pressure Relief Valve (Domestic Water—Building Systems)

Deficiency: The pressure relief valve on the central hot water heating system is missing or does not extend to the floor.

Level of Deficiency:

Level 1: N/A

Level 2: N/A

Level 3: There is no pressure relief valve.

-OR-

The pressure relief valve does not extend to the floor.

Water Supply Inoperable (Domestic Water—Building Systems)

Deficiency: Water is not available.

Level of Deficiency:

Level 1: N/A

Level 2: N/A

Level 3: There is no running water in any area of the building.

Electrical System (Building Systems)

Portion of the building system that safely provides electrical power throughout the building. Including equipment that provides control, protection, metering, and service.

Note: This does not include transformers or metering that belongs to the providing utility; equipment that is part of any emergency power generating system; or terminal equipment such as receptacles, switches, or panel boards that are located in the units or common areas.

This inspectable item can have the following deficiencies:

• Blocked Access/Improper Storage

• Burnt Breakers

• Evidence of Leaks/Corrosion

• Frayed Wiring

• Missing Breakers/Fuses

• Missing Covers

Blocked Access/Improper Storage (Electrical System—Building Systems)

Deficiency: A fixed obstruction or item of sufficient size and weight that can delay or prevent access to any panel board or main power switch in an emergency.

Note: If the panel board or main power switch is locked but authorized personnel can quickly gain access, do not record it as a deficiency.

Level of Deficiency:

Level 1: N/A

Level 2: N/A

Level 3: One or more fixed items or items of sufficient size and weight impede access to the building system's electrical panel during an emergency.

Comment:

Level 3: If the condition is a health and safety concern, you must record it manually under “Flammable Materials (Health and Safety).”

Burnt Breakers (Electrical System—Building Systems)

Deficiency: Breakers have carbon on the plastic body, or the plastic body is melted and scarred.

Level of Deficiency:

Level 1: N/A

Level 2: N/A

Level 3: You see any carbon residue, melted breakers, or arcing scars.

Evidence of Leaks/Corrosion (Electrical System—Building Systems)

Deficiency: You see liquid stains, rust marks, or other signs of corrosion on electrical enclosures or hardware.

Note: Do not consider surface rust a deficiency if it does not affect the condition of the electrical enclosure.

Level of Deficiency:

Level 1: N/A

Level 2: N/A

Level 3: Any corrosion that affects the condition of the components that carry current.

-OR-

Any stains or rust on the interior of electrical enclosures.

-OR-

Any evidence of water leaks in the enclosure or hardware.

Frayed Wiring (Electrical System—Building Systems)

Deficiency: You see nicks, abrasions, or fraying of the insulation that expose wires that conduct current.

Note: Do not consider this a deficiency for wires not intended to be insulated, such as grounding wires.

Level of Deficiency:

Level 1: N/A

Level 2: N/A

Level 3: You see any nicks, abrasions, or fraying of the insulation that expose any conducting wire.

Comment:

Level 3: If the condition is a health and safety concern, you must record it manually under “Electrical Hazards (Health and Safety).”

Missing Breakers/Fuses (Electrical System—Building Systems)

Deficiency: In a panel board, main panel board, or other electrical box containing circuit breakers, you see an open circuit breaker position that is not appropriately blanked off.

Level of Deficiency:

Level 1: N/A

Level 2: N/A

Level 3: You see an open breaker port.

Missing Covers (Electrical System—Building Systems)

Deficiency: The cover is missing from any electrical device box, panel box, switch gear box, or control panel with exposed electrical connections.

Note: If the accompanying POA identifies abandoned wiring: capped wires do not pose a risk, therefore, do not record this as a deficiency.

Level of Deficiency:

Level 1: N/A

Level 2: N/A

Level 3: A cover is missing, which results in exposed visible electrical connections.

Elevators (Building Systems)

Vertical conveyance system for moving personnel, equipment, materials, household goods, etc.

Inoperable Elevators (Elevators—Building Systems)

Deficiency:

- The elevator will not ascend or descend.

-OR-

- The elevator door will not open or close.

-OR-

- The elevator door opens when the cab is not there.

Note: Some elevators are designed/programmed for special applications, for example, stopping at every floor. For these special cases, the elevator is serving its designed purpose and is therefore not deficient.

Level of Deficiency:

Level 1: N/A

Level 2: N/A

Level 3: The elevator does not function at all.

-OR-

The elevator doors open when the cab is not there.

Emergency Power (Building Systems)

Standby/backup equipment intended to supply illumination or power or both, (battery or generator set) during utility outage.

This inspectable item can have the following deficiencies:

• Auxiliary Lighting Inoperable

• Run-Up Records/Documentation Not Available

Auxiliary Lighting Inoperable (Emergency Power—Building Systems)

Deficiency: Emergency lighting that provides illumination during power outages does not function as it should.

Level of Deficiency:

Level 1: N/A

Level 2: N/A

Level 3: Auxiliary lighting does not function.

Run-Up Records/Documentation Not Available (Emergency Power—Building Systems)

Deficiency: Records are not properly maintained or available.

Level of Deficiency:

Level 1: N/A

Level 2: Current records, from the last 12 months, are lost, but older records are properly maintained and available.

Level 3: No records are available.

Fire Protection (Building Systems)

Building System designed to minimize the effects of a fire. May include the following: fire walls and doors, portable fire extinguishers, and permanent sprinkler systems.

Note: This does not include fire detection, alarm, and control devices.

This inspectable item can have the following deficiencies:

• Missing Sprinkler Head

• Missing/Damaged/Expired Extinguishers

Missing Sprinkler Head (Fire Protection—Building Systems)

Deficiency: You see that a sprinkler head, or its components, connected to the central fire protection system is either missing, visibly disabled, painted over, blocked, or capped.

Note: Components include test plugs, drains, and test fittings.

Level of Deficiency:

Level 1: N/A

Level 2: N/A

Level 3: Any sprinkler head is missing, visibly disabled, painted over, blocked, or capped.

Missing/Damaged/Expired Extinguishers (Fire Protection—Building Systems)

Deficiency: A portable fire extinguisher is not where it should be, is damaged, or the extinguisher certification has expired.

Note:

1. This includes missing/damaged fire hoses where there are fire cabinets.

2. For buildings with multiple fire control systems, standpipes, sprinklers, etc., 5% or less of the extinguishers for a given building may be missing, damaged, and/or expired. In such cases do not record as a deficiency.

3. If the inspection tag is missing during the REAC inspection, the accompanying POA may produce proof that the fire extinguisher certification is current. If you see such proof, do not record a deficiency for a missing tag.

Level of Deficiency:

Level 1: For a building with only 1 fire control system, 5% or less of the fire extinguishers are missing, damaged, or expired.

Level 2: For all buildings, 5% to 10% of the fire extinguishers are missing, damaged, or expired.

Level 3: For all buildings, more than 10% of the fire extinguishers are missing, damaged, or expired.

-OR-

There is not an operable/non-expired fire extinguisher on each floor.

HVAC (Building Systems)

Portion of the building system that provides the ability to heat or cool the air within the building. Includes equipment such as boilers, burners, furnaces, fuel supply, hot water and steam distribution, centralized air conditioning systems, and associated piping, filters, and equipment. Also includes air handling equipment and associated ventilation ducting.

This inspectable item can have the following deficiencies:

• Boiler/Pump/Cooling System Leaks

• Fuel Supply Leaks

• Misaligned Chimney/Ventilation System

• General Rust/Corrosion

Boiler/Pump/Cooling System Leaks (HVAC—Building Systems)

Deficiency: Coolant, water or steam is escaping from unit casing and/or pump packing/system piping.

Note:

1. This does not include fuel supply leaks. See “Fuel Supply Leaks (HVAC—Building Systems).”

2. Do not include steam escaping from pressure relief valves.

3. If water containment and curb is provided, do not record as deficiency if there is standing water.

4. Condensation or sweating is not to be confused with leaking.

Level of Deficiency:

Level 1: Coolant, water, or steam is escaping from unit casing and/or pump packing/system piping.

Level 2: N/A

Level 3: Coolant, water, or steam is leaking from unit casing and/or pump packing/system piping to the point that the system or pumps should be shut down.

Comment:

Level 3: If the condition is a health and safety concern, you must record it manually under “Hazards (Health and Safety).”

Fuel Supply Leaks (HVAC—Building Systems)

Deficiency: There is evidence that fuel is escaping from a fuel storage tank or fuel line.

Level of Deficiency:

Level 1: N/A

Level 2: N/A

Level 3: Any amount of fuel is leaking from the supply tank or piping.

General Rust/Corrosion (HVAC—Building Systems)

Deficiency: The equipment or associated piping and ducting shows evidence of flaking, discoloration, pitting, or crevices.

Level of Deficiency:

Level 1: N/A

Level 2: You see significant formations of metal oxides, significant flaking, discoloration, or the development of a noticeable pit or crevice.

Level 3: The equipment or piping does not function because of this condition.

Comment:

Level 3: If the condition is a health and safety concern, you must record it under “Hazards (Health and Safety).”

Misaligned Chimney/Ventilation System (HVAC—Building Systems)

Deficiency: The exhaust system on a gas fired, oil fired, or coal unit is misaligned.

Level of Deficiency:

[Level 1: N/A

Level 2: N/A

Level 3: You see a misalignment of an exhaust system on a gas fired, oil fired or coal unit that causes improper or dangerous venting of gases.

Roof Exhaust System (Building Systems)

The system used to primarily exhaust stale air from the building. Primarily from the kitchen and bathroom areas.

Note: This does not include elements related to the HVAC system.

Roof Exhaust Fans Inoperable (Roof Exhaust System—Building Systems)

Deficiency: The ventilation system/roof exhaust fans to exhaust air from building areas, such as kitchen, bathroom, etc., does not function.

Note:

1. The inspector shall determine if the fans are event activated, for example, fire, timer, etc. If so, there is no deficiency.

2. “Missing” only refers to the case where there were fans to begin with. If a fan was not included in the design, do not record a deficiency for not having one.

Level of Deficiency:

Level 1: N/A

Level 2: N/A

Level 3: The roof exhaust fan unit does not function, is damaged to the point of being inoperable, or is missing.

Sanitary System (Building Systems)

Portion of the building system that provides for the disposal of waste products with discharge to the local sewage system. Can include sources such as domestic plumbing fixtures, floor drains, and other area drains. Consists of floor drains and traps, collection sumps, sewage ejectors, sewage pumps, collection piping, fittings, valves and supports.

Note: This does not include site storm drainage. Refer to “Storm Drainage (Site).”

This inspectable item can have the following deficiencies:

• Broken/Leaking/Clogged Pipes or Drains (Sanitary System)

• Missing Drain/Cleanout/Manhole Covers

Broken/Leaking/Clogged Pipes or Drains (Sanitary System—Building Systems)

Deficiency: You see that a drain is clogged or that components of the sanitary system are leaking.

Level of Deficiency:

Level 1: N/A

Level 2: N/A

Level 3: You see active leaks in or around the system components.

-OR-

You see evidence of standing water, puddles, or ponding, a sign of leaks or clogged drains.

Missing Drain/Cleanout/Manhole Covers (Sanitary System—Building Systems)

Deficiency: You see that a protective cover is missing.

Note: This also includes covers you see while walking the site.

Level of Deficiency:

Level 1: N/A

Level 2: N/A

Level 3: A protective cover is missing.

Comment:

Level 3: If the condition is a health and safety concern, you must record it manually under “Air Quality (Health and Safety).”

Common Areas Inspectable Items

The locations of items to inspect for “Common Areas” are as follows:

• Basement/Garage/Carport.

—Basement: the lowest habitable story of a building, usually below ground level.

—Garage: a building or wing of a building in which to park a car.

—Carport: a roof projecting from the side of a building or free standing, used to shelter an automobile.

• Closet/Utility/Mechanical—an enclosed room or closet housing machines and/or equipment that service the building.

• Community Room—meeting place used by members of a community for social, cultural, or recreational purposes.

• Day Care—place that provides daytime supervision, training, and medical services for preschool children or for the elderly.

• Halls/Corridors/Stairs—passageway in a building, which organizes its rooms, apartments and staircases.

• Kitchen—a place where food is cooked or prepared; the facilities and equipment used in preparing and serving food.

• Laundry Room—place where soiled clothes and linens are washed and/or dried.

• Lobby—a foyer, hall, or waiting room at or near the entrance of a building.

• Office—a place in which business, professional, or clerical activities are conducted.

• Other community spaces.

• Patio/Porch/Balcony—covered entrance to a building, usually with a separate roof or a recreation area that adjoins common areas.

• Pools and Related Structures—swimming pools and related structures including fencing, etc.

• Restrooms/Pool Structures—a room equipped with a water closet or toilet, tub and/or shower, sink, cabinet(s) and/or closet; this includes locker rooms or bathhouses associated with swimming pools.

• Storage—a room in which items are kept for future use.

• Trash Collection Areas—collection areas for trash/garbage common pick-up.

The items within locations to be inspected for “Common Areas” are listed below.

Baluster/Side Railings—Damaged (Common Areas)

Deficiency: The baluster or side railing on the exterior improvement is loose, damaged or missing, limiting the safe use of this area.

Level of Deficiency:

Level 1: N/A

Level 2: N/A

Level 3: The baluster or side rails enclosing the area are loose, damaged, or missing, limiting the safe use of this area.

Cabinets—Missing/Damaged (Common Areas)

Deficiency: Cabinets are missing or the laminate is separating. This includes cases, boxes, or pieces of furniture with drawers, shelves, or doors, primarily used for storage, mounted on walls or floors.

Level of Deficiency:

Level 1: N/A

Level 2: You see that 10% to 50% of the cabinets, doors, or shelves are missing or the laminate is separating.

Level 3: You see that more than 50% of the cabinets, doors, or shelves are missing or the laminate is separating.

Call-for-Aid—Inoperable (Common Areas)

System to summon help. May be visual, audible, or both. May be activated manually or automatically when pre-programmed conditions are met.

Deficiency: The system does not function as it should.

Note: Inspector should verify that the Call-for-Aid only alerts local entities (on-site) prior to testing.

Level of Deficiency:

Level 1: N/A

Level 2: N/A

Level 3: The system does not function as it should.

Ceiling (Common Areas)

The visible overhead structure lining the inside of a room or area.

This inspectable item can have the following deficiencies:

• Bulging/Buckling

• Holes/Missing Tiles/Panels/Cracks

• Mold/Mildew/Water Stains/Water Damage

• Peeling/Needs Paint

Bulging/Buckling (Ceiling—Common Areas)

Deficiency: A ceiling is bowed, deflected, sagging, or is no longer aligned horizontally to the extent that ceiling failure is possible.

Level of Deficiency:

Level 1: N/A

Level 2: N/A

Level 3: You see bulging, buckling, sagging, or a lack of horizontal alignment.

Comment:

Level 3: If you as an inspector have concerns about the possibility of failure, inform the property representative that an inspection by a professional engineer is suggested.

Holes/Missing Tiles/Panels/Cracks (Ceiling—Common Areas)

Deficiency:

—The ceiling surface has punctures that may or may not penetrate completely.

-OR-

—Panels or tiles are missing or damaged.

Level of Deficiency:

Level 1: You see small holes that are no larger than a sheet of paper, 8½ inches by 11 inches.

-OR-

No hole or crack penetrates the area above.

-OR-

You see that no more than 3 tiles or panels are missing.

-OR-

You see a crack more than ⅛ inch wide and 11 inches long.

Level 2: You see a hole that is larger than a sheet of paper, 8½ inches by 11 inches, but it does not penetrate the area above. You cannot see through it.

-OR-

You see that more than 3 tiles or panels are missing.

Level 3: You see a hole or crack that penetrates the area above. You can see through it.

Comments:

Level 3: If a hole or crack is a health and safety concern, you must record it manually under “Hazards (Health and Safety).”

If you as an inspector have concerns about the possibility of failure, inform the property representative that an inspection by a professional engineer is suggested.

Mold/Mildew/Water Stains/Water Damage (Ceiling—Common Areas)

Deficiency: You see mold or mildew that may have been caused by saturation or surface failure, or evidence of water infiltration or other moisture producing conditions.

Level of Deficiency:

Level 1: On 1 ceiling, you see evidence of mold or mildew, such as a darkened area, over a large area (more than 1 square foot but less than 4 square feet). You may or may not see water.

Level 2: N/A

Level 3: On 1 ceiling, you estimate that a very large area (more than 1 square foot) of its surface, has been substantially saturated or damaged by mold or mildew. The ceiling surface may have failed.

Peeling/Needs Paint (Ceiling—Common Areas)

Deficiency: You see paint that is peeling, cracking, flaking or otherwise deteriorated on ceilings in common areas.

Level of Deficiency:

Level 1: You see paint that is peeling, cracking, flaking or otherwise deteriorated on 1 to 4 ceilings in common areas.

Level 2: You see more than 4 ceilings in common areas that have paint that is peeling, cracking, flaking or otherwise deteriorated, or need paint.

Level 3: N/A

Chutes Damaged/Missing Components (Common Areas)

Deficiency: The structure that directs garbage into the appropriate storage container is missing or damaged. This includes the chute, chute door, and other components.

Note: Do not evaluate the door that leads to the trash room.

Level of Deficiency:

Level 1: N/A

Level 2: Garbage has backed up into chutes, because the collection structure is missing or broken. Compactors or components, chute, chute door, and other components, have failed.

Level 3: N/A

Countertops—Missing/Damaged (Common Areas)

Deficiency: A flat work surface in a kitchen often integral to lower cabinet space is missing or deteriorated.

Level of Deficiency:

Level 1: N/A

Level 2: 20% or more of the countertop working surface is missing, deteriorated, or damaged below the laminate and is not a sanitary surface on which to prepare food.

Level 3: N/A

Dishwasher/Garbage Disposal—Inoperable (Common Areas)

Deficiency: A dishwasher or garbage disposal, if provided, does not function.

Level of Deficiency:

Level 1: N/A

Level 2: The dishwasher or garbage disposal does not function.

Level 3: N/A

Doors (Common Areas)

Means of access to the interior of a unit. Doors provide privacy and security, control passage, provide fire and weather resistance.

This inspectable item can have the following deficiencies:

• Damaged Frames/Threshold/Lintels/Trim

• Damaged Hardware/Locks

• Damaged/Missing Screen/Storm/Security Door

• Damaged Surface—(Holes/Paint/Rust/Glass)

• Deteriorated/Missing Seals (Entry Only)

• Missing Door

Damaged Frames/Threshold/Lintels/Trim (Doors—Common Areas)

Deficiency: You see a frame, header, jamb, threshold, lintel, or trim that is warped, split, cracked, or broken.

Note: If you see damage to a door's hardware, (locks, hinges, etc.) record this under “Damage Hardware/Locks (Doors—Common Areas).”

Level of Deficiency:

Level 1: N/A

Level 2: At least 1 door is not functioning or cannot be locked because of damage to the frame, header, jamb, threshold, lintel, or trim.

Level 3: At least 1 restroom door, entry door, or fire is not functioning or cannot be locked because of damage to the frame, header, jamb, threshold, lintel, or trim.

Comment:

Level 3: If the condition is a health and safety concern, you must record it manually under “Hazards (Health and Safety).”

Damaged Hardware/Locks (Doors—Common Areas)

Deficiency: The attachments to a door that provide hinging, hanging, opening, closing, or security are damaged or missing. These include locks, panic hardware, overhead door tracks, springs and pulleys, sliding door tracks and hangers, and door closures.

Note:

1. If a door is designed to have a lock, the lock should work. If a door is designed without locks, do not record it as a deficiency.

2. If a lock has been removed from an interior door, do not record this as a deficiency.

3. 504 units have had locks removed. Before you start the inspection, you should be given a list of units relative to the UFAS. Do not record these missing locks as deficiencies.

Level of Deficiency:

Level 1: A closet door does not function as it should because of damage to the door's hardware.

-OR-

A closet door that requires locking cannot be locked because of damage to the door's hardware.

Level 2: A door does not function as it should because of damage to the door's hardware.

-OR-

A door that requires locking cannot be locked because of damage to the door's hardware.

Level 3: A restroom door, entry door, or fire door does not function as it should because of damage to the door's hardware.

-OR-

A restroom door, entry door, or fire door that requires locking cannot be locked because of damage to the door's hardware.

Damaged/Missing Screen/Storm/Security Door (Doors—Common Areas)

Deficiency: Visible damage to surfaces including screens, glass, frames, hardware, and door surface.

Level of Deficiency:

Level 1: One or more screen/storm doors has damage or door is missing screens/glass as evidenced by empty frame.

Level 2: N/A

Level 3: A single security door is inoperable or missing. (Missing only applies to those situations where a security door is supposed to be present but is observed not to be there.)

Damaged Surface (Holes/Paint/Rust/Glass) (Doors—Common Areas)

Deficiency: This includes holes, peeling/cracking/no paint, broken glass, and significant rust. You see damage to the door surface that:

—May affect either the surface protection or the strength of the door.

-OR-

—May compromise building security.

Note: If the door is a restroom, fire door, or entry door, this is a Level 3 deficiency.

Level of Deficiency:

Level 1: N/A

Level 2: One door has a hole or holes with a diameter ranging from ¼ inch to 1 inch.

Level 3: One door has a hole or holes larger than 1 inch in diameter, significant peeling/cracking/no paint, rust that affects the integrity of the door surface, or broken/missing glass.

Comment:

Level 3: If the condition is a health and safety concern, you must record it manually under “Hazards (Health and Safety).”

Deteriorated/Missing Seals (Entry Only) (Doors—Common Areas)

Deficiency: The seals and stripping around the entry door(s) to resist weather and fire are damaged or missing.

Note: This defect applies only to entry doors that were designed with seals. If a door shows evidence that a seal was never part of its design, do not record it as a deficiency.

Level of Deficiency:

Level 1: N/A

Level 2: N/A

Level 3: The seals are missing on 1 entry door, or they are so damaged that they do not function as they should.

Missing Door (Doors—Common Areas)

Deficiency: A door is missing.

Note: If a restroom door, entry door, or fire door, record this as a Level 3 deficiency.

Level of Deficiency:

Level 1: A door is missing, but it is not a restroom door, entry door, or fire door.

Level 2: Two doors or up to 50% of the doors are missing, but they are not restroom doors, entry doors, or fire doors, and the condition presents no hazard.

Level 3: A restroom door, entry door, or fire door is missing.

-OR-

You estimate that more than 50% of the doors are missing.

Comment:

Level 3: If the condition is a health and safety concern, you must record it manually under “Hazards (Health and Safety).”

Dryer Vent—Missing/Damaged/Inoperable (Common Areas)

Deficiency: There is no adequate way to vent heat and lint to the outside.

Level of Deficiency:

Level 1: N/A

Level 2: N/A

Level 3: The dryer vent is missing or you see that it is not functioning because it is blocked. Dryer exhaust is not effectively vented to the outside.

Electrical (Common Areas)

Portion of the common area that safely provides electrical power throughout the building. Including equipment that provides control, protection, metering, and service.

This inspectable item can have the following deficiencies:

• Blocked Access to Electrical Panel

• Burnt Breakers

• Evidence of Leaks/Corrosion

• Frayed Wiring

• Missing Breakers

• Missing Covers

Blocked Access to Electrical Panel (Electrical—Common Areas)

Deficiency: A fixed obstruction or item of sufficient size and weight can delay or prevent access to any panel board switch in an emergency.

Note: If you see an item that is easy to remove, like a picture, do not note this as a deficiency.

Level of Deficiency:

Level 1: N/A

Level 2: N/A

Level 3: One or more fixed items or items of sufficient size and weight can impede access to the unit's electrical panel during an emergency.

Burnt Breakers (Electrical—Common Areas)

Deficiency: Breakers have carbon on the plastic body, or the plastic body is melted and scarred.

Level of Deficiency:

Level 1: N/A

Level 2: N/A

Level 3: You see any carbon residue, melted breakers, or arcing scars.

Evidence of Leaks/Corrosion (Electrical—Common Areas)

Deficiency: You see liquid stains, rust marks, or other signs of corrosion on electrical enclosures or hardware.

Note: Do not consider surface rust a deficiency if it does not affect the condition of the electrical enclosure.

Level of Deficiency:

Level 1: N/A

Level 2: N/A

Level 3: Any corrosion that affects the condition of the components that carry current.

-OR-

Any stains or rust on the interior of electrical enclosures.

-OR-

Any evidence of water leaks in the enclosure or hardware.

Frayed Wiring (Electrical—Common Areas)

Deficiency: You see nicks, abrasions, or fraying of the insulation that expose wires that conduct current.

Note: Do not consider this a deficiency for wires not intended to be insulated, such as grounding wires.

Level of Deficiency:

Level 1: N/A

Level 2: N/A

Level 3: You see any nicks, abrasions, or fraying of the insulation that expose any conducting wire.

Comment:

Level 3: If the condition is a health and safety concern, you must record it manually under “Electrical Hazards (Health and Safety).”

Missing Breakers (Electrical—Common Areas)

Deficiency: In a panel board, main panel board, or other electrical box that contains circuit breakers/fuses, you see an open circuit breaker position that is not appropriately blanked-off.

Level of Deficiency:

Level 1: N/A

Level 2: N/A

Level 3: You see an open breaker port.

Missing Covers (Electrical—Common Areas)

Deficiency: The cover is missing from any electrical device box, panel box, switch gear box, control panel, etc., with exposed electrical connections.

Note: If an accompanying POA has identified abandoned wiring, capped wires do not pose a risk. Do not record this as a deficiency.

Level of Deficiency:

Level 1: N/A

Level 2: N/A

Level 3: A cover is missing, and you see exposed electrical connections.

FHEO/UFAS (Common Areas)

This inspectable item can have the following deficiencies:

• Multi-Story Building Hallways/Common Areas Less Than 32” Wide

• Routes Obstructed or Inaccessible to Wheelchair

Multi-Story Building Hallways/Common Areas Less Than 36” Wide (FHEO/UFAS—Common Areas)

Deficiency: For multi-story buildings that are inspected, verify that the interior hallways to the inspected units and common areas are at least 36” wide.

Level of Deficiency:

Level 1: N/A

Level 2: N/A

Level 3: The interior hallways are less than 36” wide.

Routes Obstructed or Inaccessible to Wheelchair (FHEO/UFAS—Common Areas)

Deficiency: Verify that at least 1 route to all outside common areas is accessible to wheelchairs (i.e., there are curb cuts, ramps, and sufficient (36”) width).

Level of Deficiency:

Level 1: N/A

Level 2: N/A

Level 3: The common areas are either obstructed or are not accessible by wheelchairs.

Floors (Common Areas)

The visible horizontal surface system within a room or area underfoot; the horizontal division between 2 stories of a structure.

This inspectable item can have the following deficiencies:

• Bulging/Buckling

• Hard Floor Covering Missing/Damaged Flooring/Tiles

• Mold/Mildew/Water Stains/Water Damage

• Peeling/Needs Paint

• Rot/Deteriorated Subfloor

• Soft Floor Covering Damaged

Bulging/Buckling (Floors—Common Areas)

Deficiency: The floor is bowed, deflected, sagging, or is no longer aligned horizontally.

Level of Deficiency:

Level 1: N/A

Level 2: N/A

Level 3: You see bulging, buckling, sagging, or a problem with alignment.

Comment:

Level 3: If you have any doubt about the severity of the condition, request an inspection by a structural engineer.

Hard Floor Covering Missing/Damaged Flooring/Tiles (Floors—Common Areas)

Deficiency: You see that hard flooring, terrazo, hardwood, ceramic tile, sheet vinyl, vinyl tiles, or other similar flooring material, is missing a section(s), is damaged, or presents a tripping or cutting hazard, associated with but not limited to, holes or delamination.

Level of Deficiency:

Level 1: For any single floor surface, you see deficiencies in areas of the floor surface. You estimate that 5% to 10% of the floor is affected, and there are no safety problems.

Level 2: You estimate that 10% to 50% of any single floor surface is affected, but there are no safety problems.

Level 3: You estimate that more than 50% of any single floor surface is affected by Level 1 deficiencies.

-OR-

The condition causes a safety problem.

Mold/Mildew/Water Stains/Water Damage (Floors—Common Areas)

Deficiency: You see mold or mildew that may have been caused by saturation or surface failure or evidence of water infiltration or other moisture producing conditions.

Level of Deficiency:

Level 1: N/A

Level 2: On 1 floor, you see evidence of mold or mildew, such as a darkened area, over a large area (4 square inches to 1 square foot). You may or may not see water.

Level 3: On 1 floor, you estimate that a very large area (more than 1 square foot) of its surface, has been substantially saturated or damaged by mold, or mildew. The floor surface may have failed.

Peeling/Needs Paint (Floors—Common Areas)

Deficiency: For floors that are painted, you see paint that is peeling, cracking, flaking, or otherwise deteriorated.

Level of Deficiency:

Level 1: The area affected is more than 1 square foot, but less than 4 square feet.

Level 2: The area affected is more than 4 square feet.

Level 3: N/A

Rot/Deteriorated Subfloor (Floors—Common Areas)

Deficiency: The subfloor has decayed or is decaying.

Note:

1. If there is any doubt, apply weight to detect noticeable deflection.

2. This type of defect typically occurs in kitchens and bathrooms.

Level of Deficiency:

Level 1: N/A

Level 2: Evidence of small areas of rot, 1 to 4 square feet.

Level 3: Evidence of large areas of rot, more than 4 square feet.

Comment:

Level 3: If you as an inspector have concerns about health and safety, inform the property representative that an inspection by a professional engineer is suggested.

Soft Floor Covering Missing/Damaged (Floors—Common Areas)

Deficiency: You see damaged and/or missing soft floor covering.

Level of Deficiency:

Level 1: You estimate that 5% to 10% of any single floor covering has stains, surface burns, shallow cuts, small holes, tears, loose areas, or exposed seams. The covering is fully functional, and there is no safety hazard.

Level 2: You estimate that 10% to 50% of any single floor covering has stains, surface burns, shallow cuts, small holes, tears, loose areas, or exposed seams. The covering is fully functional, and there is no safety hazard.

Level 3: You estimate that more than 50% of any single floor covering is damaged.

-OR-

Damage to the soft floor covering exposes the underlying material.

Comment:

Level 3: If this condition is a health and safety concern, you must record it manually under “Hazards (Health and Safety).”

GFI—Inoperable (Common Areas)

Deficiency: The GFI does not function.

Note: To determine whether the GFI is functioning, you must press the self-test button in the GFI unit.

Level of Deficiency:

Level 1: N/A

Level 2: N/A

Level 3: The GFI does not function.

Comment:

Level 3: If this condition is a health and safety concern, you must record it under “Electrical Hazards (Health and Safety).”

Graffiti (Common Areas)

Deficiency: You see crude inscriptions or drawings scratched, painted, or sprayed on an interior building surface at 1 location. An interior surface includes but is not limited to walls, doors, ceiling, and floors. A location is defined as 1 general area in a building such as 1 hallway in a 10 story building or 1 floor of a stairwell in a 5 story building.

Note: There is a difference between art forms and graffiti. If there by design in accordance with proper authorization, do not consider full wall murals and other art forms as graffiti.

Level of Deficiency:

Level 1: You see graffiti on an interior surface at 1 location in the same building.

Level 2: You see graffiti at 2 to 5 locations on interior surfaces in the same building.

Level 3: You see graffiti in 6 or more locations on interior surfaces in the same building.

HVAC (Common Areas)

System to provide heating, cooling and ventilation to the unit. This does not include building heating or cooling system deficiencies such as boilers, chillers, circulating pumps, distribution lines, fuel supply, etc., or occupant owned or supplied heating sources.

This inspectable item can have the following deficiencies:

• Convection/Radiant Heat System Covers Missing/Damaged

• General Rust/Corrosion

• Inoperable

• Misaligned Chimney/Ventilation System

• Noisy/Vibrating/Leaking

Convection/Radiant Heat System Covers Missing/Damaged (HVAC—Common Areas)

Deficiency: A cover on the convection/radiant heat system is missing or damaged, which could cause a burn or related injury.

Level of Deficiency:

Level 1: N/A

Level 2: N/A

Level 3: At least 1 cover is missing or substantially damaged, allowing contact with heating/surface elements or associated fans.

Comment:

Level 3: When the system is operational during an inspection and you see a Level 3 deficiency, a real-time hazard exists, you must record it manually under “Hazards (Health and Safety).”

General Rust/Corrosion (HVAC—Common Areas)

Deficiency: The equipment or associated piping/ducting shows evidence of flaking, oxidation, discoloration, pitting, or crevices.

Level of Deficiency:

Level 1: You see superficial surface rust.

Level 2: You see significant formations of metal oxides, flaking, or discoloration, or a pit or crevice.

Level 3: Because of this condition, the equipment or piping does not function.

Inoperable (HVAC—Common Areas)

Deficiency: The heating, cooling, or ventilation system does not function.

Note: If the HVAC system does not operate because of seasonal conditions, do not record this as a deficiency.

Level of Deficiency:

Level 1: N/A

Level 2: N/A

Level 3: The HVAC system does not function; it does not provide the heating or cooling it should. The system does not respond when the controls are engaged.

Comment:

Level 3: If this condition is a health and safety concern, you must record it manually under “Hazards (Health and Safety).”

Misaligned Chimney/Ventilation System (HVAC—Common Areas)

Deficiency: The exhaust system on a gas, oil fired, or coal unit is misaligned.

Level of Deficiency:

Level 1: N/A

Level 2: N/A

Level 3: You see any misalignment of an exhaust system on a gas fired, oil fired or coal unit that may cause improper or dangerous venting of gases.

Noisy/Vibrating/Leaking (HVAC—Common Areas)

Deficiency: The HVAC distribution components, including fans, are the source of unusual vibrations, leaks, or abnormal noise. Examples may include, but are not limited to, screeching, squealing, banging, shaking, etc.

Level of Deficiency:

Level 1: The HVAC system shows signs of abnormal vibrations, other noise, or leaks when engaged. The system still provides enough heating or cooling to maintain a minimum temperature range in the major living areas.

Level 2: N/A

Level 3: N/A

Lavatory Sink—Damaged/Missing (Common Areas)

Deficiency: A sink, faucet, or accessories are missing, damaged, or not functioning.

Note: If you see that a stopper is missing from a common area, do not record this as a deficiency.

Level of Deficiency:

Level 1: You see extensive discoloration or cracks in over 50% of the basin, but the sink can be used.

Level 2: N/A

Level 3: The sink or associated hardware have failed or are missing. The sink cannot be used.

Lighting—Missing/Damaged/Inoperable Fixture (Common Areas)

Deficiency: Lighting fixture is damaged, not functional, or missing.

Note: To conserve energy during daytime or in low-use areas, many facilities use alternate lights that are triggered by either a sensor or a timer. If you see these kinds of lights, ask the accompanying POA to verify that these conservation systems are in place.

Level of Deficiency:

Level 1: N/A

Level 2: 20% to 50% of the permanent lighting fixtures are missing or damaged to the point where they do not function. This results in inadequate lighting in the common area(s).

Level 3: More than 50% of the permanent lighting fixtures are missing or damaged to the point where they do not function. This results in inadequate lighting in the common area(s).

Mailboxes—Missing/Damaged (Common Areas)

Deficiency: The U.S. Postal Service resident/unit mailbox is either missing or so damaged that it does not function properly.

Note: Do not inspect commercial deposit boxes, FedEx, UPS, etc., or U.S. Postal Service “blue boxes.”

Level of Deficiency:

Level 1: N/A

Level 2: N/A

Level 3: The U.S. Postal Service resident/unit mailbox cannot be locked.

-OR-

The U.S. Postal Service resident/unit mailbox is missing.

Outlets/Switches/Cover Plates—Missing/Broken (Common Areas)

The receptacle connected to a power supply or method to control the flow of electricity. Included are 2 and 3 prong outlets, ground fault interrupters, pull cords, 2 and 3 pole switches and dimmer switches.

Deficiency:

—The flush plate that covers the opening around a switch or outlet is damaged or missing.

-OR-

—A switch or outlet is missing.

Level of Deficiency:

Level 1: An outlet or switch has a broken cover plate over a junction box, but it does not result in exposed wiring.

Level 2: N/A

Level 3: An outlet or switch is missing.

-OR-

A cover plate is missing or broken, resulting in exposed wiring.

Pedestrian/Wheelchair Ramp (Common Areas)

Deficiency: A pedestrian walkway or wheelchair ramp is damaged or does not function as it should.

Level of Deficiency:

Level 1: N/A

Level 2: A walkway or ramp shows signs of deterioration and requires repair, but it can be used by people on foot, in wheelchairs, or using walkers.

Level 3: A walkway or ramp is damaged and cannot be used by people on foot, in wheelchairs, or using walkers.

Plumbing (Common Areas)

This inspectable item can have the following deficiencies:

• Clogged Drains

• Leaking Faucet/Pipes

Clogged Drains (Plumbing—Common Areas)

Deficiency: Water does not drain adequately from the shower, sink, tub, or basin.

Level of Deficiency:

Level 1: Water does not drain freely, but the fixture can be used.

Level 2: N/A

Level 3: The drain is completely clogged or has suffered extensive deterioration. The fixture cannot be used.

Leaking Faucet/Pipes (Plumbing—Common Areas)

Deficiency: You see that the sink faucet or piping is leaking.

Level of Deficiency:

Level 1: You see a leak or drip that is contained by the basin and pipes, and the faucet can be used.

Level 2: N/A

Level 3: You see a steady leak that is adversely affecting the surrounding area.

-OR-

The faucet/pipe cannot be used.

Pools and Related Structures (Common Areas)

This inspectable item has the following deficiencies:

• Damaged/Not Intact Fencing/Gates(s)

• Inoperable

Damaged/Not Intact Fencing/Gate(s) (Pools and Related Structures—Common Areas)

Deficiency: You see that fencing and/or a gate(s) around the swimming pool is damaged.

Level of Deficiency:

Level 1: N/A

Level 2: N/A

Level 3: You see any damage that could compromise the integrity of the fence and/or gate(s).

Inoperable (Pools and Related Structures—Common Areas)

Deficiency: The pool was not in operation during the inspection.

Note: If the pool is open for the season, it should be operational. If the pool is closed for the season, do not record this is a deficiency.

Level of Deficiency:

Level 1: N/A

Level 2: N/A

Level 3: The pool is not operational.

-OR-

You see unsafe conditions at the pool/pool area that could cause an injury.

Range Hood/Exhaust Fans—Excessive Grease/Inoperable (Common Areas)

Deficiency: The apparatus that draws out cooking exhaust does not function as it should.

Level of Deficiency:

Level 1: An accumulation of dirt, grease, or other barrier noticeably reduces the free passage of air.

Level 2: N/A

Level 3: The exhaust fan does not function.

-OR-

You estimate that the flue may be completely blocked.

Range/Stove—Missing/Damaged/Inoperable (Common Areas)

Deficiency: The unit is missing or damaged.

Level of Deficiency:

Level 1: The operation of doors or drawers is impeded, but the stove is functioning. On gas ranges, flames are not distributed equally. The pilot light is out on 1 or more burners.

Level 2: One burner is not functioning.

Level 3: The unit is missing.

-OR-

Two or more burners are not functioning.

-OR-

The oven is not functioning.

Comment:

Level 3: If you think this condition is a health and safety concern, record it under “Hazards (Health and Safety).”

Refrigerator—Damaged/Inoperable (Common Areas)

Deficiency: The refrigerator is missing or does not cool adequately to store food safely.

Level of Deficiency:

Level 1: The refrigerator has an excessive accumulation of ice.

-OR-

The seals around the doors are deteriorated.

Level 2: N/A

Level 3: The refrigerator is missing.

-OR-

The refrigerator does not cool adequately for the safe storage of food.

Restroom Cabinet—Damaged/Missing (Common Areas)

Deficiency: You see damaged or missing cabinets, vanity tops, drawers, shelves, doors, medicine cabinets, or vanities.

Level of Deficiency:

Level 1: You see damaged or missing cabinets, vanity tops, drawers, shelves, doors, medicine cabinets or vanities that are not functioning as they should for storage or their intended purpose.

Level 2: N/A

Level 3: N/A

Shower/Tub—Damaged/Missing (Common Areas)

Deficiency: The shower, tub, or components are damaged or missing.

Note: A missing stopper in a common area is not a deficiency.

Level of Deficiency:

Level 1: N/A

Level 2: The shower or tub can be used, but you see cracks or extensive discoloration in more than 50% of the basin.

Level 3: The shower or tub cannot be used for any reason. The shower, tub, faucets, drains, or associated hardware is missing or has failed.

Sink—Missing/Damaged (Common Areas)

Deficiency: A sink, faucet, or accessories are missing, damaged, or not functioning.

Note: If a stopper is missing, do not record it as a deficiency.

Level of Deficiency:

Level 1: You see extensive discoloration or cracks in 50% or more of the basin, but the sink and hardware can still be used to prepare food.

Level 2: N/A

Level 3: The sink or hardware is either missing or not functioning.

Smoke Detector—Missing/Inoperable (Common Areas)

Sensor to detect the presence of smoke and activate an alarm. May be battery operated or hard-wired to electrical system. May provide visual signal, audible signal, or both.

Deficiency:

—A smoke detector will not activate.

-OR-

—A hardwired smoke detector is missing.

Note:

1. If a smoke detector is there, it must function as it should.

2. “Missing” means that evidence suggests that unauthorized personnel have removed a hardwired smoke detector that should be there.

3. If 2 or more smoke detectors are on the same level in visible proximity, at least 1 of the smoke detectors must function as it should.

Level of Deficiency:

Level 1: N/A

Level 2: N/A

Level 3: A single smoke detector is missing or does not function as it should.

Stairs/Hand Railings Damaged (Common Areas)

Series of 4 or more steps or flights of steps joined by landings connecting levels of a common area. Includes supports, frame, treads, handrails.

This inspectable item can have the following deficiencies:

• Broken/Damaged/Missing Steps

• Broken/Missing Hand Railing

Broken/Damaged/Missing Steps (Stairs/Hand Railings Damaged—Common Areas)

Deficiency: The horizontal tread or stair surface is damaged or missing.

Level of Deficiency:

Level 1: N/A

Level 2: N/A

Level 3: A step is broken or missing.

Broken/Missing Hand Railing (Stairs/Hand Railings Damaged—Common Areas)

Deficiency: The handrail is damaged or missing.

Level of Deficiency:

Level 1: N/A

Level 2: N/A

Level 3: The handrail for 4 or more stairs is either missing, damaged, loose, or otherwise unusable.

Ventilation/Exhaust System—Inoperable (Common Areas)

Deficiency: The apparatus used to exhaust air has failed.

Note: If there was never a bathroom fan, do not record this as a deficiency.

Level of Deficiency:

Level 1: N/A

Level 2: An exhaust fan is not functioning.

-OR-

A bathroom window cannot be opened.

Level 3: N/A

Walls (Common Areas)

The enclosures of units and rooms. Materials for construction include concrete, masonry block, brick, wood, glass block, plaster, sheet-rock. Surface finish materials include paint or wall coverings.

This inspectable item can have the following deficiencies:

• Bulging/Buckling

• Damaged

• Damaged/Deteriorated Trim

• Mold/Mildew/Water Stains/Water Damage

• Peeling/Needs Paint

Bulging/Buckling (Walls—Common Areas)

Deficiency: A wall is bowed, deflected, sagging, or is no longer aligned horizontally.

Level of Deficiency:

Level 1: N/A

Level 2: N/A

Level 3: You see bulging, buckling, sagging, or a lack of horizontal alignment.

Comment:

Level 3: If you have any doubt about the severity of the condition, request an inspection by a structural engineer.

Damaged (Walls—Common Areas)

Deficiency: You see cracks and/or punctures in the wall surface that may or may not penetrate completely. Panels or tiles may be missing or damaged.

Note:

1. This does not include small holes from hanging pictures, etc.

2. Control joints/construction joints should not be recorded as a deficiency.

3. Cracks that have been repaired or sealed properly should not be considered a deficiency.

Level of Deficiency:

Level 1: In a wall, you find a hole, crack, missing tile or panel, or other damage that is between 1 square inch and 8½ inches by 11 inches and does not penetrate the adjoining room/area. You cannot see through it to the adjoining area.

-OR-

You find a crack greater than 1/8 inch wide and at least 11 inches long.

Level 2: In a wall, you find a hole, missing tile or panel, or other damage that is larger than a sheet of paper, 8½ inches by 11 inches, and does not penetrate the adjoining room. You cannot see through it to the adjoining area.

Level 3: You find a hole of any size that penetrates an adjoining room. You can see through the hole.

-OR-

Two or more walls have Level 2 holes.

Comments:

Level 3: If a hole or crack is a health and safety concern, you must record it manually under “Hazards (Health and Safety).”

If you as an inspector have concerns about the possibility of failure, inform the property representative that an inspection by a professional engineer is suggested.

Damaged/Deteriorated Trim (Walls—Common Areas)

Deficiency: Cove molding, chair rail, base molding, or other decorative trim is damaged or has decayed.

Note: Before the inspection starts, you should be given a list of UFAS buildings/units. For the buildings/units on this list, do not record superficial surface/paint damage caused by wheelchairs, walkers, or medical devices as a deficiency.

Level of Deficiency:

Level 1: You see small areas of deterioration in the trim surfaces, and you estimate that 5% to 10% of the wall area is affected.

Level 2: You see large areas of deterioration in the trim surfaces, and you estimate that 10% to 50% of the wall area is affected.

Level 3: You see significant areas of deterioration in the wall surfaces, and you estimate that more than 50% of the wall area is affected.

Mold/Mildew/Water Stains/Water Damage (Walls—Common Areas)

Deficiency: You see mold or mildew that may have been caused by saturation or surface failure or evidence of water infiltration or other moisture producing conditions.

Level of Deficiency:

Level 1: On 1 wall, you see evidence of mold or mildew, such as a darkened area, over a large area (4 square inches to 1 square foot). You may or may not see water.

Level 2: N/A

Level 3: On 1 wall, you estimate that a very large area (more than 1 square foot) of its surface has been substantially saturated or damaged by mold, or mildew. The wall surface may have failed.

Peeling/Needs Paint (Walls—Common Areas)

Deficiency: Paint is peeling, cracking, flaking, or otherwise deteriorated.

Note: Before the inspection starts, you should be given a list of UFAS buildings/units. For the buildings/items on this list, do not record as deficiencies any superficial surface/paint damage caused by wheelchairs, walkers, or medical devices.

Level of Deficiency:

Level 1: The affected area affected is 1 to 4 square feet on 2 or more walls.

Level 2: The affected area is more than 4 square feet on any wall or walls.

Level 3: N/A

Water Closet/Toilet—Damaged/Clogged/Missing (Common Areas)

Deficiency: A water closet/toilet is damaged or missing.

Level of Deficiency:

Level 1: N/A

Level 2: Fixture elements, seat, flush handle, cover etc., are missing or damaged.

-OR-

The toilet seat is cracked, or the hinge is broken.

Level 3: The bowl is fractured or broken and cannot retain water.

-OR-

The water closet/toilet is missing.

-OR-

There is a hazardous condition.

-OR-

The water closet/toilet cannot be flushed, because of obstruction or another defect.

Windows (Common Areas)

Window systems provide light, security, and exclusion of exterior noise, glare, dust, heat, and cold. Frame materials include wood, aluminum, and vinyl.

This inspectable item can have the following deficiencies:

• Cracked/Broken/Missing Panes

• Damaged/Missing Screens

• Damaged Sills/Frames/Lintels/Trim

• Inoperable/Not Lockable

• Missing/Deteriorated Caulking/Seals/Glazing Compound

• Peeling/Needs Paint

• Security Bars Prevent Egress

Cracked/Broken/Missing Panes (Windows—Common Areas)

Deficiency: A glass pane is cracked, broken, or missing from the window sash.

Level of Deficiency:

Level 1: You see a cracked window pane.

Level 2: N/A

Level 3: You see that a glass pane is broken or missing from the window sash.

Damaged/Missing Screens (Windows—Common Areas)

Deficiency: Screens are punctured, torn, otherwise damaged, or missing.

Level of Deficiency:

Level 1: One or more screen(s) in a common area are punctured, torn, otherwise damaged, or missing.

Level 2: N/A

Level 3: N/A

Damaged Sills/Frames/Lintels/Trim (Windows—Common Areas)

Deficiency: The sill, frames, sash lintels or trim are damaged by decay, rust, rot, corrosion, or other deterioration.

Note: Damage does not include scratches and cosmetic deficiencies.

Level of Deficiency:

Level 1: You see damage to sills, frames, sash lintels or trim, but nothing is missing. The inside of the surrounding wall is not exposed. You see no impact on either the operation or functioning of the window or on its weather tightness.

Level 2: Sills, frames, sash lintels, or trim are missing or damaged enough to expose the inside of the surrounding walls and compromise its weather tightness.

Level 3: N/A

Inoperable/Not Lockable (Windows—Common Areas)

Deficiency: A window cannot be opened or closed because of damage to the frame, faulty hardware, or another cause.

Note:

1. If a window is not designed to lock, do not record this as a deficiency.

2. Windows that are accessible from the outside, for example, a ground level window, must be lockable.

Level of Deficiency:

Level 1: A window is not functioning, but can be secured. Other windows in the immediate area are functioning.

Level 2: N/A

Level 3: A window is not functioning and cannot be secured. In the immediate area, there are no other windows that are functioning properly.

Missing/Deteriorated Caulking/Seals/Glazing Compound (Windows—Common Areas)

Deficiency: The caulk, seals or glazing compound that resists weather is missing or deteriorated.

Note:

1. This includes Thermopane and insulated windows that have failed.

2. Caulk and seals are considered to be deteriorated when 2 or more seals for any window have lost their elasticity. (If the seals crumble and flake when touched, they have lost their elasticity.)

Level of Deficiency:

Level 1: Most of the window shows missing or deteriorated caulk, seals and/or glazing compound, but there is no evidence of damage to the window or surrounding structure.

Level 2: N/A

Level 3: There are missing or deteriorated caulk, seals, and/or glazing compound with Evidence of leaks or damage to the window or surrounding structure.

Peeling/Needs Paint (Windows—Common Areas)

Deficiency: Paint covering the window assembly or trim is peeling, cracking, flaking, or otherwise failing.

Level of Deficiency:

Level 1: You see paint that is peeling, cracking, flaking or otherwise failing, or a window that needs paint.

Level 2: N/A

Level 3: N/A

Security Bars Prevent Egress (Windows—Common Areas)

Deficiency: Exiting or egress is severely limited or impossible because security bars are damaged or improperly constructed or installed. Security bars that are designed to open should open. If they do not open, record a deficiency.

Note: Inspector should verify that the security bars if opened do not activate an alarm that would alarm or summon outside authorities (police, etc.).

Level of Deficiency:

Level 1: N/A

Level 2: N/A

Level 3: Exiting or egress is severely limited or impossible because security bars are damaged, improperly constructed/installed, or security bars that are designed to open cannot be readily opened.

Unit Inspectable Items

Items to inspect for “Unit” are as follows:

• Bathroom

• Call-for-Aid

• Ceiling

• Doors

• Electrical System

• Floors

• Hot Water Heater

• HVAC System

• Kitchen

• Laundry Area

• Lighting

• Outlets/Switches

• Patio/Porch/Balcony

• Smoke Detector

• Stairs

• Walls

• Windows

Bathroom (Unit)

A room equipped with a water closet or toilet, tub and/or shower, sink, cabinet(s) and/or closet. This inspectable item can have the following deficiencies:

• Bathroom Cabinets—Damaged/Missing

• Lavatory Sink—Damaged/Missing

• Plumbing—Clogged Drains

• Plumbing—Leaking Faucet/Pipes

• Shower/Tub—Damaged/Missing

• Ventilation/Exhaust System—Inoperable

• Water Closet/Toilet—Damaged/Clogged/Missing

Bathroom Cabinets—Damaged/Missing (Bathroom—Unit)

Deficiency: You see damaged or missing cabinets, vanity tops, drawers, shelves, doors, medicine cabinets, or vanities.

Level of Deficiency:

Level 1: You see damaged or missing cabinets, vanity tops, drawers, shelves, doors, medicine cabinets or vanities that are not functioning as they should for storage or their intended purpose.

Level 2: N/A

Level 3: N/A

Lavatory Sink—Damaged/Missing (Bathroom—Unit)

Deficiency: A basin (sink) is missing or shows signs of deterioration or distress.

Note: If you see the stopper near the sink area, do not record it as a deficiency.

Level of Deficiency:

Level 1: The sink can be used, but you see either of these:

—There are cracks or extensive discoloration in more than 50% of the basin;

-OR-

- A stopper is missing.

Level 2: N/A

Level 3: The sink cannot be used, because the sink or associated hardware is missing or has failed.

Plumbing—Clogged Drains (Bathroom—Unit)

Deficiency: Water does not drain adequately in the shower, tub, or basin (sink).

Level of Deficiency:

Level 1: Water does not drain freely, but the fixtures can be used.

Level 2: N/A

Level 3: The fixtures are not usable, because the drain is completely clogged or shows extensive deterioration.

Plumbing—Leaking Faucet/Pipes (Bathroom—Unit)

Deficiency: You see that a basin, shower, water closet, tub faucet, or associated pipes are leaking water.

Level of Deficiency:

Level 1: You see a leak or drip that is contained by the basin, and the faucet or pipe can be used.

Level 2: N/A

Level 3: You see a steady leak that is adversely affecting the area around it.

-OR-

The faucet or pipe cannot be used.

Shower/Tub—Damaged/Missing (Bathroom—Unit)

Deficiency: The shower, tub, or components are damaged or missing. This includes associated hardware, such as grab bars, shower doors, etc.

Note:

1. This does not include leaking faucets and pipes.

2. If you see the stopper near the shower/tub area, do not record it as a deficiency.

Level of Deficiency:

Level 1: A stopper is missing.

Level 2: The shower or tub can be used, but you see cracks or extensive discoloration in more than 50% of the basin.

Level 3: The shower or tub cannot be used for any reason. The shower, tub, faucets, drains, or associated hardware is missing or has failed.

Ventilation/Exhaust System—Inoperable (Bathroom—Unit)

Deficiency: The apparatus used to exhaust air has failed.

Note:

1. If a resident has blocked an exhaust fan but it can function properly, do not record this as a deficiency.

2. If a resident has disconnected a fan, consider it functional if it can be immediately reconnected for your inspection.

3. If there was never a bathroom fan, do not record this as a deficiency.

Level of Deficiency:

Level 1: N/A

Level 2: An exhaust fan is not functioning.

-OR-

A bathroom window cannot be opened.

Level 3: N/A

Water Closet/Toilet—Damaged/Clogged/Missing (Bathroom—Unit)

Deficiency: A water closet/toilet is damaged or missing.

Level of Deficiency:

Level 1: N/A

Level 2: Fixture elements, seat, flush handle, cover etc., are missing or damaged.

-OR-

The toilet seat is cracked, or the hinge is broken.

Level 3: The bowl is fractured or broken and cannot retain water.

-OR-

The water closet/toilet is missing.

-OR-

There is a hazardous condition.

-OR-

The water closet/toilet cannot be flushed, because of obstruction or another defect.

Call-for-Aid—Inoperable (Unit)

System to summon help. May be visual, audible, or both. May be activated manually or automatically when pre-programmed conditions are met.

Deficiency: The system does not function.

Note: Inspector should verify that the Call-for-Aid only alerts local entities (on-site) prior to testing.

Level of Deficiency:

Level 1: N/A

Level 2: N/A

Level 3: The system does not function.

Ceiling (Unit)

The visible overhead structure lining the inside of a room or area.

This inspectable item can have the following deficiencies:

• Bulging/Buckling

• Holes/Missing Tiles/Panels/Cracks

• Peeling/Needs Paint

• Mold/Mildew/Water Stains/Water Damage

Bulging/Buckling (Ceiling—Unit)

Deficiency: The ceiling is bowed, deflected, sagging, or is no longer aligned horizontally to the extent that ceiling failure is possible.

Level of Deficiency:

Level 1: N/A

Level 2: N/A

Level 3: You see bulging, buckling, sagging, or a problem with alignment.

Comment:

Level 3: If you as an inspector have concerns about the possibility of failure, inform the property representative that an inspection by a professional engineer is suggested.

Holes/Missing Tiles/Panels/Cracks (Ceiling—Unit)

Deficiency:

- The ceiling surface has punctures that may or may not penetrate completely.

-OR-

- Panels or tiles are missing or damaged.

Level of Deficiency:

Level 1: You see small holes that are no larger than a sheet of paper, 8½ inches by 11 inches.

-OR-

No hole or crack penetrates the area above.

-OR-

You see that no more than 3 tiles or panels are missing.

-OR-

You see a crack more than ⅛ inch wide and 11 inches long.

Level 2: You see a hole that is larger than a sheet of paper, 8½ inches by 11 inches, but it does not penetrate the area above. You cannot see through it.

-OR-

You see that more than 3 tiles or panels are missing.

-OR-

You see a crack more than ⅛ inch wide and 11 inches long.

Level 3: You see a hole that penetrates the area above. You can see through it.

Comment:

Level 3: If a hole or crack is a health and safety concern, you must record it manually under “Hazards (Health and Safety).”

Peeling/Needs Paint (Ceiling—Unit)

Deficiency:

—You see paint that is peeling, cracking, flaking, or otherwise deteriorated.

-OR-

—You see a surface that is not painted.

Level of Deficiency:

Level 1: The affected area is larger than 1 square foot, but smaller than 4 square feet.

Level 2: The affected area is larger than 4 square feet.

Level 3: N/A

Mold/Mildew/Water Stains/Water Damage (Ceiling—Unit)

Deficiency: You see mold or mildew that may have been caused by saturation or surface failure or evidence of water infiltration or other moisture producing conditions.

Level of Deficiency:

Level 1: On 1 ceiling, you see evidence of mold or mildew, such as a darkened area, over a large area (4 square inches to 1 square foot). You may or may not see water.

Level 2: N/A

Level 3: On 1 ceiling, you estimate that a very large area (more than 1 square foot) of its surface has been substantially saturated or damaged by mold or mildew. The ceiling surface may have failed.

Doors (Unit)

Means of access to the interior of a unit, room within the unit, or closet. Doors provide privacy and security, control passage, provide fire and weather resistance.

This inspectable item can have the following deficiencies:

• Damaged Frames/Threshold/Lintels/Trim

• Damaged Hardware/Locks

• Damaged Surface (Holes/Paint/Rust/Glass)

• Damaged/Missing Screen/Storm/Security Door

• Deteriorated/Missing Seals (Entry Only)

• Missing Door

Damaged Frames/Threshold/Lintels/Trim (Doors—Unit)

Deficiency: You see a frame, header, jamb, threshold, lintel, or trim that is warped, split, cracked, or broken.

Note: If you see damage to a door's hardware, (locks, hinges, etc.) record this under “Damage Hardware/Locks (Doors—Unit).”

Level of Deficiency:

Level 1: N/A

Level 2: At least 1 door is not functioning or cannot be locked because of damage to the frame, header, jamb, threshold, lintel, or trim.

Level 3: At least 1 bathroom door or entry door is not functioning or cannot be locked because of damage to the frame, header, jamb, threshold, lintel, or trim.

Comment:

Level 3: If the condition is a health and safety concern, you must record it manually under “Hazards (Health and Safety).”

Damaged Hardware/Locks (Doors—Unit)

Deficiency: The attachments to a door that provide hinging, hanging, opening, closing, surface protection, or security are damaged or missing. These include locks, panic hardware, overhead door tracks, springs and pulleys, sliding door tracks and hangers, and door closures.

Note:

1. If a door is designed to have a lock, the lock should work. If a door is designed without locks, do not record it as a deficiency.

2. If a lock has been removed from an interior door, do not record this as a deficiency.

3. 504 units have had locks removed. Before you start the inspection, you should be given a list of units relative to UFAS. Do not record these missing locks as deficiencies.

4. For public housing, if a lock on a bedroom door is missing or damaged, do not record it as a deficiency.

Level of Deficiency:

Level 1: A closet door does not function as it should because of damage to the door's hardware.

-OR-

A closet door that requires locking cannot be locked because of damage to the door's hardware.

Level 2: A door, other than a closet door, does not function as it should because of damage to the door's hardware.

-OR-

A door, other than a closet door, that requires locking cannot be locked because of damage to the door's hardware.

Level 3: A bathroom door or entry door does not function as it should because of damage to the door's hardware.

-OR-

A bathroom door or entry door that requires locking cannot be locked because of damage to the door's hardware.

Damaged Surface (Holes/Paint/Rust/Glass) (Doors—Unit)

Deficiency: This includes holes, peeling/cracking/no paint, broken glass and significant rust. You see damage to the door surface that:

—May affect either the surface protection or the strength of the door.

-OR-

—May compromise building security.

Note: If the door is a bathroom door or entry door, this is a Level 3 deficiency.

Level of Deficiency:

Level 1: N/A

Level 2: One interior door, not a bathroom or entry door, has a hole or holes with a diameter ranging from ¼ inch to 1 inch.

Level 3: One door has a hole or holes larger than 1 inch in diameter, significant peeling/cracking/no paint, rust that affects the integrity of the door surface, or broken/missing glass.

-OR-

If a bathroom door or entry door has Level 2 damage.

Comment:

Level 3: If the condition is a health and safety concern, you must record it manually under “Hazards (Health and Safety).”

Damaged/Missing Screen/Storm/Security Door (Doors—Unit)

Deficiency: You see damage to surfaces, including screens, glass, frames, hardware, and door surfaces.

Level of Deficiency:

Level 1: At least 1 screen door or storm door is damaged or is missing screens or glass, as shown by an empty frame or frames.

Level 2: N/A

Level 3: A security door is not functioning or missing.

Comment:

Level 3: “Missing” applies only if a security door that should be there is not there.

Deteriorated/Missing Seals (Entry Only) (Doors—Unit)

Deficiency: The seals and stripping around the entry door(s) to resist weather and fire are damaged or missing.

Note: This defect applies only to entry doors that were designed with seals. If a door shows evidence that a seal was never part of its design, do not record it as a deficiency.

Level of Deficiency:

Level 1: N/A

Level 2: N/A

Level 3: The seals are missing on 1 entry door, or they are so damaged that they do not function as they should.

Missing Door (Doors—Unit)

Deficiency: A door is missing.

Note:

1. If a bathroom or entry door is missing, record this as a Level 3 deficiency.

2. If a bedroom door has been removed to improve access for an elderly or handicapped resident, do not record this as a deficiency.

Level of Deficiency:

Level 1: A door is missing, but it is not a bathroom door or entry door.

Level 2: Two doors or up to 50% of the doors are missing, but they are not bathroom doors or entry doors, and the condition presents no hazard.

Level 3: A bathroom door or entry door is missing.

-OR-

You estimate that more than 50% of the unit doors, not including bathroom doors and entry doors, are missing.

Electrical System (Unit)

Portion of the unit that safely provides electrical power throughout the building. Includes equipment that provides control, protection, metering, and service.

This inspectable item can have the following deficiency:

• Blocked Access to Electric Panel

• Burnt Breakers

• Evidence of Leaks Corrosion

sbull; Frayed Wiring

• GFI Inoperable

• Missing Breakers/Fuses

• Missing Covers

Blocked Access to Electrical Panel (Electrical System—Unit)

Deficiency: A fixed obstruction or item of sufficient size and weight can delay or prevent access to any panel board switch in an emergency.

Note: If you see an item that is easy to remove, like a picture, do not note this as a deficient.

Level of Deficiency:

Level 1: N/A

Level 2: N/A

Level 3: One or more fixed item(s) of sufficient size and weight can impede access to the unit's electrical panel during an emergency.

Burnt Breakers (Electrical System—Unit)

Deficiency: Breakers have carbon on the plastic body, or the plastic body is melted and scarred.

Level of Deficiency:

Level 1: N/A

Level 2: N/A

Level 3: You see any carbon residue, melted breakers, or arcing scars.

Evidence of Leaks/Corrosion (Electrical System—Unit)

Deficiency: You see liquid stains, rust marks, or other signs of corrosion on electrical enclosures or hardware.

Note: Do not consider surface rust a deficiency if it does not affect the condition of the electrical enclosure.

Level of Deficiency:

Level 1: N/A

Level 2: N/A

Level 3: Any corrosion that affects the condition of the components that carry electrical current.

-OR-

Any stains or rust on the interior of electrical enclosures.

-OR-

Any evidence of water leaks in the enclosure or hardware.

Frayed Wiring (Electrical System—Unit)

Deficiency: You see nicks, abrasions, or fraying of the insulation that expose wires that conduct current.

Note: Do not consider this a deficiency for wires that are not intended to be insulated, such as grounding wires.

Level of Deficiency:

Level 1: N/A

Level 2: N/A

Level 3: You see any nicks, abrasions, or fraying of the insulation that expose any conducting wire.

Comment:

Level 3: If the condition is a health and safety concern, you must record it manually under “Electrical Hazards (Health and Safety).”

GFI—Inoperable (Electrical System—Unit)

Deficiency: The GFI does not function.

Note: To determine whether the GFI is functioning, you must press the self-test button in the GFI unit.

Level of Deficiency:

Level 1: N/A

Level 2: N/A

Level 3: The GFI does not function.

Comment:

Level 3: If this condition is a health and safety concern, you must record it under “Electrical Hazards (Health and Safety).”

Missing Breakers/Fuses (Electrical System—Unit)

Deficiency: In a panel board, main panel board, or other electrical box that contains circuit breakers/fuses, you see an open circuit breaker position that is not appropriately blanked-off.

Level of Deficiency:

Level 1: N/A

Level 2: N/A

Level 3: You see an open breaker port.

Missing Covers (Electrical System—Unit)

Deficiency: The cover is missing from any electrical device box, panel box, switch gear box, control panel, etc., with exposed electrical connections.

Level of Deficiency:

Level 1: N/A

Level 2: N/A

Level 3: A cover is missing, and you see exposed electrical connections.

Floors (Unit)

The visible horizontal surface system within a room or area underfoot; the horizontal division between 2 stories of a structure.

This inspectable item can have the following deficiencies:

• Bulging/Buckling

• Hard Floor Covering Missing/Damaged Flooring/Tiles

• Mold/Mildew/Water Stains/Water Damage

• Peeling/Needs Paint

• Rot/Deteriorated Subfloor

• Soft Floor Covering Damage

Bulging/Buckling (Floors—Unit)

Deficiency: A floor is bowed, deflected, sagging, or is no longer aligned horizontally.

Level of Deficiency:

Level 1: N/A

Level 2: N/A

Level 3: You see bulging, buckling, sagging, or a lack of horizontal alignment.

Comment:

Level 3: If you have any doubt about the severity of this condition, request an inspection by a structural engineer.

Hard Floor Covering Missing/Damaged Flooring/Tiles (Floors—Unit)

Deficiency: You see that hard flooring, terrazzo, hardwood, ceramic tile, sheet vinyl, vinyl tiles, or other similar flooring material, is missing section(s), is missing, or presents a tripping or cutting hazard, associated with but not limited to holes or delamination.

Level of Deficiency:

Level 1: For any single floor surface, you see deficiencies in areas of the floor surface. You estimate that 5% to 10% of the floor is affected, and there are no safety problems.

Level 2: You estimate that 10% to 50% of any single floor surface is affected, but there are no safety problems.

Level 3: You estimate that more than 50% of any single floor surface is affected by Level 1 deficiencies.

-OR-

The condition causes a safety problem.

Mold/Mildew/Water Stains/Water Damage (Floors—Unit)

Deficiency: You see mold or mildew that may have been caused by saturation or surface failure or evidence of water infiltration or other moisture producing conditions.

Level of Deficiency:

Level 1: N/A

Level 2: On 1 floor, you see evidence of mold or mildew, such as a darkened area, over a large area (4 square inches to 1 square foot). You may or may not see water.

Level 3: On 1 floor, you estimate that a very large area (more than 1 square foot) of its surface has been substantially saturated or damaged by mold or mildew. The floor surface may have failed.

Peeling/Needs Paint (Floors—Unit)

Deficiency: For floors that are painted, you see paint that is peeling, cracking, flaking, or otherwise deteriorated.

Level of Deficiency:

Level 1: The area affected is more than 1 square foot, but less than 4 square feet.

Level 2: The area affected is more than 4 square feet.

Level 3: N/A

Rot/Deteriorated Subfloor (Floors—Unit)

Deficiency: The subfloor has decayed or is decaying.

Note:

1. If there is any doubt, apply weight to detect noticeable deflection.

2. This type of defect typically occurs in kitchens and bathrooms.

Level of Deficiency:

Level 1: N/A

Level 2: You see small areas of rot or spongy flooring that is more than 1 square foot, but less than 4 square feet.

Level 3: You see large areas of rot, more than 4 square feet, and applying weight causes noticeable deflection.

Comment:

Level 3: If you as an inspector have concerns about the health and safety, inform the property representative that an inspection by a professional engineer is suggested.

Soft Floor Covering Missing/Damage (Floors—Unit)

Deficiency: You see damaged and/or missing soft floor covering.

Level of Deficiency:

Level 1: You estimate that only 5% to 10% of any single soft floor covering has stains, surface burns, shallow cuts, small holes, tears, loose areas, or exposed seams. The covering is fully functional, and there is no safety hazard.

Level 2: You estimate that 10% to 50% of any single soft floor covering has burn marks, cuts, tears, holes, or large sections of exposed seams that expose the underlying material. There is no safety hazard.

Level 3: You estimate that more than 50% of any single soft floor covering is damaged.

-OR-

Damage to the soft floor covering exposes the underlying material.

Comment:

Level 3: If this condition is a health and safety concern, you must record it manually under “Hazards (Health and Safety).”

Hot Water Heater (Unit)

This inspectable item can have the following deficiencies:

• General Rust/Corrosion

• Inoperable Unit/Components

• Leaking Valves/Tanks/Pipes

• Misaligned Chimney/Ventilation System

• Missing Pressure Relief Valve

General Rust/Corrosion (Hot Water Heater—Unit)

Deficiency: The equipment or associated piping/ducting shows evidence of flaking, oxidation, discoloration, pitting, or crevices.

Level of Deficiency:

Level 1: You see superficial surface rust.

Level 2: You see significant formations of metal oxides, flaking, discoloration, or a pit or crevice.

Level 3: Because of this condition, the equipment or piping does not function.

Inoperable Unit/Components (Hot Water Heater—Unit)

Deficiency: Hot water supply is not available, because the system or system components have malfunctioned.

Level of Deficiency:

Level 1: N/A

Level 2: N/A

Level 3: After running, water from the hot water taps is not warmer than room temperature.

Leaking Valves/Tanks/Pipes (Hot Water Heater—Unit)

Deficiency: You see water leaking from any hot water system component, including valve flanges, stems, bodies, domestic hot water tank, or its piping.

Level of Deficiency:

Level 1: N/A

Level 2: N/A

Level 3: You see water leaking.

Comment:

Level 3: If this condition is a health and safety concern, you must record it manually under “Hazards (Health and Safety).”

Misaligned Chimney/Ventilation System (Hot Water Heater—Unit)

Deficiency: The exhaust system on a gas fired or oil fired unit is misaligned.

Level of Deficiency:

Level 1: N/A

Level 2: N/A

Level 3: You see any misalignment of an exhaust system on a gas fired or oil fired unit that may cause improper or dangerous venting of gases.

Missing Pressure Relief Valve (Hot Water Heater—Unit)

Deficiency: The pressure relief valve on the unit water heating system is missing or does not extend to the floor.

Level of Deficiency:

Level 1: N/A

Level 2: N/A

Level 3: You see that the pressure relief valve on the unit water heating system is either missing or does not extend to the floor.

HVAC System (Unit)

System to provide heating, cooling and ventilation to the unit. This does not include building heating or cooling system deficiencies such as boilers, chillers, circulating pumps, distribution lines, fuel supply, etc., or occupant owned or supplied heating sources.

This inspectable item can have the following deficiencies:

• Convection/Radiant Heat System Covers Missing/Damaged

• General Rust/Corrosion

• Inoperable

• Misaligned Chimney/Ventilation System

• Noisy/Vibrating/Leaking

Convection/Radiant Heat System Covers Missing/Damaged (HVAC—Unit)

Deficiency: A cover on the convection/radiant heat system is missing or damaged, which could cause a burn or related injury.

Level of Deficiency:

Level 1: N/A

Level 2: N/A

Level 3: At least 1 cover is missing or substantially damaged, allowing contact with heating/surface elements or associated fans.

Comment:

Level 3: When the system is operational during an inspection and you see a Level 3 deficiency, a real-time hazard exists, you must record it manually under “Hazards (Health and Safety).”

General Rust/Corrosion (HVAC—Unit)

Deficiency: You see a component of the system with deterioration from oxidation or corrosion of system parts. Deterioration is defined as rust and/or formations of metal oxides, flaking, or discoloration, or a pit or crevice.

Level of Deficiency:

Level 1: You see deterioration from rust and corrosion on the HVAC units in the dwelling unit. The system still provides enough heating or cooling.

Level 2: N/A

Level 3: N/A

Inoperable (HVAC—Unit)

Deficiency: The heating, cooling, or ventilation system does not function.

Note: If the HVAC system does not operate because of seasonal conditions, do not record this as a deficiency.

Level of Deficiency:

Level 1: N/A

Level 2: N/A

Level 3: The HVAC system does not function; it does not provide the heating or cooling it should. The system does not respond when the controls are engaged.

Comment:

Level 3: If this condition is a health and safety concern, you must record it manually under “Hazards (Health and Safety).”

Misaligned Chimney/Ventilation System (HVAC—Unit)

Deficiency: The exhaust system on either a gas, oil fired, or coal unit is misaligned.

Level of Deficiency:

Level 1: N/A

Level 2: N/A

Level 3: You see any misalignment of an exhaust system on a gas fired, oil fired or coal unit that may cause improper or dangerous venting of gases.

Noisy/Vibrating/Leaking (HVAC—Unit)

Deficiency: The HVAC distribution components, including fans, are the source of unusual vibrations, leaks, or abnormal noise. Examples may include, but are not limited to, screeching, squealing, banging, shaking, etc.

Level of Deficiency:

Level 1: The HVAC system shows signs of abnormal vibrations, other noise, or leaks when engaged. The system still provides enough heating or cooling to maintain a minimum temperature range in the major living areas.

Level 2: N/A

Level 3: N/A

Kitchen (Unit)

A place where food is cooked or prepared. The facilities and equipment used in preparing and serving food.

This inspectable item can have the following deficiencies:

• Cabinets—Missing/Damaged

• Countertops—Missing/Damaged

• Dishwasher/Garbage Disposal—Inoperable

• Plumbing—Clogged Drains

• Plumbing—Leaking Faucets/Pipes

• Range Hoods/Exhaust Fans—Excessive Grease/Inoperable

• Range/Stove—Missing/Damaged/Inoperable

• Refrigerator—Missing/Damaged/Inoperable

• Sink—Missing/Damaged

Cabinets—Missing/Damaged (Kitchen—Unit)

Deficiency: Cabinets are missing or the laminate is separating. This includes cases, boxes, or pieces of furniture with drawers, shelves, or doors, primarily used for storage, mounted on walls or floors.

Level of Deficiency:

Level 1: N/A

Level 2: You see that 10% to 50% of the cabinets, doors, or shelves are missing or the laminate is separating.

Level 3: You see that more than 50% of the cabinets, doors, or shelves are missing or the laminate is separating.

Countertops—Missing/Damaged (Kitchen—Unit)

Deficiency: A flat work surface in a kitchen often integral to lower cabinet space is missing or deteriorated.

Level of Deficiency:

Level 1: N/A

Level 2: 20% or more of the countertop working surface is missing, deteriorated, or damaged below the laminate and is not a sanitary surface on which to prepare food.

Level 3: N/A

Dishwasher/Garbage Disposal—Inoperable (Kitchen—Unit)

Deficiency: A dishwasher or garbage disposal, if provided, does not function.

Level of Deficiency:

Level 1: N/A

Level 2: The dishwasher or garbage disposal does not function.

Level 3: N/A

Plumbing—Clogged Drains (Kitchen—Unit)

Deficiency: The water does not drain adequately.

Level of Deficiency:

Level 1: The basin does not drain freely.

Level 2: N/A

Level 3: The drain is completely clogged or has suffered extensive deterioration.

Plumbing—Leaking Faucets/Pipes (Kitchen—Unit)

Deficiency: You see that a basin faucet or drain connections leak.

Level of Deficiency:

Level 1: You see a leak or drip that is contained by the basin or pipes, and the faucet is functioning as it should.

Level 2: N/A

Level 3: You see a steady leak that is having an adverse affect on the surrounding area, and the faucet or pipe is not usable.

Range Hood/Exhaust Fans—Excessive Grease/Inoperable (Kitchen—Unit)

Deficiency: The apparatus that draws out cooking exhaust does not function.

Level of Deficiency:

Level 1: An accumulation of dirt, grease or other barrier noticeably reduces the free passage of air.

Level 2: N/A

Level 3: The exhaust fan does not function.

-OR-

You estimate that the flue may be completely blocked.

Range/Stove—Missing/Damaged/Inoperable (Kitchen—Unit)

Deficiency: The unit is missing or damaged.

Note: Before the inspection starts, you should be given a list of units under UFAS. Do not record these disconnected or partially disconnected ranges/stoves as a deficiency.

Level of Deficiency:

Level 1: The operation of doors or drawers is impeded, but the stove is functioning. On gas ranges, flames are not distributed equally. The pilot light is out on 1 or more burners.

Level 2: One burner is not functioning.

Level 3: The unit is missing.

-OR-

Two or more burners are not functioning.

-OR-

The oven is not functioning.

Comment:

Level 3: If this condition is a health and safety concern, you must record it manually under “Hazards (Health and Safety).”

Refrigerator—Missing/Damaged/Inoperable (Kitchen—Unit)

Deficiency: The refrigerator is missing or does not cool adequately for the safe storage of food.

Level of Deficiency:

Level 1: The refrigerator has an excessive accumulation of ice.

-OR-

The seals around the doors are deteriorated.

Level 2: N/A

Level 3: The refrigerator is missing.

-OR-

The refrigerator does not cool adequately for the safe storage of food.

Sink—Missing/Damaged (Kitchen—Unit)

Deficiency: A sink, faucet, or accessories are missing, damaged or not functioning.

Note: If a stopper is missing, do not record it as a deficiency.

Level of Deficiency:

Level 1: You see extensive discoloration or cracks in 50% or more of the basin, but the sink and hardware can still be used to prepare food.

Level 2: N/A

Level 3: The sink or hardware is either missing or not functioning.

Laundry Area/Room—Dryer Vent Missing/Damaged/Inoperable (Unit)

Place where soiled clothes and linens are washed and/or dried.

Deficiency: Inadequate means is available to vent accumulated heat/lint to the outside. The dryer vent is missing, damaged or inoperable.

Level of Deficiency:

Level 1: N/A

Level 2: N/A

Level 3: Dryer vent is missing, damaged or is visually determined to be inoperable (blocked). Dryer exhaust is not effectively vented to the outside.

Lighting—Missing/Inoperable (Unit)

System to provide illumination to a room or area. Includes fixtures, lamps, and supporting accessories.

Deficiency: A lighting fixture is missing or does not function as it should. The malfunction may be in the total system or components, excluding light bulbs.

Level of Deficiency:

Level 1: In 1 room in a unit, a permanent lighting fixture is missing or not functioning, and no other switched light source is functioning in the room.

Level 2: In 2 rooms, a permanent lighting fixture is missing or not functioning, and no other switched light source is functioning in the rooms.

Level 3: In more than 2 rooms, a permanent light fixture is missing or not functioning, and no other switched light sources are functioning in the rooms.

Outlets/Switches (Unit)

The receptacle connected to a power supply or method to control the flow of electricity. Includes 2 and 3 prong outlets, ground fault interrupters, pull cords, 2 and 3 pole switches and dimmer switches.

This inspectable item can have the following deficiencies:

• Missing

• Missing/Broken Cover Plates

Missing (Outlets/Switches—Unit)

Deficiency: An outlet, switch or both are missing.

Note: This does not apply to empty junction boxes that were not intended to contain an outlet or switch.

Level of Deficiency:

Level 1: N/A

Level 2: N/A

Level 3: An outlet, switch or both are missing.

Comment:

Level 3: If this condition is a health and safety concern, you must record it manually under “Electrical Hazards (Health and Safety).”

Missing/Broken Cover Plates (Outlets/Switches—Unit)

Deficiency: The flush plate used to cover the opening around a switch or outlet is damaged or missing.

Level of Deficiency:

Level 1: An outlet or switch has a broken cover plate over a junction box, but this does not cause wires to be exposed.

Level 2: N/A

Level 3: A cover plate is missing, which causes wires to be exposed.

Patio/Porch/Balcony—Baluster/Side Railings Damaged (Unit)

Adjoining patio, porch or balcony.

Deficiency: A baluster or side railing on the porch/patio/balcony is loose, damaged or does not function, which limits the safe use of this area.

Level of Deficiency:

Level 1: N/A

Level 2: N/A

Level 3: The baluster or side rails enclosing this area are loose, damaged or missing, limiting the safe use of this area.

Smoke Detector—Missing/Inoperable (Unit)

Sensor to detect the presence of smoke and activate an alarm. May be battery operated or hard-wired to electrical system. May provide visual signal, audible signal or both.

Deficiency: A smoke detector will not activate or is missing.

Note:

1. There must be at least 1 smoke detector on each level.

2. If 2 or more smoke detectors are on the same level in visible proximity, at least 1 of the smoke detectors must function as it should.

Level of Deficiency:

Level 1: N/A

Level 2: N/A

Level 3: A single smoke detector is missing or does not function as it should.

Stairs (Unit)

Series of 4 or more steps, or flights of steps, joined by landings connecting levels of a unit. Includes supports, frame, treads and handrails.

This inspectable item can have the following deficiencies:

• Broken/Damaged/Missing Steps

• Broken/Missing Hand Railing

Broken/Damaged/Missing Steps (Stairs—Unit)

Deficiency: The horizontal tread or stair surface is damaged or missing.

Level of Deficiency:

Level 1: N/A

Level 2: N/A

Level 3: A step is broken or missing.

Broken/Missing Hand Railing (Stairs—Unit)

Deficiency: The handrail is damaged or missing.

Level of Deficiency:

Level 1: N/A

Level 2: N/A

Level 3: The handrail for 4 or more stairs is either missing, damaged, loose or otherwise unusable.

Walls (Unit)

The enclosure of the units and rooms. Materials for construction include concrete, masonry block, brick, wood, glass block, plaster and sheet-rock. Surface finish materials include paint and wall coverings.

This inspectable item can have the following deficiencies:

• Bulging/Buckling

• Damaged

• Damaged/Deteriorated Trim

• Mold/Mildew/Water Stains/Water Damage

• Peeling/Needs Paint

Bulging/Buckling (Walls—Unit)

Deficiency: A wall is bowed, deflected, sagged or is no longer vertically aligned.

Level of Deficiency:

Level 1: N/A

Level 2: N/A

Level 3: You see bulging, buckling, sagging, or that the wall is no longer vertically aligned.

Comment:

Level 3: If you have any doubt about the severity of the condition, request an inspection by a structural engineer.

Damaged (Walls—Unit)

Deficiency: You see cracks and/or punctures in the wall surface that may or may not penetrate completely. Panels or tiles may be missing or damaged.

Note:

1. This does not include small holes created by hanging pictures, etc.

2. Control joints/construction joints should not be recorded as a deficiency.

3. Cracks that have been repaired or sealed properly should not be considered a deficiency.

Level of Deficiency:

Level 1: In a wall, you find a hole, crack, missing tile or panel, or other damage that is between 1 square inch and 8½ inches by 11 inches. The hole does not penetrate the adjoining room/area. You cannot see through it to the adjoining area.

-OR-

You find a crack greater than 1/8 inch wide and at least 11 inches long.

Level 2: In a wall, you find a hole, missing tile or panel, or other damage that is larger than a sheet of paper, 8 ½ inches by 11 inches, and does not penetrate the adjoining room. You cannot see through it to the adjoining area.

Level 3: You find a hole of any size that penetrates an adjoining room. You can see through the hole.

-OR-

Two or more walls have Level 2 holes.

Comments:

Level 3: If a hole or crack is a health and safety concern, you must record it manually under “Hazards (Health and Safety).”

If you as an inspector have concerns about the possibility of failure, inform the property representative that an inspection by a professional engineer is suggested.

Damaged/Deteriorated Trim (Walls—Unit)

Deficiency: Cove molding, chair rail, base molding or other decorative trim is damaged or has decayed.

Note: Before the inspection starts, you should be given a list of UFAS buildings/units. For the buildings/units on this list, do not record superficial surface/paint damage caused by wheelchairs, walkers or medical devices as a deficiency.

Level of Deficiency:

Level 1: You see small areas of deterioration in the trim surfaces, and you estimate that 5% to 10% of the wall area is affected.

Level 2: You see large areas of deterioration in the trim surfaces, and you estimate that 10% to 50% of the wall area is affected.

Level 3: You see significant areas of deterioration in the wall surfaces, and you estimate that more than 50% of the wall area is affected.

Mold/Mildew/Water Stains/Water Damage (Walls—Unit)

Deficiency: You see mold or mildew that may have been caused by saturation or surface failure or evidence of water infiltration or other moisture producing conditions.

Level of Deficiency:

Level 1: On 1 wall, you see evidence of mold or mildew, such as a darkened area, over a large area (4 square inches to 1 square foot). You may or may not see water.

Level 2: N/A

Level 3: On 1 wall, you estimate that a very large area (more than 1 square foot) of its surface has been substantially saturated or damaged by mold, or mildew. The wall surface may have failed.

Peeling/Needs Paint (Walls—Unit)

Deficiency:

—Paint is peeling, cracking, flaking or otherwise deteriorated.

-OR-

—A surface is not painted.

Note: Before the inspection starts, you should be given a list of UFAS buildings/units. For the buildings/items on this list, do not record as deficiencies any superficial surface/paint damage caused by wheelchairs, walkers or medical devices.

Level of Deficiency:

Level 1: The affected area affected is more than 1 square foot but less than 4 square feet.

Level 2: The affected area is more than 4 square feet.

Level 3: N/A

Windows (Unit)

Window systems provide light, security, and exclusion of exterior noise, dust, heat, and cold. Frame materials include wood, aluminum and vinyl.

This inspectable item can have the following deficiencies:

• Cracked/Broken/Missing Panes

• Damages/Missing Screens

• Damaged Sills/Frames/Lintels/Trim

• Inoperable/Not Lockable

• Missing/Deteriorated Caulking/Seals

• Peeling/Needs Paint

• Security Bars Prevent Egress

Cracked/Broken/Missing Panes (Windows—Unit)

Deficiency: A glass pane is cracked, broken or missing from the window sash.

Level of Deficiency:

Level 1: You see a cracked window pane.

Level 2: N/A

Level 3: You see that a window pane is broken or missing from the window sash.

Damaged/Missing Screens (Windows—Unit)

Deficiency: Screens are punctured, torn, otherwise damaged, or missing.

Level of Deficiency:

Level 1: One or more screen(s) in a unit are punctured, torn, otherwise damaged, or missing.

Level 2: N/A

Level 3: N/A

Damaged Sills/Frames/Lintels/Trim (Windows—Unit)

Deficiency: The sill, frames, sash lintels or trim are damaged by decay, rust, rot, corrosion, or other deterioration.

Note: Damage does not include scratches and cosmetic deficiencies.

Level of Deficiency:

Level 1: You see damage to sills, frames, sash lintels or trim, but nothing is missing. The inside of the surrounding wall is not exposed. You see no impact on either the operation or functioning of the window or on its weather tightness.

Level 2: Sills, frames, sash lintels, or trim are missing or damaged enough to expose the inside of the surrounding walls and compromise its weather tightness.

Level 3: N/A

Inoperable/Not Lockable (Windows—Unit)

Deficiency: A window cannot be opened or closed because of damage to the frame, faulty hardware or another cause.

Note:

1. If a window is not designed to lock, do not record this as a deficiency.

2. Windows that are accessible from the outside, for example, a ground level window, must be lockable.

Level of Deficiency:

Level 1: A window is not functioning and can be secured. Other windows in the immediate area are functioning.

Level 2: N/A

Level 3: A window is not functioning, but cannot be secured. In the immediate area, there are no other windows that are functioning properly.

Missing/Deteriorated Caulking/Seals/Glazing Compound (Windows—Unit)

Deficiency: The caulk, seals or glazing compound that resists weather is missing or deteriorated.

Note:

1. This includes Thermopane and insulated windows that have failed.

2. Caulk and seals are considered to be deteriorated when 2 or more seals for any window have lost their elasticity. (If the seals crumble and flake when touched, they have lost their elasticity.)

Level of Deficiency:

Level 1: Most of the window shows missing or deteriorated caulk, seals and/or glazing compound but there is no evidence of damage to the window or surrounding structure.

Level 2: N/A

Level 3: There are missing or deteriorated caulk, seals and/or glazing compound with evidence of leaks or damage to the window or surrounding structure.

Peeling/Needs Paint (Windows—Unit)

Deficiency: Paint covering the window assembly or trim is cracking, flaking or otherwise failing.

Level of Deficiency:

Level 1: You see peeling paint or a window that needs paint.

Level 2: N/A

Level 3: N/A

Security Bars Prevent Egress (Windows—Unit)

Deficiency: Exiting or egress is severely limited or impossible because security bars are damaged or improperly constructed or installed. Security bars that are designed to open should open. If they do not open, record a deficiency.

Note: Inspector should verify that the security bars if opened do not activate an alarm that would alarm or summon outside authorities (police, etc.).

Level of Deficiency:

Level 1: N/A

Level 2: N/A

Level 3: Exiting or egress is severely limited or impossible, because security bars are damaged, improperly constructed/installed, or security bars that are designed to open cannot be readily opened.

Health and Safety Inspectable Items

Items to inspect for “Health and Safety” are as follows:

• Air Quality

• Electrical Hazards

• Elevator

• Emergency/Fire Exits

• Flammable Materials

• Garbage and Debris

• Hazards

• Infestation

Air Quality (Health and Safety)

Indoor/outdoor spaces must be free from high levels of sewer gas, fuel gas, mold, mildew or other harmful pollutants. Indoors must have adequate ventilation.

The following deficiencies can be noted:

• Mold and/or Mildew Observed

• Propane/Natural Gas/Methane Gas Detected

• Sewer Odor Detected

Mold and/or Mildew Observed (Air Quality—Health and Safety)

Deficiency: You see mold or mildew or evidence of water infiltration or other moisture producing conditions.

Note: If the area has at least 1 square foot of mold or mildew, record it as a deficiency.

Propane/Natural Gas/Methane Gas Detected (Air Quality—Health and Safety)

Deficiency: You detect strong propane, natural gas, or methane gas odors that could:

—Pose a risk of explosion/fire.

—Pose a health risk if inhaled.

Sewer Odor Detected (Air Quality—Health and Safety)

Deficiency: You detect sewer odors.

Electrical Hazards (Health and Safety)

Any hazard that poses a risk of electrical fires, electrocution or spark/explosion.

The following deficiencies can be noted:

• Exposed Wires/Open Panels

• Water Leaks On or Near Electrical Equipment

Exposed Wires/Open Panels (Electrical Hazards—Health and Safety)

Deficiency: You see exposed bare wires or openings in electrical panels.

Note:

1. If the accompanying property representative has identified abandoned wiring, capped wires do not pose a risk and should not be recorded as a deficiency. They must be enclosed in a junction box as defined in Note 2, below.

2. If the capped wires are not properly enclosed in a junction box, record as a deficiency.

Water Leaks On or Near Electrical Equipment (Electrical Hazards—Health and Safety)

Deficiency: You see water leaking, puddling or ponding on or immediately near any electrical apparatus. This could pose a risk of fire, electrocution or explosion.

Elevator—Tripping (Health and Safety)

Vertical conveyance system for moving personnel, equipment, materials, household goods, etc.

Deficiency: An elevator is misaligned with the floor by more than 3/4 inch. The elevator does not level as it should, which causes a tripping hazard.

Emergency/Fire Exits (Health and Safety)

All buildings must have acceptable fire exits that are also properly marked and operational. This includes fire towers, stairway access doors and external exits. These can include operable windows on the lower floors with easy access to the ground or a back door opening onto a porch with a stairway leading to the ground.

Note: This does not apply to individual units.

The following deficiencies can be noted:

• Blocked/Unusable (Emergency/Fire Exits)

• Missing Exit Signs

Blocked/Unusable (Emergency/Fire Exits—Health and Safety)

Deficiency: The exit cannot be used or exit is limited because a door or window is nailed shut, a lock is broken, panic hardware is chained, debris, storage or other conditions.

Missing Exit Signs (Emergency/Fire Exits—Health and Safety)

Deficiency:

—Exit signs that clearly identify all emergency exits are missing.

-OR-

—There is no adjacent or other internal illumination in operation on or near the sign.

Flammable/Combustible Materials—Improperly Stored (Health and Safety)

Any substance that is either known to be combustible or flammable or is stored in a container identifying it as such.

Deficiency: Flammable materials or combustible materials are improperly stored near a heat or electrical source, causing the potential risk of fire or explosion.

Note: Flammable or combustible materials may include, but are not limited to, gasoline, paint thinners, kerosene, propane, paper, boxes, etc.

Garbage and Debris (Health and Safety)

Accumulation of garbage and debris exceeding the capacity of the storage area or not stored in an area sanctioned for such use.

The following deficiencies can be noted:

• Indoors

• Outdoors

Indoors (Garbage and Debris—Health and Safety)

Deficiency:

—Too much garbage has gathered, more than the planned storage capacity.

-OR-

—Garbage has gathered in an area that is not sanctioned for staging or storing garbage or debris.

Note: This does not include garbage and debris improperly stored outside. For this deficiency, see “Outdoors (Garbage and Debris—Health and Safety).”

Outdoors (Garbage and Debris—Health and Safety)

Deficiency:

—Too much garbage has gathered; more than the planned storage capacity.

-OR-

—Garbage has gathered in an area not sanctioned for staging or storing garbage or debris.

Note: This does not include garbage improperly stored indoors. For this deficiency, see “Indoors (Garbage and Debris—Health and Safety).”

Hazards (Health and Safety)

Physical hazards that pose risk of bodily injury.

The following deficiencies can be noted:

• Sharp Edges

• Tripping

• Other Hazards

Deficiency: If you see any general defects or hazards that pose risk of bodily injury, you must note them.

Sharp Edges (Hazards—Health and Safety)

Deficiency: You see any physical defect that could cause cutting or breaking human skin or other bodily harm, generally in commonly used or traveled areas.

Tripping (Hazards—Health and Safety)

Deficiency: You see any physical defect that poses a tripping risk, generally in walkways or other traveled areas. Typically, the defect must present at least a three-quarter inch deviation.

Note: This does not include tripping hazards from elevators that do not level properly. For this deficiency, see “Elevator Tripping (Health and Safety).”

Other Hazards (Hazards—Health and Safety)

Note: “Other” includes hazards that are not specifically defined elsewhere.

Infestation (Health and Safety)

Presence of rats, or severe infestation by mice or insects such as roaches or termites.

The following deficiencies can be noted:

• Insects

• Rats/Mice/Vermin

Insects (Infestation—Health and Safety)

Deficiency: You see evidence of infestation of insects, including roaches and ants, throughout a unit or room, especially in food preparation and storage areas.

Note:

1. This does not include infestation from rats/mice. For this deficiency, see “Rats/Mice/Vermin (Infestation—Health and Safety).”

2. If you see baits, traps, and sticky boards that show no presence of insects, do not record this as a deficiency.

Rats/Mice/Vermin (Infestation—Health and Safety)

Deficiency: You see evidence of rats or mice sightings, rat or mouse holes, or droppings.

Note:

1. This does not include infestation from insects. For this deficiency, see “Insects (Infestation—Health and Safety).”

2. If you see baits, traps, or sticky boards that show no presence of vermin, do not record this as a deficiency.

[FR Doc. 2012-19335 Filed 8-8-12; 8:45 am]

BILLING CODE 4210-67-P